ENVIRONMENTAL PROTECTION AGENCY

40 CFR Part 52

[EPA-R04-OAR-2021-0930; FRL-10403-02-R4]

Air Plan Approval; Florida; Second Planning Period Regional Haze Plan

AGENCY: Environmental Protection Agency (EPA).

ACTION: Final rule.

SUMMARY: The Environmental Protection Agency (EPA) is approving a regional haze State Implementation Plan (SIP) revision submitted by the Florida Department of Environmental Protection (FDEP) on October 8, 2021, and supplemented on June 14, 2024, and October 28, 2024, as satisfying applicable requirements under the Clean Air Act (“CAA” or “Act”) and EPA's Regional Haze Rule (RHR) for the program's second planning period. Florida's SIP submissions were submitted to address the requirement that states must periodically revise their long-term strategies for making reasonable progress toward the national goal of preventing any future, and remedying any existing, anthropogenic impairment of visibility, including regional haze, in mandatory Class I Federal areas (hereinafter referred to as “Class I areas”). These SIP submissions also address other applicable requirements for the second planning period of the regional haze program. EPA is taking this action pursuant to sections 110 and 169A of the Act.

DATES: This rule is effective July 7, 2025.

ADDRESSES: EPA has established a docket for this action under Docket Identification No. EPA-R04-OAR-2021-0930. All documents in the docket are listed on the regulations.gov website. Although listed in the index, some information may not be publicly available, i.e., Confidential Business Information or other information whose disclosure is restricted by statute. Certain other material, such as copyrighted material, is not placed on the internet and will be publicly available only in hard copy form. Publicly available docket materials are available either electronically through www.regulations.gov or in hard copy at the Air Regulatory Management Section, Air Planning and Implementation Branch, Air and Radiation Division, U.S. Environmental Protection Agency, Region 4, 61 Forsyth Street SW, Atlanta, Georgia 30303-8960. EPA requests that, if at all possible, you contact the person listed in the FOR FURTHER INFORMATION CONTACT section to schedule your inspection. The Regional Office's official hours of business are Monday through Friday, 8:30 a.m. to 4:30 p.m., excluding Federal holidays.

FOR FURTHER INFORMATION CONTACT: Pearlene Williams-Miles, Multi-Air Pollutant Coordination Section, Air Planning and Implementation Branch, Air and Radiation Division, U.S. Environmental Protection Agency, Region 4, 61 Forsyth Street SW, Atlanta, Georgia 30303-8960. Ms. Williams-Miles can be reached via telephone at (404) 562-9144 or electronic mail at williamsmiles.pearlene@epa.gov.

SUPPLEMENTARY INFORMATION:

I. Background

On October 8, 2021, June 14, 2024, and October 28, 2024, FDEP submitted revisions to its SIP to address regional haze for the second planning period (“Haze Plan”).1 2 3 FDEP made these SIP submissions to satisfy the requirements of the CAA's regional haze program pursuant to CAA sections 169A and 169B and 40 Code of Federal Regulations (CFR) 51.308. EPA has determined that the Haze Plan meets the applicable statutory and regulatory requirements and is thus approving Florida's submissions into its SIP.

¹ “Haze Plan” collectively refers to the October 8, 2021, June 14, 2024, and October 28, 2024, SIP submissions. The phrase “2021 Plan” refers to the October 8, 2021, SIP submission; “2024 Supplement” refers to the June 14, 2024, SIP submission, which supplements the 2021 Plan; and “Second 2024 Supplement” refers to the October 28, 2024, SIP submission, which also supplements the 2021 Plan.

² The 2021 Plan requests removal of source-specific and best available retrofit technology (BART) limits and conditions from the Florida SIP that address source-specific reasonable progress and BART control measures during the first planning period. On June 14, 2024, FDEP withdrew this request from its SIP revision, and thus, there is no action for EPA to take on this request.

³ The October 28, 2024, submission contains permits and a Four Factor Analysis (FFA) for the Georgia-Pacific—Foley Cellulose Perry Mill (Foley). In a letter dated April 8, 2025, FDEP withdrew its request to incorporate permit conditions for Foley from its SIP revision,and thus, there is no action for EPA to take on this request. This letter is included in the docket for this rulemaking.

Through a notice of proposed rulemaking (NPRM) published on December 27, 2024 (89 FR 105506), EPA proposed to approve Florida's Haze Plan as satisfying the regional haze requirements for the second planning period contained in the CAA and 40 CFR 51.308. EPA described its rationale for proposing approval of the Haze Plan in the December 27, 2024, NPRM. Comments on the December 27, 2024, NPRM were due on or before January 27, 2025. EPA received two sets of comments on the NPRM, one of which was a request for an extension to the public comment period. These comments are available in the docket for this action.

II. Response to Comments

In response to the NPRM, EPA received a comment letter dated January 27, 2025, and signed by the National Parks Conservation Association (NPCA), Sierra Club, the Coalition to Protect America's National Parks, and Friends of the Everglades (collectively referred to as the “Conservation Groups”). Additionally, EPA received a request for an extension to the public comment period dated January 9, 2025, signed by Laumann Legal, LLC, NPCA, Sierra Club, and the Coalition to Protect America's National Parks. All comments received are available in the docket for this action. A summary of the significant comments received from the Conservation Groups and EPA's responses to these comments is below.

Comment 1: The Conservation Groups contend that EPA's proposal to approve Florida's reliance on the Visibility Improvement State and Tribal Association of the Southeast's (VISTAS) visibility modeling is arbitrary and capricious because the Agency ignored significant flaws in this modeling. They state that they informed VISTAS and EPA of significant errors in the visibility modeling through a 2021 letter and that EPA did not acknowledge these errors in the NPRM. They contend these errors affected the source selection process for all of the VISTAS states. Consequently, they assert that Florida improperly excluded major sources of haze-forming pollution from FFAs. These alleged errors are addressed in Comments 1.a through 1.c below.

Comment 1.a: The Conservation Groups contend that the VISTAS modeling significantly underpredicted the contribution of sulfates to visibility impairment at Class I areas on the 20 percent most impaired days and that this underprediction was largest during the summer months when sulfate extinction is known to be a major contributor to visibility impairment, and when visibility impairment is most problematic.⁴ They also assert that these errors resulted in the modeling not meeting VISTAS' model performance goals and modeling acceptance criteria for a number of Class I areas. They provide examples of specific Class I areas in Florida where they contend the visibility modeling “failed to meet the acceptance criteria for sulfate” at Chassahowitzka National Wilderness Area (Chassahowitzka) by −30.37 percent, and at St. Marks National Wilderness Area (St. Marks) by −40.16 percent. They further assert that, although Florida claims that it corrected for these underpredictions through the use of relative response factors (RRFs) for its 2028 future year projections, neither Florida nor EPA assessed whether use of RRFs adequately corrected for errors in the modeling. They state that according to EPA's 2018 modeling guidance, the effectiveness of RRFs is dependent on the type of data used to calculate them.⁵

⁴ Areas statutorily designated as mandatory Federal Class I areas consist of national parks exceeding 6,000 acres, wilderness areas and national memorial parks exceeding 5,000 acres, and all international parks that were in existence on August 7, 1977. CAA section 162(a). There are 156 mandatory Class I areas. The list of areas to which the requirements of the visibility protection program apply is in 40 CFR part 81, subpart D.

⁵ EPA's Modeling Guidance for Demonstrating Air Quality Goals for Ozone, PM2.5 and Regional Haze (November 29, 2018) (“2018 Modeling Guidance”) is in the docket for this rulemaking and is also available at: https://www.epa.gov/sites/default/files/2020-10/documents/o3-pm-rh-modeling_guidance-2018.pdf.

Response 1.a: EPA disagrees that there are significant flaws in Florida's 2028 visibility modeling that resulted in excluding major sources of haze-forming pollution from evaluation via FFAs for the second planning period. As the Conservation Groups state, Florida relied upon the photochemical visibility modeling performed by VISTAS to project the impact of the State's 2028 sulfur dioxide (SO2) and nitrogen oxide (NOX) emissions on visibility in both in-state and out-of-state Class I areas. VISTAS performed the modeling in accordance with the principles described within EPA's “Modeling Guidance for Demonstrating Air Quality Goals for Ozone, PM2.5 and Regional Haze” (2018 Modeling Guidance).⁶ In 2018, EPA approved the Quality Assurance Project Plan ⁷ prepared by VISTAS for performing the modeling and reviewed and provided comments on the VISTAS Modeling Protocol. EPA also reviewed the VISTAS final modeling reports and data relied upon by Florida and found them acceptable.

⁶ Id.

⁷ The April 3, 2018, Quality Assurance Project Plan for the VISTAS II Regional Haze Project is located in appendix A-1 of the 2021 Plan.

Regarding sulfate predictions, figure 6-7 of Florida's Haze Plan shows the results of the normalized mean bias and normalized mean error statistical model performance tests for sulfates across the VISTAS region. Figure 6-7 does show that the modeled sulfate levels are biased low, with some values falling outside of the model performance criteria. However, as discussed below, these biases are not uncommon in photochemical modeling analyses and can be addressed with additional analyses.

Model bias and error, either high or low, is not uncommon in photochemical modeling analyses due to uncertainties in model inputs and the scientific model formulation, and the fact that all air quality models are simplified approximations of the complex phenomena of atmospheric chemistry, fate, and transport of pollutants. Section 6.0 of EPA's 2018 Modeling Guidance discusses uncertainties that may affect model results and provides recommendations to mitigate modeling bias and uncertainty. Florida acknowledges that model performance is biased low on the 20 percent most impaired days and provided an explanation of why this modeling was appropriate for its regulatory determinations in the 2021 Plan (which references the 2018 Modeling Guidance in several instances). The 2018 Modeling Guidance states that it is not appropriate to use a “bright-line test” for distinguishing between adequate and inadequate photochemical model performance for a single performance test statistic.⁸ EPA's 2018 Modeling Guidance instead recommends using a “weight of evidence” approach for evaluating model performance holistically.⁹

⁸ See 2018 Modeling Guidance at 69 (“Further, even with a single performance test, it is not appropriate to assign “bright line” criteria that distinguish between adequate and inadequate model performance.”).

⁹ Id. (“[T]he EPA recommends that a “weight of evidence” approach be used to determine whether a particular modeling application is valid for assessing the future attainment status of an area.”).

As discussed in section 5.2(d) of EPA's “Guideline on Air Quality Models” contained in 40 CFR part 51, appendix W, there are no specific levels of any model performance metric that indicate acceptable model performance. The decision regarding acceptability is heavily influenced by professional judgment of the reviewing authority, which is EPA in this case. Based upon the overall performance of the model for all pollutants affecting visibility, considered holistically, Florida's conclusions that the modeling is acceptable for use in the regional haze SIP analyses are reasonable, and Florida provided a reasonable explanation for the model bias.

Just as importantly, Florida took appropriate steps to correct for this model bias. The Haze Plan explains that the model is applied in a relative sense through the calculation of RRFs following the procedures in 2018 Modeling Guidance for calculating 2028 future year visibility impacts, which mitigates concerns about the low bias in the sulfate model predictions. As described in EPA's 2018 Modeling Guidance, RRFs are “the fractional change in air quality concentrations that is simulated due to emissions changes between a base and a future year emissions scenario.” ¹⁰

¹⁰ Id. at 103.

EPA agrees with Florida that applying the model in a relative sense using the RRFs is an important tool in mitigating the impacts of the sulfate modeling underpredictions in the 2011 baseline year on the model projections for the 2028 future year. Section 4.1 of the 2018 Modeling Guidance provides a detailed explanation of why EPA recommends photochemical modeling be applied in a relative sense and explains that problems posed by model bias are expected to be reduced when using the relative approach. Section 6.5 of Florida's 2021 Plan explains the calculation of 2028 visibility estimates using the RRF approaches contained in EPA's 2018 Modeling Guidance. Using the RRF approach with an average of five years of Interagency Monitoring of Protected Visual Environments (IMPROVE) ¹¹ data on the 20 percent most impaired days and 20 percent clearest days along with the relative percent modeled change in all the particulate matter (PM) species between 2011 and 2028 reduces the influence of the bias in sulfate-modeled (and other PM species) values in the 2011 baseline year. The 2028 visibility impairment projection is derived primarily from the five-year average of actual IMPROVE monitoring data in 2009-2013 that was then scaled in a relative sense by the modeling results. If the model were being applied in an absolute sense, the low bias in the sulfate modeled values would have a larger impact on the 2028 visibility projections. For these reasons, Florida's use of the VISTAS model results to inform source selection was reasonable due to the use of RRFs to minimize the impacts of model bias.

¹¹ IMPROVE visibility monitoring data is available at: https://vista.cira.colostate.edu/Improve/.

Comment 1.b: The Conservation Groups state that VISTAS relied on an “outdated” 2011 baseline year for its 2028 future year emissions projections and assumed that electric generating units (EGUs) would operate in the exact same manner in 2028 as they did in 2011. Thus, they assert that the model assumptions and results are incorrect because EGUs are likely to have different load utilization in 2028 than in 2011.

Response 1.b: Florida's use of a 2011 base emissions inventory year to project emissions out to 2028 (the end of the second planning period) is reasonable in this instance. Although it is always preferable to use the most recent information available for modeling, the 2011 baseline year inventory used by VISTAS was the latest region-wide inventory available at the time that Florida's SIP submittal was being developed during the VISTAS technical work, which took place from December 2017 to February 26, 2021.¹² In EPA's experience, coordination among states such as those in the VISTAS region takes time, and the modeling involved is time-consuming, highly technical, and resource intensive. The modeling generally requires hundreds of hours of time to gather the model input data (e.g., emissions, meteorology, land-use, etc.), prepare modeling protocols, perform the modeling, and analyze the results. The computational resources to run photochemical models are also very large. “Mainframe” clusters of a large number of computer processors are required to run the models, and even using these powerful computers, it takes weeks of computer run-time for a full-year model simulation. Additionally, EPA's newer 2016-based modeling platform only became available in September 2019,¹³ after VISTAS had already invested a considerable amount of time and money into the regional haze modeling analysis, including the Comprehensive Air Quality Model with Extensions (CAMx) Particulate Matter Source Apportionment Technology (PSAT) source apportionment modeling that was used to identify sources to evaluate or reasonable progress.¹⁴

¹² See “Timeline” for the VISTAS II Regional Haze Project at: https://www.metro4-sesarm.org/content/vistas-regional-haze-project-intro.

¹³ See “Technical Support Document for EPA's Updated 2028 Regional Haze Modeling” at: https://www.epa.gov/visibility/technical-support-document-epas-updated-2028-regional-haze-modeling.

¹⁴ As discussed in section 6.6 of Florida's 2021 Plan, Florida evaluated the results of EPA's 2016 modeling for Everglades due to issues with model performance in the VISTAS 2028 modeling results for Everglades. See the September 29, 2018, memo from EPA (Richard Wayland) regarding Availability of Modeling Data and Associated Technical Support Document for the EPA's Updated 2028 Visibility Air Quality Modeling in the docket for this rulemaking. Due to these uncertainties, Florida instead relied on the results of EPA's 2016 modeling. EPA's 2016 modeling did not include PSAT tagging of individual sources like the VISTAS modeling, so for selecting sources to evaluate for control analyses, Florida used the VISTAS PSAT modeling results at Everglades like it did for Chassahowitzka and St. Marks. As discussed in section 7.4 of the 2021 Plan, both the VISTAS Modeling and EPA's 2016 Modeling show that EGU and non-EGU point sources contribute approximately five percent to total light extinction at Everglades, indicating that model performance for evaluating the impacts of EGU and non-EGU point sources is similar. Therefore, Florida's use of the PSAT modeling for source selection is acceptable to EPA.

EPA develops the National Emissions Inventory (NEI) suitable for use in such models every three years.¹⁵ By design, the regional haze program requires states to spend significant time in the planning phase, and this generally necessitates the use of a baseline year that is substantially earlier than the date the state submits its SIP to EPA. There is no RHR requirement regarding the baseline year for regional photochemical modeling (nor is photochemical modeling required). Florida justifies the use of this particular baseline year and states that the 2011 emissions inventory was the most recently available quality-assured statewide emissions inventory when the VISTAS project began for the second planning period.¹⁶ Moreover, prior to using this data, Florida discussed the selection of this baseline year emissions inventory and received confirmation from EPA to use this emissions inventory.¹⁷ Given the aforementioned reasons, EPA finds the use of the 2011 baseline year by VISTAS, and thus Florida, reasonable.

¹⁵ For more information on the NEI, see https://www.epa.gov/air-emissions-inventories/national-emissions-inventory-nei.

¹⁶ See 2021 Plan at 56 (“The year 2011 was selected as the modeling base year because the VISTAS 2028 emissions inventory is based on the 2011 Version 6 EPA modeling platform. For the analyses in this SIP, this period consists of those years surrounding 2011 (i.e., 2009-2013)”). See also 2021 Plan at 83 (“Calendar year 2011 satisfies the criteria in EPA's modeling guidance episode selection discussion and is consistent with the base year modeling platform. Specifically, EPA's guidance recommends choosing a time period which reflects the variety of meteorological conditions that represent visibility impairment on the 20 percent clearest and 20 percent most-impaired days in the Class I areas being modeled (high and low concentrations). This is best accomplished by modeling a full calendar year. In addition, the 2011/2028 modeling platform was the most recent available platform when VISTAS started their modeling work. EPA's 2016-based platform became available at a later date after VISTAS had already invested a considerable amount of time and money into the modeling analysis. Using the 2016-based platform was not feasible from a monetary perspective, nor could such work be done in a timely manner.”).

¹⁷ See the January 29, 2018, email from EPA (Richard Wayland) regarding use of a 2011 base year by VISTAS for regional haze in the docket for this rulemaking.

The 2011 emissions inventory was used to estimate emissions of visibility impairing pollutants in 2028. VISTAS applied reductions expected from Federal and state regulations to the visibility impairing pollutants NOX, PM, and SO2. Florida's 2028 emissions projections are based on the State's technical analysis of the anticipated emission rates and level of activity for EGUs, other point sources, non-point sources, on-road sources, and off-road sources based on their emissions in the 2011 base year, considering growth and additional emissions controls to be in place by 2028. In addition, the VISTAS emissions inventory for 2028 accounts for post-2011 emission reductions from promulgated Federal, state, local, and site-specific control programs.

Although Florida used 2011 as its emissions inventory base year, as required by the RHR at 40 CFR 51.308(f)(2)(iii), Florida also examined more recent emissions inventory information for SO2 and NOX for the years 2017, 2018, and 2019 and compared these emissions to the 2028 emission projections that were used for modeling purposes in section 7.6.5, table 7-28 of its Haze Plan. This helped to ensure that the State adequately considered more recent emissions inventory information when developing its long-term strategy (LTS). The technical information provided in the docket demonstrates that the emissions inventory in the Haze Plan adequately reflects projected 2028 conditions. Given the aforementioned reasons, EPA finds the use of the 2011 baseline year by VISTAS (and thus Florida) reasonable.

Comment 1.c: The Conservation Groups state that VISTAS used “outdated” monitoring data for its 2028 future year projections that did not reflect an observed shift in nitrate contribution to visibility impairment in the southeastern United States in the recent past. They therefore contend that this resulted in the exclusion of major NOX sources from the modeling results.

Response 1.c: Regarding the Conservation Groups' comment that the 2009-2013 modeling base period did not reflect more recent changes in nitrate contributions, EPA discussed its views on this issue in detail in the NPRM. Nitrates are also discussed in Response 4, below. EPA agrees that after the 2009-2013 timeframe, nitrate impacts have become more significant on some of the 20 percent most impaired days, especially considering the significant decrease in SO2 emissions and measured sulfate concentrations as acknowledged in the NPRM. EPA nonetheless agrees with Florida's conclusion that for the second planning period, sulfates remain the dominant visibility-impairing pollutant at the Class I areas affected by Florida and that it is therefore reasonable for Florida to focus on SO2-emitting sources during this period.

Comment 2: The Conservation Groups state that the purported errors in the VISTAS modeling discussed in Comment 1 were carried forward into the source selection process for VISTAS states, including Florida, and that those errors caused VISTAS, and the states that relied on the VISTAS process, to improperly exclude sources from FFAs. In addition to the modeling errors, they state that Florida adopted VISTAS' “unreasonable” source screening process that uses Area of Influence (AoI) and PSAT analyses, and also applied unreasonably high source selection thresholds. Based on these reasons, they conclude that EPA's proposal to approve the State's source selection method is arbitrary and capricious. The Conservation Groups' specific comments on this topic are addressed in Comments 2.a through 2.f, below.

Comment 2.a: The Conservation Groups comment that Florida employed unreasonably high source selection thresholds for the AoI analysis, which were too restrictive and resulted in the identification of only 13 Florida sources at the AoI step. Specifically, they assert that by using a percentage source selection threshold, the State's calculated threshold in absolute terms was higher for Class I areas with the most severe visibility impairment, meaning that fewer sources were identified at the AoI step for Class I areas with the worst impairment. The Conservation Groups state that for the areas with the worst visibility impairment, more sources should be selected to make progress toward the natural visibility goal. In addition, the Conservation Groups state that neither Florida nor EPA have provided justification to support the application of a five percent threshold for in-state and out-of-state sources at the AoI step.

Response 2.a: EPA disagrees with this comment. The RHR does not require states to consider controls for all sources, all source categories, or any or all sources in a particular source category. Nor does the RHR expressly specify criteria for minimum source selection thresholds.

These flexibilities are, however, not unbounded. The RHR requires that “[t]he State should consider evaluating major and minor stationary sources or groups of sources, mobile sources, and area sources. The State must include in its implementation plan a description of the criteria it used to determine which sources or groups of sources it evaluated and how the four factors were taken into consideration in selecting the measures for inclusion in its long-term strategy.” ¹⁸ In addition, the technical basis for source selection must also be documented, as required by 40 CFR 51.308(f)(2)(iii). Thus, states must utilize a reasonable source selection methodology, and whatever choices states make regarding source selection should be reasonably explained.¹⁹ Florida met these requirements. Specifically, Florida discussed the criteria it used to determine which sources or groups of sources were evaluated by the State, including the use of AoI analysis, photochemical modeling (e.g., PSAT), and associated source selection thresholds for AoI and PSAT tagging in its Haze Plan. Florida documented its use of these approaches in extensive detail within section 7.5 of the Haze Plan and appendix D-1 of the Haze Plan (relating to AoI analysis) and section 7.6 and appendices E-1a, E-1b, E-2a, E-2b, E-2c, E-2d, E-2e, E-2f, E-3, E-4, E-5, E-6, E-7a, and E-8 of the Haze Plan (relating to PSAT analysis).

¹⁸ See 40 CFR 51.308(f)(2)(i).

¹⁹ See 89 FR 47481, 47493 (June 3, 2024).

Florida's documentation adequately demonstrates why its source selection methodology—including the use of an AoI threshold of five percent of sulfate and nitrate for in-state and out-of-state sources for follow-up PSAT tagging and a one percent PSAT threshold on a pollutant-by-pollutant basis for source selection—is reasonable. For the reasons stated in the NPRM, EPA finds that Florida's source selection methodology was reasonable and resulted in the selection of a reasonable set of sources contributing to visibility impairment at Class I areas affected by Florida's sources. The State's methods for selecting sources for a control analysis and the State's AoI and PSAT analyses identified sources in Florida having the highest impact on visibility at Class I areas at the end of the second planning period and identified sources outside of Florida having the largest impacts on visibility at Class I areas in the State. A specific source selection approach is not required by the RHR.²⁰

²⁰ Both of these approaches (AoI and PSAT) are example methods in EPA's August 20, 2019, guidance titled: “Guidance on Regional Haze State Implementation Plans for the Second Implementation Period” (“2019 Guidance”), which is available at: https://www.epa.gov/sites/default/files/2019-08/documents/8-20-2019_-_regional_haze_guidance_final_guidance.pdf. See subsection “b) Estimating baseline visibility impacts for source selection” on pages 12-15 of the 2019 Guidance. PSAT is a type of photochemical modeling which is item 4 on page 13 of the 2019 Guidance. VISTAS' AoI analyses involve items 1-3 on page 13 of the 2019 Guidance.

The results of this methodology were reasonable as well. Florida selected for further analysis the 12 sources with the largest visibility impacts (accounting for both SO2/sulfate and NOX/nitrate ²¹) at Florida and nearby Class I areas. On the whole, SO2 emissions from the 12 in-state sources selected by Florida for further analysis of reasonable progress—Duke Crystal River Power Plant (Duke-Crystal River), Georgia-Pacific, Foley Cellulose, LLC (Foley), Jacksonville Electric Authority—JEA Northside Generating Station (JEA Northside), Lakeland CD McIntosh Jr. Power Plant (CD McIntosh),²² Mosaic Fertilizer, LLC—Bartow (Mosaic-Bartow), Mosaic Fertilizer, LLC—New Wales (Mosaic-New Wales), Mosaic Fertilizer, LLC—South Pierce (Mosaic-South Pierce), Nutrien White Springs Agricultural Chemicals, Inc. (Nutrien), Seminole Generating Station (Seminole), Tampa Electric Company—Big Bend Power Station (TECO-Big Bend), WestRock Fernandina Beach Paper Mill (WestRock-Fernandina), and WestRock Panama City Paper Mill (WestRock-Panama City) ²³—are projected to impact visibility at Class I areas as described in table 1 below.

²¹ Florida selected sources for PSAT modeling based on the combined impact of sulfate plus nitrate. Sulfates and nitrates were modeled together in the PSAT modeling with the other PM species that impact visibility (e.g., direct PM, organic carbon, elemental carbon, etc.). There were no sources with a sulfate impact below the PSAT threshold(s), but a sulfate plus nitrate impact above the threshold(s).

²² The fossil fuel steam generating unit No. 3 (EU006) at CD McIntosh was permanently shut down in 2021. See appendices G-3d and G-5h of the 2021 Plan.

²³ In June 2022, the WestRock-Panama City facility announced its intention to permanently cease operations. See section 7.8.4 of the 2024 supplement. FDEP included documentation for closure of the WestRock-Panama City facility in its 2024 Supplement. In addition, on October 18, 2024, FDEP sent a site inspection report and other supporting documentation for the WestRock-Panama City closure as an addendum to the 2024 Supplement. The inspection report documents the permanent closure and inoperable status of the facility and notes that any project to restore the facility would be subjected to mandatory New Source Review (NSR) and that multiple new source performance standards would inevitably apply. This additional documentation may be found in the docket for this rulemaking.

Table 1—Sulfate PSAT Contributions (Percent) for the 12 Sources Selected for Further Analysis in Five Class I Areas on the 20 Percent Most Impaired Days *
Sources ** sulfate PSAT contributions to Class I areas | Chassahowitzka National Wilderness Area (FL) | St. Marks National Wilderness Area (FL) | Everglades National Park (FL) | Okefenokee National Wilderness Area (GA) | Wolf Island National Wilderness Area *** (GA)
Duke-Crystal River | 6.45 | - | - | - | -
Foley | - | - | - | 2.23 | -
JEA Northside | - | - | - | - | 1.34
CD McIntosh | - | - | - | - | -
Mosaic-Bartow | - | - | 2.68 | - | -
Mosaic-New Wales | - | - | 2.66 | - | -
Mosaic-South Pierce | - | - | - | - | -
Nutrien | - | - | - | 2.87 | -
Seminole | - | - | - | - | -
TECO-Big Bend | 1.32 | - | 3.38 | - | -
WestRock-Fernandina | - | - | - | 1.36 | 2.43
WestRock-Panama City | - | 4.74 | - | - | -
* Note that fields with a “-“indicate that visibility impacts are below one percent.
** The Class I areas listed in table 1, above, are included because the Florida facilities in this table have a sulfate PSAT contribution of one percent or more at one or more of these areas.
*** Wolf Island National Wilderness Area (Wolf Island) has no IMPROVE monitor. Visibility at Wolf Island is assumed to be the same as the nearest Class I area monitor located at Okefenokee National Wilderness Area (Okefenokee).

Although these 12 sources are the largest contributors within Florida to visibility impairment at Class I areas, table 1 shows sulfate PSAT visibility impacts from these sources range from approximately 1.3 to 6.5 percent at the selected Class I areas. This is due to the fact that most anthropogenic impacts to visibility at these Class I areas come from outside of Florida. In fact, these anthropogenic impacts primarily originate from outside the VISTAS states. This is illustrated in figures 7-22, 7-23, and 7-24 of the 2021 Haze Plan, which provide the contributions from 2028 SO2 and NOX emissions to visibility impairment from all source sectors for the 20 percent most impaired days in units of inverse megameters (Mm−¹). The entries in table 2, below, show the contributions made from Florida, all other VISTAS states, and other Regional Planning Organizations to Florida's Class I areas.

Table 2—Contributions of 2028 SO2 and NOX Emissions From All Source Sectors to Visibility Impairment for the 20 Percent Most Impaired Days for Class I Areas in Florida
[Mm−¹] *
Class I area ** | Projected 2028 impairment on 20% most impaired days | FL | All other VISTAS states | CENRAP region *** | LADCO region *** | MANE-VU region *** | WRAP region within VISTAS modeling domain ***
CHAS | 53.92 | 4.13 | 4.09 | 3.21 | 1.76 | 0.22 | 2.22
SAMA | 52.91 | 2.86 | 4.60 | 5.26 | 2.21 | 0.39 | 3.44
EVER | 47.70 | 1.49 | 0.22 | 0.68 | 0.17 | 0.03 | 2.05
OKEF | 54.67 | 2.76 | 6.99 | 2.27 | 3.60 | 1.02 | 2.84
WOLF | 53.59 | 1.69 | 7.44 | 2.15 | 3.44 | 1.15 | 3.41
* The columns to the right of “Projected 2028 Impairment on 20% Most Impaired Days” do not add up to the values in the “Projected 2028 Impairment on 20% Most Impaired Days” column due to international emissions and boundary emissions visibility impacts not shown in this table.
** “CHAS” refers to Chassahowitzka National Wilderness Area; “SAMA” refers to St. Marks National Wilderness Area; “EVER” refers to Everglades National Park (Everglades); “OKEF” refers to Okefenokee National Wilderness Area; and “WOLF” refers to Wolf Island National Wilderness Area.
*** “CENRAP” refers to Central Regional Air Planning Association (which is associated with the Central States Air Resource Agencies (CENSARA)); “LADCO” refers to Lake Michigan Air Directors Consortium; “MANE-VU” refers to Mid-Atlantic/Northeast Visibility Union; “WRAP” refers to Western Regional Air Partnership. See also https://www.epa.gov/visibility/visibility-regional-planning-organizations.

Table 2, above, illustrates that Florida's in-state emissions account for a relatively small fraction of total visibility impairment at Class I areas impacted by Florida sources. This fraction is approximately 7.66 percent for Chassahowitzka, 5.41 percent for St. Marks, 3.12 percent for Everglades, 5.05 percent for Okefenokee, and 3.15 percent for Wolf Island.²⁴

²⁴ These percentages were calculated by dividing the “FL” column by the “Projected 2028 20% Most Impaired Days Column” and multiplying by 100.

Likewise, the PSAT Tag Results spreadsheet referenced in section 6.3 of appendix E-7a of the 2021 Plan shows the visibility impacts on a facility-by-facility basis due to SO2 emissions. Specifically, the spreadsheet referenced in Attachment A of appendix E-7a shows the following SO2 visibility impacts to Class I areas impacted by Florida sources on the 20 percent most impaired days in units of Mm−¹.

Table 3—2028 SO2 Visibility Impacts to Florida Class I Areas on the 20 Percent Most Impaired Days
[Mm−¹]
Source | Chassahowitzka | St. Marks | Everglades | Okefenokee | Wolf Island
Duke-Crystal River | 0.629 | 0.047 | 0.006 | 0.028 | 0.025
Foley | 0.066 | 0.112 | 0.001 | 0.289 | 0.064
JEA Northside | 0.095 | 0.012 | 0.006 | 0.113 | 0.167
CD McIntosh * |  |  |  |  |
Mosaic-Bartow | 0.080 | 0.064 | 0.035 | 0.018 | 0.012
Mosaic-New Wales | 0.073 | 0.069 | 0.035 | 0.018 | 0.011
Mosaic-South Pierce * |  |  |  |  |
Nutrien | 0.050 | 0.015 | 0.002 | 0.372 | 0.087
Seminole * |  |  |  |  |
TECO-Big Bend | 0.129 | 0.098 | 0.044 | 0.029 | 0.016
WestRock-Panama City | 0.058 | 0.540 | 0.002 | 0.060 | 0.041
WestRock-Fernandina | 0.090 | 0.014 | 0.008 | 0.176 | 0.304
Total of Florida Selected Sources | 1.27 | 0.971 | 0.139 | 1.103 | 0.727
Florida Total Contribution | 3.35 | 2.40 | 0.89 | 2.30 | 1.42
All Sources (including out-of-state Contribution) | 12.54 | 15.84 | 2.61 | 16.39 | 16.22
* CD McIntosh, Mosaic-South Pierce, and Seminole were not tagged for PSAT modeling, so no PSAT contribution information is available.

The above data in table 3 further supports that Florida's source selection thresholds and source selection methodology were reasonable. Specifically, on the 20 percent most impaired days, Florida's selected in-state sources are responsible for approximately 37.9 percent of Florida's total in-state SO2 visibility impairment at Chassahowitzka, 40.5 percent of total in-state SO2 visibility impairment at St. Marks, 34.1 percent of total in-state SO2 visibility impairment at Everglades, 48.0 percent of total in-state SO2 visibility impairment at Okefenokee, and 51.2 percent of total in-state SO2 visibility impairment at Wolf Island.²⁵ Additionally, section 7.6.4 of the 2021 Plan states that the selected sources represent 12 of the top 18 SO2 emitting sources in Florida in 2019,²⁶ which account for approximately 35,000 tons of SO2 emissions, which is the vast majority of all the point source emissions in Florida. States are not required by the RHR to select every source in the state, and Florida selected the in-state sources with the largest visibility impacts on in-state and nearby Class I areas. The selection of the above sources captured sufficient visibility-impairing emissions to allow Florida to ensure that FFAs conducted for this planning period had the potential to meaningfully reduce emissions (and thus, associated visibility impacts at Class I areas) from in-state sources.

²⁵ These percentages were calculated by dividing the “Total of Selected Florida Sources” row in table 3 by the “Florida Total Contribution” row and multiplying by 100.

²⁶ Florida's 2021 Plan states that 11 of the top 18 sources were selected. Florida later added the Mosaic-South Pierce facility to the list of selected sources for a total of 12 sources, not 11, as discussed in the 2024 Supplement on pages 4-6. FDEP determined that increases in SO2 emissions from the Mosaic-South Pierce facility since the 2011 baseline period warranted a reasonable progress analysis.

Table 3 also shows that most emissions of visibility-impairing sulfates that impact Florida's Class I areas on the 20 percent most impaired days are emitted from outside of Florida. The same general pattern holds for the 20 percent least impaired days as well. Florida does not have jurisdiction through its SIP to regulate sources outside of state boundaries. Florida did, however, request FFAs from other states for an additional two facilities outside of Florida through the interstate consultation process.²⁷ The “regional” nature of the regional haze program necessarily requires Florida to rely on reasonable progress made by other states, just as other states must rely on Florida to make reasonable progress.

²⁷ See 2021 Plan at section 7.6.

The Conservation Groups also argue that neither Florida nor EPA provided justification for the five percent AoI threshold for out-of-state sources. In its 2021 Plan, Florida explained that use of an AoI contribution of five percent or more to tag sources for PSAT captures large sources outside of Florida. When selecting out-of-state sources, 40 CFR 51.308(f)(2)(ii) applies. The regulation at 40 CFR 51.308(f)(2)(ii) requires states to “consult with those States that have emissions that are reasonably anticipated to contribute to visibility impairment in the mandatory Class I Federal area.” The use of the five percent AoI threshold allowed Florida to identify the most important individual out-of-state point sources that “that are reasonably anticipated to contribute to visibility impairment” ²⁸ at Class I areas within Florida.

²⁸ See 40 CFR 51.308(f)(2)(ii).

Turning to the Conservation Groups' other source selection comments, they assert that by using a percentage threshold for AoI and PSAT, the calculated threshold in absolute visibility impact terms was higher for Class I areas with the most severe visibility impairment, which resulted in fewer sources being evaluated for reasonable progress for the most visibility-impaired Class I areas. Thus, the Conservation Groups assert that the use of a percentage threshold was unreasonable.

EPA disagrees with this comment. As noted above, states have flexibility to adopt any source selection methodology so long as the methodology is reasonable, and their choices are reasonably explained. A percentage threshold, rather than one using an absolute visibility threshold (Mm−¹ or deciviews), allowed Florida—like every other VISTAS state—to select sources with the largest visibility contributions to each Class I area regardless of the magnitude of visibility impairment at a Class I area. This approach is reasonable. Use of a percentage-based threshold produced a relative ranking of visibility impairment to allow the State to focus on the sources contributing to the largest amount of visibility impact at each individual Class I area. These sources have the potential to reduce visibility impacts the most. The use of a percentage threshold is therefore consistent with the requirement to make reasonable progress toward remedying visibility impairment in each Class I area. EPA finds that Florida's source selection method is reasonable and adequately explained for the reasons discussed above and within our proposal.

Comment 2.b: The Conservation Groups state that VISTAS considered sulfate and nitrate separately in the PSAT model analyses, which the Conservation Groups allege does not align with how these pollutants actually function in the atmosphere, where sulfate and nitrate act in combination, along with other precursors, to contribute to visibility impairment. As a result, they argue that VISTAS likely underestimated the overall visibility impact of individual sources in its PSAT analysis.

Response 2.b: EPA disagrees with Conservation Groups' assertion that VISTAS' separate consideration of sulfate and nirate undermines its analysis of visibility impacts. Sulfates and nitrates were modeled together in the PSAT modeling with the other PM species that impact visibility (e.g., direct PM, organic carbon, elemental carbon, etc.). Section 7.6.2 of Florida's 2021 Plan summarizes the results of the PSAT modeling. This section states: “[t]he adjusted PSAT results were used to calculate the percent contribution of each tagged facility to the total sulfate and nitrate point source (EGU + non-EGU) contribution at each Class I area.” Tables 7-16 through 7-18 of the 2021 Plan contain the specific PSAT results for each of Florida's Class I areas. Florida considered the PSAT modeled results for sulfate and nitrate separately only to compare against its selected one percent threshold for each of these pollutants to identify a reasonable number of sources for reasonable progress analyses. The State's approach is reasonable for the reasons discussed above, and it was adequately justified in the Haze Plan and in EPA's NPRM.

Comment 2.c: The Conservation Groups state that VISTAS used an outdated 2028 emissions projection to “tag” sources. They note that although VISTAS documented that the initial 2028 emission inventory projections were updated for the final modeling, the associated PSAT modeling did not use the final 2028 inventory. The Conservation Groups state that VISTAS scaled predicted sulfate and nitrate to the corresponding changes in SO2 and NOX emissions in the updated 2028 inventory using a linear relationship between sulfate and nitrate concentrations. They argue ample evidence shows that there is a non-linear relationship between emissions and sulfate/nitrate concentrations, and that this resulted in additional errors into the modeling. Citing the 2025 Kordzi Report, the Conservation Groups contend that Florida significantly underestimated future 2028 emissions for multiple sources, and that some of these estimates are unjustified and unexplained by Florida.²⁹ They also contend that Florida did not explain the 2028 decreases from Foley, Breitburn Operating LP (Breitburn), Mosaic-South Pierce, Monarch Hill, and Gulf Clean Energy Center (Plant Crist).³⁰ The Conservation Groups state that nothing in the SIP revision indicates that there have been federally enforceable changes to the Florida facilities' operating parameters that would justify the differences between recent actual emissions and future 2028 projections, and thus, EPA must either present information as a SIP enforceable mechanism to justify these emission reductions or disapprove Florida's source selection process.³¹

²⁹ The 2025 Kordzi Report is Exhibit 1 to the January 27, 2025, letter from the Conservation Groups and is included in the docket for this rulemaking.

³⁰ 2025 Kordzi Report at 6-7.

³¹ Id.

Response 2.c: EPA disagrees with this comment. VISTAS used the original 2028 emissions inventory to perform the PSAT modeling, and the original PSAT results were linearly scaled to reflect the updated 2028 emissions. Although linear scaling introduces some uncertainty to the final PSAT results, EPA agrees with VISTAS and Florida that adjusting the results to account for VISTAS' updated 2028 emissions inventory using linear scaling is a reasonable approach to account for VISTAS' updated 2028 emissions projections and is a better approach than relying on the original PSAT modeling.

Linear scaling of photochemical modeling results to account for changes in emissions is, in most cases, reasonable and is an accepted practice by EPA. For example, EPA guidance recommends using EPA's Modeled Emission Rates for Precursors (MERPs) for evaluating the impacts of secondary particulate matter of 2.5 micrometers or less in diameter (PM2.5) in Prevention of Significant Deterioration (PSD) modeling analyses and allows for and recommends scaling of photochemical modeling results based on emissions.³² This guidance recommends an approach where the PM2.5 impacts are estimated using an archived national-scale photochemical modeling analysis, performed using CAMx and Community Multiscale Air Quality (CMAQ) ³³ photochemical models, that uses hypothetical emissions sources, and then linearly scaling the photochemical modeling results using the ratio of the PSD project-specific source emissions to the modeled emissions from the hypothetical source (see equation 1 on page 3 of the referenced April 30, 2024, MERPs memorandum). This approach is widely used and accepted by state air quality agencies and EPA to account for secondarily formed PM2.5 from precursor emissions (SO2 and NOX) for PSD modeling analyses. Since the VISTAS analyses used for regional haze modeling use linear scaling with CAMx and for the same PM2.5 precursors (SO2 and NOX) as the MERPs analyses, EPA finds the method of linear scaling of PM precursor emissions conducted by VISTAS to be acceptable practice.

³² See “Clarification on the Development of Modeled Emission Rates for Precursors (MERPs) as a Tier 1 Demonstration Tool for Ozone and PM2.5 under the PSD Permitting Program,” April 30, 2024, Memorandum from Tyler Fox to Regional Office Modeling Contacts is available at: https://www.epa.gov/sites/default/files/2020-09/documents/epa-454_r-19-003.pdf.

³³ See https://www.epa.gov/cmaq for further information on CMAQ.

With respect to the Conservation Groups' comments that Florida significantly underestimated and did not explain future 2028 emission projections for multiple sources, including for Foley, Breitburn, Mosaic-South Pierce, Monarch Hill, and Plant Crist, EPA also disagrees with the Conservation Groups' statements. Florida used the best assumptions available at the time of SIP development to project the 2011 base year emissions out to 2028, including for the facilities noted by the Conservation Groups. The State compared 2017, 2018, and 2019 actual SO2 emissions to 2028 projected emissions in table 7-28 of its 2021 Plan. The methodology used to make the 2028 projections is also discussed in appendix B (Emissions Preparation and Processing) of the 2021 Plan. As discussed in section 4.1 of the 2021 Plan, VISTAS' initial emissions projections for 2028 were completed in June 2018 and the initial modeling was completed in October 2019. After comparing those results to EPA's projected 2028 emissions inventory, which was based on a 2016 base year and was released in September 2019, VISTAS noted differences between their projected inventory and EPA's projected 2028 inventory. VISTAS chose to update their 2028 emissions inventory to incorporate the best estimates of future emissions. This inventory was ultimately used in the 2028 remodeling. The data provided in table 7-28 of the 2021 Plan shows that the projected 2028 emissions for some facilities increased (e.g., Mosaic-South Pierce) and some decreased (e.g., Plant Crist) for using the best information that was available at the time Florida was preparing the final 2021 Plan.

As discussed in Comment/Response 6.e and 8.a below, Florida selected Mosaic-South Pierce and Foley, respectively, for reasonable progress evaluations.³⁴ Additionally, Florida considered Breitburn and Plant Crist, and as discussed in section 7.6.4 of the 2021 Plan, concluded that these sources did not need to be evaluated for reasonable progress.

³⁴ Florida selected Foley for an FFA; however, the facility has fully shut down. See Response 8.a.

EPA also disagrees that “a SIP enforceable mechanism” must be put in place for these and other sources that were not selected for evaluation of reasonable progress using an FFA. As discussed in Response 2.a, Florida's source selection methodology is reasonable and is adequately documented in its Haze Plan. The fact that certain sources, including the five sources identified by the Conservation Groups, were not selected for FFAs for either SO2 or NOX for this planning period is the result of the reasonable application of Florida's source selection process and source selection thresholds.

Comment 2.d: The Conservation Groups further claim that Florida did not justify its application of the one percent PSAT threshold for either NOX or SO2 and that Florida's use of a percentage-based threshold at the PSAT step biased the process against heavily polluted Class I areas. They note that the U.S. National Park Service's (NPS') comments on the draft SIP revision in 2021 explained that reliance on the percent-based threshold required source impacts to be 80 times larger for the most visually impaired Class I areas versus the least visually impaired Class I areas in order to be selected for an FFA. They also argue that PSAT tagging was unnecessary because the AoI step already identified the sources that contributed to impairment at Class I areas.

Response 2.d: EPA disagrees with the Conservation Groups' contention that Florida did not justify its application of the one percent PSAT threshold. Section 7.6.4 of the 2021 Plan explains the State's rationale for using a one percent PSAT threshold to select sources for a reasonable progress evaluation. Using a percentage-based threshold enabled the State to identify the sources that contribute most to visibility impairment at the Class I areas, regardless of the magnitude of visibility impairment at each Class I area. Use of a percentage-based threshold produced a relative ranking of impacts on visibility impairment, allowing the State to focus on the sources with the greatest visibility impacts on each individual Class I area. Regardless of whether a relative or absolute threshold was used, Florida's source contribution threshold identified the largest sources to evaluate emissions measures using an FFA. Therefore, the methodology is reasonable and was adequately documented in its Haze Plan.

Regarding the Conservation Groups' assertion that the PSAT tagging process was unnecessary because the AoI step already identified the sources that contributed to impairment at Class I areas, EPA disagrees with the premise of this comment. The standard is not whether the State's source selection approach is necessary or required, but rather, whether the approach is reasonable and is reasonably explained.³⁵ The two-step process of screening with the AoI analysis and then applying the more refined PSAT source apportionment modeling to sources that met the initial AoI screening criteria is a sound technical approach for identifying sources to evaluate for reasonable progress. Elements of Florida's AoI approach are discussed in EPA's 2019 Guidance as a viable method to assess sources' visibility impacts to Class I areas.³⁶ Florida, along with many of the VISTAS states, also relied upon the AoI initial screening approach in its first planning period Haze Plan. VISTAS used the AoI analysis as an initial screening step because it is a much simpler and less resource intensive approach than using PSAT tagging to model hundreds to thousands of potential sources. The AoI screening approach identified a smaller subset of sources that could undergo refined analysis using PSAT modeling. EPA finds the two-step process of first screening with the AoI analysis followed by use of the more refined PSAT source apportionment modeling to sources is valid and reasonable. Also, as discussed above, states have discretion under the RHR regarding choice of source selection methodology.

³⁵ See 40 CFR 51.308(f)(2)(i), (iii); 89 FR 105506, 105518 (December 27, 2024).

³⁶ EPA's 2019 Guidance at 12-14 describes components of Florida's AoI approach, including Q/d (emissions (Q) divided by distance to a Class I area (d)), trajectory analyses, residence time analyses, and source apportionment photochemical modeling (e.g., CAMx PSAT).

Comment 2.e: The Conservation Groups contend that EPA did not address “significant flaws” in the VISTAS modeling and source selection process and that EPA improperly concluded that Florida's selection of eighteen in-state sources was reasonable because it enabled the identification of sources with the largest visibility impacts. They argue that this is contrary to EPA's guidance which states that a source selection threshold that captures only a small portion of a state's contribution to visibility impairment in Class I areas is more likely to be unreasonable and contrary to the CAA which does not authorize states or EPA to select only the largest contributors to visibility impairment. They assert that Florida should have used a different selection method with a lower threshold, such as a “Q/d” with a threshold of five or lower, to capture the largest portion of in-state sources.

Response 2.e: EPA disagrees with the assertion that Florida's selection of the 12 largest sources contributing to visibility impairment at Class I areas is contrary to EPA's guidance. The PSAT modeling performed by VISTAS found that the three sources selected by Florida for FFAs have the largest contribution to visibility impairment of any point sources in the State. As discussed in Response 2.a, the PSAT modeling results show that the total cumulative contribution to visibility impairment on the 20 percent most impaired days at Florida's Class I areas from all SO2 and NOX emitting sources in the State are relatively small, ranging from 3.12 percent for Everglades to 7.66 percent for Chassahowitzka based on table 2, above.³⁷ Given state discretion in selecting sources to evaluate for emissions controls, and since the SO2 and NOX emissions from all point sources in Florida contribute a relatively small amount to the visibility impairment at its Class I areas, the State's selection of the three largest source contributors to visibility impairment is reasonable.

³⁷ See footnote 24.

Regarding the Conservation Groups' claim that the State should have adopted a different selection method (such as Q/d) with a lower threshold to select more sources in Florida, as discussed above, a state is not required to evaluate all sources of emissions in each planning period. Instead, a state may reasonably select a set of sources for an analysis of control measures. Selecting a set of sources for analysis of control measures in each planning period is also consistent with the RHR, which sets up an iterative planning process and anticipates that a state may not need to analyze control measures for all sources in a given SIP revision. Moreover, use of Q/d (which simply involves dividing the quantity of emissions by the distance to a Class I area) does not consider transport direction/pathway, dispersion and photochemical processes, or the particular days that have the most anthropogenic impairment due to all sources. Therefore, compared to photochemical modeling, using a simple Q/d technique, as the Conservation Groups suggest, would have resulted in a less accurate quantification of visibility impacts on Class I areas. As discussed in detail above, Florida's reliance on VISTAS modeling and the State's source selection methodology are well documented within the SIP submittal and therefore reasonable.

Comment 2.f: The Conservation Groups state that EPA asserts in its proposal that Florida's source selection method is reasonable because: (1) SO2 and NOX emissions have decreased since the first planning period and are projected to continue decreasing, (2) visibility conditions at in-state Class I areas are projected to improve and have improved since the baseline period, and (3) Florida sources do not contribute to any Class I areas above their respective Uniform Rate of Progress (URP). They argue, however, that projected visibility condition improvement at Florida's Class I areas and the fact that those areas are below their respective URPs are not a valid basis to approve the State's flawed selection method. They cite to EPA guidance stating that the URP is not a safe harbor and that states cannot avoid requiring sources to install reasonable controls merely because there have been emissions reductions due to ongoing air pollution controls since the first planning period or because visibility is projected to improve at Class I areas.

Response 2.f: As required by the RHR, States must evaluate and determine the emissions reduction measures that are necessary for reasonable progress by considering the four statutory factors. See 40 CFR 51.308(f)(2)(i). However, we note that emissions from Florida are not reasonably anticipated to contribute to visibility impairment in any Class I areas that are above the 2028 URP, which is relevant to whether a state needs to perform a “robust demonstration” based on the requirements in 40 CFR 51.308(f)(3)(ii)(A) and (B). Therefore, a comparison of the URP to projected visibility impairment in 2028 is needed to inform that requirement. Additionally, other information about measured progress towards natural conditions can be relevant in evaluating the source selection process. For example, significant improvements in visibility at impacted Class I areas since the beginning of the second planning period (starting in 2018) are relevant to whether a state is making progress towards natural conditions and may provide information that could influence the selection of sources to be analyzed for emissions controls in the second planning period. Regardless of the visibility information listed in the proposed rule, EPA independently evaluated Florida's SIP documentation and came to the conclusion that Florida's source selection methodology and thresholds for this second planning period are reasonable for the reasons stated earlier in this response.

Comment 3: The Conservation Groups contend that Florida arbitrarily and unlawfully refused to conduct FFAs for nine facilities despite their undisputed contribution to visibility impairment in numerous Class I areas. The nine facilities are Duke-Crystal River; JEA Northside; Mosaic-Bartow; Mosaic-New Wales; Mosaic-South Pierce; Nutrien; Seminole; TECO-Big Bend; and Breitburn. They provide the following arguments to support this contention.

First, they state that the text of the CAA and the RHR require the State to evaluate the four statutory factors for any source reasonably anticipated to cause or contribute to any visibility impairment at any Class I area. The Conservation Groups contend that Florida improperly rewrites the statute and regulation to require consideration of the four factors only when a source “significantly contributes” to visibility impairment. Second, they state the structure of the CAA makes clear the requirement to implement emission reductions to ensure reasonable progress is not contingent on whether a source significantly contributes to visibility impairment. They note that Congress expressly uses the modifier “significant” in numerous sections of the CAA and argue that the modifier is conspicuously absent from CAA section 169A. Third, they argue that the purpose of the CAA's visibility provisions to reduce and ultimately eliminate “any impairment of visibility” make clear that Congress “intended for the term `contributes' as used in 7491(b)(2) to encompass smaller impacts than would be required to regulate only those sources that contribute `significantly.' ” (emphasis in original). They state that Florida “effectively rewrites those provisions of the Act and requires only the evaluation of emissions that it deems significant or large enough.” The Conservation Groups acknowledge that there is no bright line test for assessing contribution under the RHR, but state that EPA has “made clear that a state's reasonable progress analysis must consider a meaningful set of sources and controls that impact visibility” and that if a state fails to do so, EPA must disapprove the SIP revision and issue a Federal Implementation Plan.

Response 3: EPA disagrees with the assertion that the CAA and RHR require the State to evaluate the four statutory factors for any source that is “reasonably anticipated to cause or contribute to visibility impairment.” Section 169A(b)(2) of the CAA uses that language, but not for the purposes that the Conservation Groups assert. The CAA requires an implementation plan from a state if emissions from the state “may reasonably be anticipated to cause or contribute to any impairment of visibility in any such area” (referring to out-of-state Class I areas that are impacted by emissions from the state). This is not an individual source requirement. The phrase “may reasonably be anticipated to cause or contribute to any impairment” is only applied to the identification of individual stationary sources in the BART provisions in CAA section 169A(b)(2)(A). But these BART provisions are not applicable in this second planning period SIP evaluation. BART evaluations and emissions limits were only required as part of first planning period regional haze SIPs, and Florida has already met the BART requirements. Additionally, EPA agrees that CAA section 169A and the RHR do not use the phrases “significant contribution” or “significantly contribute” when discussing the four factors. The CAA and RHR do not explicitly list factors that a state must or may not consider when selecting the sources for which it will determine what control measures are necessary to make reasonable progress. The appropriate threshold for selecting sources may reasonably differ across states and Class I areas due to varying circumstances. In setting a threshold, a state may consider the number of emissions sources affecting the Class I areas at issue, the magnitude of the individual sources' impacts, and the amount of anthropogenic visibility impairment at the Class I areas. As discussed in Response 2.a, Florida considered the magnitude of the individual sources' impacts at Class I areas using AoI screening and PSAT modeling, which is a reasonable approach to identify sources in the State that are reasonably anticipated to cause or contribute to visibility impairment in any Class I area.

Comment 4: The Conservation Groups assert that EPA incorrectly endorses Florida's decision to exclude consideration of NOX controls in any FFAs. They contend that VISTAS' modeling did not accurately reflect the shift in the 20 percent most impaired days and the corresponding increase in the contribution of nitrate to visibility impairment at Southeastern Class I areas. They state that more of the 20 percent most impaired days now occur in the winter, when nitrate plays a bigger role in visibility impairment, and they note that Florida explained in its SIP that “occasionally nitrate is the predominant visibility impairing pollutant on certain days, generally in winter months.” They also note EPA's general expectation that states will, at a minimum, consider both SO2 and NOX in this planning period and assert that there are multiple sources of significant NOX emissions that Florida should have analyzed for NOX controls.

Response 4: EPA disagrees with this comment. The RHR does not prescribe which visibility impairing pollutants must be evaluated in the FFAs. When selecting sources for analysis of control measures, a state may focus on the PM species that dominate visibility impairment at the Class I areas affected by emissions from the state and then select only sources with emissions of those dominant pollutants and their precursors. EPA has recommended that states that do not evaluate SO2 and NOX in both source selection and control evaluations show why consideration of these pollutants would be unreasonable, especially if the state considered both of these pollutants in the first planning period.³⁸

³⁸ Florida considered SO2 for FFAs conducted in the first planning period.

Florida followed these recommended approaches here. Florida considered both SO2 emissions (via sulfates visibility impacts) and NOX emissions (via nitrates visibility impacts) in the source selection process. As part of the 2021 Plan, FDEP presented the results of PSAT modeling conducted by VISTAS to estimate the projected impact of statewide SO2 and NOX emissions across all emissions sectors in 2028 on total light extinction for the 20 percent most impaired days in all Class I areas in the VISTAS modeling domain. The result of this process was that while sources were selected for SO2 control analysis determinations, no sources in Florida met the State's nitrate source selection thresholds. Therefore, Florida did not select any sources for a NOX emissions control evaluation. Contrary to the Conservation Groups' assertion that Florida made a “decision” not to consider NOX controls in any FFAs, it was Florida's application of its source selection process, in combination with data and modeling showing that SO2 is the dominant visibility impairing pollutant, that resulted in Florida only selecting sources for SO2 emissions control analyses and not NOX emissions control analyses.

Additionally, in order to better understand the trends in PM species contributions to visibility impairment, Florida examined more recent IMPROVE monitoring data. More recent IMPROVE monitoring data shows that ammonium sulfate remains the dominant visibility impairing pollutant at Florida's Class I areas as discussed in section 2.5.2 of the 2021 Plan (particularly figures 2-6 through 2-8 for the 2009-2013 period) and in section 2.6.2 (particularly figures 2-9 through 2-11 for the 2014-2018 period). The 2015-2019 IMPROVE monitoring data (the most recent data available at the time) from the IMPROVE website identifies the relative contributions of PM species contributing to the total visibility impairment at the Florida Class I areas, which are shown in table 4, below. In spite of increased nitrate contributions on the 20 percent most impaired days (as the Conservation Groups note, often on winter days), as indicated in that table, ammonium nitrate contributions to regional haze at the State's Class I areas remain relatively low at eight to nine percent of the total visibility impairment as compared to ammonium sulfate at 57 to 60 percent.

³⁹ See the spreadsheet containing the 2015-2019 speciated IMPROVE monitoring data for Florida's Class I areas included in the docket for this rulemaking.

Table 4—2015-2019 Speciated IMPROVE Monitoring Data (Percent) for Florida's Class I Areas ³⁹
| Ammonium sulfate | Ammonium nitrate | Organic carbon | Coarse mass | Elemental carbon | Fine sea salt | Fine soils
Chassahowitzka | 57 | 8 | 16 | 6 | 7 | 4 | 2
Everglades | 59 | 9 | 11 | 9 | 5 | 5 | 2
St. Marks | 60 | 8 | 16 | 6 | 4 | 4 | 1

Furthermore, in tables 7-21 through 7-23 of the 2021 Plan, the State provided a calculation of the sulfate and nitrate extinction weighted residence time (EWRT) used in the AoI analysis for the Florida Class I areas for the 20 percent most impaired days, demonstrating that the sulfate EWRT are significantly higher than the nitrate EWRT. This further supports the importance of focusing on SO2 emissions reductions for this planning period. The State's rationale for focusing on SO2 controls in the FFAs is summarized in Florida's SIP submittal and the NPRM.⁴⁰

⁴⁰ See 2021 Haze Plan, section 2 (particularly figures 2-9 through 2-13), section 7 (particularly figures 7-17, 7-18, 7-20 through 7-24), and section 10 (particularly figures 10-1); 89 FR 105518-105519.

With respect to the Conservation Groups' assertion that nitrate is the biggest contributor to light extinction on multiple of the 20 percent of most impaired days for these Florida Class I areas during the 2014-2018 period (especially on winter days), as described above, the average nitrate contribution across the 20 percent most impaired days is still relatively small. Thus, while nitrate impairment may be relatively high on a particular day, the data that states are required to use for regional haze as specified in 40 CFR 51.301 and 40 CFR 51.308(f)(1) show ammonium nitrate only contributed eight to nine percent of the total visibility impairment (during the 2015-2019 period).

For these reasons, Florida's justification for not evaluating sources selected for SO2 emission control analyses for a separate NOX emission control analysis is reasonable for this planning period. The trends in PM species' contributions to visibility impairment will continue to be evaluated in future planning periods. If the data warrants consideration of NOX controls in future planning periods, EPA expects that Florida will address potential NOX controls in future regional haze SIP revisions.

Comment 5: The Conservation Groups assert that EPA ignores that Florida unreasonably excluded sources from FFAs. They state that to correct errors in the source selection method, EPA must require Florida to assess additional EGU and non-EGU emission sources identified by NPS and the Conservation Groups, which have emissions that likely contribute to impairment in Class I areas. Furthermore, the Conservation Groups assert that EPA must find that the State arbitrarily and unlawfully refused to consider cost-effective control upgrades or measures improving efficiency of existing controls, and refused to conduct FFAs on additional sources that contribute to visibility impairment in Class I areas. The comments regarding specific sources identified by the Conservation Groups are addressed in Comments 6 and 7 below.

Response 5: As explained in Response 2.a and in the NPRM (89 FR 105511), the RHR does not require states to select and consider controls for all sources, all source categories, or any or all sources in a particular source category. Nor does the RHR expressly specify criteria for minimum source selection thresholds. States have discretion to choose reasonable source selection criteria, and sources that meet the state's criteria are selected for an evaluation of potential control options for specific visibility impairing pollutants by considering the four statutory factors in CAA section 169A(g)(1).

As discussed in Response 2.a, Florida's source selection methodology is reasonable and is adequately documented in its Haze Plan. The fact that certain sources, including the 28 sources identified by the Conservation Groups, were not selected for FFAs for either SO2 or NOX for this planning period is the result of the reasonable application of Florida's source selection process and source selection thresholds.⁴¹ As discussed in Response 4, NOX impacts were considered by the State, but no sources were selected for a NOX control evaluation (including these sources highlighted by the Conservation Groups) because visibility impacts for NOX did not exceed the State's source selection threshold. To the extent that the 28 sources identified by the Conservation Groups were not selected by Florida, the Responses to Comments 2 (source selection) and 4 (nitrates/NOX controls) generally address why these sources were not selected and why EPA agrees with the State that it was reasonable to not select these sources for this planning period. To summarize, Florida selected a sufficient number of sources under Florida's jurisdiction to ensure that sources responsible for the largest visibility impacts to Class I areas completed FFAs (or, alternatively, demonstrated that sources have existing, effective controls) for this planning period. Florida has discretion under the RHR to determine its source selection methodology. EPA has found the sources that Florida selected were reasonable and that its Haze Plan complied with the CAA and RHR for this planning period. While Florida could have used its discretion to select other sources in addition to those screened in during its source selection process, including some or all of the sources that the Conservation Groups highlight, Florida was not required to do so. As EPA has stated elsewhere in this notice in Responses 2 and 4, and here in this response, EPA finds Florida's approach to source selection reasonable and appropriate for the second planning period.

⁴¹ In this case, the 28 sources refer to the eight sources that Florida provided an existing, effective controls demonstration for (see 89 FR 105522) and the 20 sources recommended by the Conservation Groups in the January 27, 2025, Comment Letter.

Comment 6: The Conservation Groups assert that Florida failed to demonstrate that the nine facilities it eliminated from FFAs on the basis that they are effectively controlled (Duke-Crystal River; JEA Northside; Mosaic-Bartow; Mosaic-New Wales; Mosaic-South Pierce; Nutrien; Seminole; TECO-Big Bend; and Breitburn ⁴²) are in fact effectively controlled with existing measures. The Conservation Groups maintain that there are likely cost-effective controls that can be implemented to reduce emissions for each source, and that such controls are therefore necessary to make reasonable progress during the second planning period. Therefore, they assert that EPA's proposal to approve Florida's Haze Plan based on the State's “effectively controlled” determinations for the facilities violates the CAA and the RHR.

⁴² Breitburn did not meet Florida's source selection criteria. See 2021 Plan at 252. Florida therefore did not provide an existing effective SO2 controls demonstration in section 7.6.4.1 of the 2021 Plan. The Conservation Groups' comment on Breiturn is addressed in Response 7.

The Conservation Groups comment that the plain language of the CAA and RHR do not allow EPA or the State to eliminate sources from analysis based on the assertion that sources are “effectively controlled.” Instead, they comment that the CAA and RHR require states to consider the four statutory reasonable progress factors for any existing source that is reasonably anticipated to cause or contribute to any impairment of visibility in any Class I area. They assert that Florida determined that the nine facilities mentioned above all contribute to the impairment of visibility in mandatory Class I areas but failed to conduct FFAs for them as required by the Act. The Conservation Groups note that the concept of “effectively controlled” sources only appears in EPA's 2019 Guidance and 2021 Clarification Memo, which they assert is nonbinding and cannot override the plain language of the CAA and RHR. They also assert that EPA has repeatedly explained that states cannot categorically exclude sources from an FFA simply because the source has existing controls and must provide source-specific explanations as to why their decisions for excluding sources from FFAs are reasonable.

The Conservation Groups contend that instead of making the required demonstration in accordance with EPA's guidance, Florida merely claimed that the RHR does not require best available controls, but only measures necessary for reasonable progress. They argue that there are likely feasible and cost-effective controls available for each of the nine facilities, including Breitburn; that the controls are likely reasonable and therefore necessary for reasonable progress; and that EPA must therefore require the inclusion of these controls in Florida's SIP. The Conservation Groups' comments regarding the eight (excluding Breitburn as discussed in footnote 42) sources with an effective SO2 controls demonstration are addressed in Responses 6.a through 6.h below. The comments regarding Breitburn are addressed in Response 7.

Response 6: EPA finds Florida's determination that the affected units at Duke-Crystal River, JEA Northside, Mosaic-Bartow, Mosaic-New Wales, Mosaic-South Pierce, Nutrien, Seminole, and TECO-Big Bend are effectively controlled to be reasonable. Florida determined that these sources have existing, effective SO2 measures and concluded that it would be reasonable to not select such sources for an FFA because an FFA would likely result in the conclusion that no further controls are necessary.⁴³ This is consistent with the discretion and flexibilities states have within the CAA and RHR to develop their regional haze SIPs.

⁴³ FDEP proposed existing SO2 measures as necessary for reasonable progress for incorporation into the Florida SIP for the affected units at the following eight facilities: Duke-Crystal River, JEA Northside, Mosaic-Bartow, Mosaic-New Wales, Mosaic-South Pierce, Nutrien, Seminole, and TECO-Big Bend. See section 7.6.4.1 of the 2021 Plan.

EPA disagrees that the State cannot rely on existing controls for these eight facilities. The RHR provides flexibility in how its requirements may be addressed, and thus, it may be reasonable for a state not to select a source because the source may already have effective controls in place as a result of a previous regional haze SIP or to meet another CAA requirement. Thus, conducting an FFA would likely result in no new measures found necessary for reasonable progress at the eight aforementioned sources. In Responses 6.a through 6.h, EPA evaluates whether new measures would likely be found reasonable had an FFA been completed for the affected sources.

EPA agrees that guidance cannot override the plain language of the CAA and RHR. EPA's citations to guidance documents in the NPRM were intended to provide further context on what is generally considered to be a reasonable approach to fulfill the statutory and regulatory requirements addressing regional haze for the second planning period. EPA acknowledges that the suggestions in those guidance documents are not binding but are generally assumed to be reasonable. States can deviate from the suggestions within EPA guidance documents. However, they must do so in a reasonable way, accompanied by sufficient justification.

Comment 6.a: The Conservation Groups argue that Florida should have conducted an FFA for Duke-Crystal River, which is located approximately 20 kilometers (km) north of Chassahowitzka. They assert that the facility has the highest cumulative Q/d value (624.09) of any facility in the State and note EPA proposed to find reasonable Florida's adoption of the Mercury and Air Toxics Standards (MATS) SO2 limit,⁴⁴ 0.20 pounds per million British thermal unit (lb/MMBtu), for the Fossil Fuel Steam Generating Units 4 and 5 at Duke-Crystal River, and the permit requirements that allow the Citrus Combined Cycle Station Units 1A, 1B, 2A, and 2B to consume only pipeline natural gas. They contend that EPA wrongly takes at face value Florida's assertion that no other controls are likely to be available or cost-effective for this facility.

⁴⁴ The MATS Rule is located at 40 CFR part 63, subpart UUUUU.

The Conservation Groups state that Units 4 and 5 are capable of operating “well below” the SO2 MATS limit on a continuous basis. According to the Conservation Groups, Unit 5 consistently operated at emission rates below 0.10 lb/MMBtu between 2010 and 2013, with Unit 4 having similar performance. They argue that the only reason these units do not currently operate at these lower rates is because they are not constrained by an enforceable limit. The Conservation Groups maintain that instead of properly responding to public comments regarding the need for Florida to conduct an FFA for the facility, the State merely referred to its general position that EPA's 2019 Guidance notes that the MATS SO2 limit of 0.20 lb/MMBtu is “low enough that it is unlikely that an analysis of control measures . . . would conclude that even more stringent control of SO2 is necessary to make reasonable progress.” Furthermore, they acknowledge that their analysis of 2017-2023 scrubber efficiencies from these units are “very close to those EPA completed,” but argue that EPA failed to assess the results of its scrubber control efficiency work and recognize that the scrubbers at Units 4 and 5 “are operating sub-optimally” with large swings in the efficiencies, particularly in 2022 and 2023. The Conservation Groups conclude that an SO2 FFA would almost certainly result in cost-effective additional SO2 controls and that EPA cannot condone the State's lack of support for its determination that a full FFA will likely lead to the conclusion that no further controls are necessary. They maintain that EPA must require an FFA for Units 4 and 5.

Response 6.a: Regarding Duke-Crystal River's visibility impacts to Class I areas, as discussed in Response 2, Florida considered Q/d as part of its AoI analysis and then further applied PSAT modeling, which differs from the method used by the Conservation Groups. EPA finds Florida's source selection methodology and its results reasonable and has evaluated the PSAT data from Florida as the basis for this action as explained in Response 2.

EPA disagrees that Florida must conduct an FFA for Duke-Crystal River Units 4 and 5 for the reasons discussed in Response 6. EPA also disputes that there was lack of supporting documentation for EPA's proposed conclusions for Units 4 and 5.⁴⁵ Scrubber systems are widely considered the best control technology for reducing SO2 emissions, as they can achieve very high removal efficiencies, making them highly effective at capturing SO2 from industrial flue gases.⁴⁶ The MATS Rule is a fairly recent CAA requirement with co-benefits for reducing SO2. For the purpose of SO2 control measures, an EGU that has add-on flue gas desulfurization (FGD) ⁴⁷ and that meets the applicable alternative SO2 emission limit of the MATS Rule for power plants is one example of a scenario in which it may be reasonable for a state not to select a particular source for further analysis because the two limits in the rule (0.20 lb/MMBtu for coal-fired EGUs or 0.30 lb/MMBtu for EGUs fired with oil-derived solid fuel) are low enough that it is unlikely that an analysis of control measures for a source already equipped with a scrubber and meeting one of these limits would conclude that even more stringent control of SO2 is necessary to make reasonable progress.⁴⁸

⁴⁵ See 89 FR 105527 and EPA's analysis of EGUs in Florida found in the spreadsheet file called “FL EGU scrubber efficiency analysis 2017-2023” (hereinafter EGU scrubber efficiency spreadsheet) included in the docket for this rulemaking.

⁴⁶ See section 5, chapter 1, of EPA's “Air Pollution Cost Control Manual” (CCM), available at https://www.epa.gov/economic-and-cost-analysis-air-pollution-regulations/cost-reports-and-guidance-air-pollution.

⁴⁷ FGD is a type of scrubber system.

⁴⁸ See 2019 Guidance at 23.

EPA disagrees that the Agency took at face value Florida's conclusion that no other controls are likely available or cost effective for this facility. EPA analyzed the controls and confirmed that Duke-Crystal River Units 4 and 5 are not uncontrolled or lightly controlled for SO2, are subject to the MATS Rule alternative SO2 emission limit of 0.20 lb/MMBtu, and are equipped with wet scrubber systems that routinely achieve a high SO2 control effectiveness (with the yearly averages fluctuating between 96.2 to 98.9 percent).⁴⁹ The typical SO2 removal efficiency range for wet scrubbers ranges from 90 to 98 percent.⁵⁰ Thus, it is unlikely that an FFA would result in the conclusion that further SO2 emissions controls (including FGD upgrades) are necessary for reasonable progress in the second planning period. Therefore, EPA finds FDEP's effective controls demonstration for Duke-Crystal River to be reasonable. The “swings” in the control efficiencies alleged by the Conservation Groups are attributable to their use of data points that are not representative of the units' normal operation. For example, the Conservation Groups determined the control efficiency for Unit 4 was 72.7 percent during February 2023.⁵¹ However, the facility did not consume coal that month and did consume a small amount of distillate fuel oil, resulting in a slightly lower average yearly SO2 removal efficiency that is not representative of that unit's normal operation.

⁴⁹ See 89 FR 105527. Between 2017 to 2023, the yearly average FGD SO2 control efficiencies for Duke-Crystal River Unit 4 ranged from 96.2 to 98.9 percent and Unit 5 ranged from 96.4 to 97.6 percent. See EGU scrubber efficiency spreadsheet.

⁵⁰ See table 1.1 on page 1-3, section 5, chapter 1 of the CCM.

⁵¹ See Exhibit 42 attached to the Conservation Groups' comments.

Regarding the assertion that Florida failed to properly respond to the Conservation Groups' comments, see Response 12.

Comment 6.b: The Conservation Groups note that Florida's 2021 Plan incorporates a permitted SO2 limit of 0.15 lb/MMBtu for JEA Northside Units 1 and 2 and that Florida later supplemented its “effectively controlled” demonstration by incorporating the SO2 MATS limit of 0.20 lb/MMBtu, which applies continuously on a heat input-weighted 30-boiler operating day rolling average.⁵² However, they assert that the State cannot exempt a source from an FFA by relying on controls implemented under other CAA programs. The Conservation Groups argue that the application of the higher SO2 MATS limit fails to demonstrate that the units are effectively controlled because Units 1 and 2 have achieved lower SO2 emission rates than the MATS limits. Furthermore, the Conservation Groups state that neither JEA Northside nor the State provided adequate documentation to assess the SO2 removal efficiency of existing scrubbers, and that the State has not required the facility to conduct an analysis of potential NOX controls for Units 1 and 2. They conclude that EPA cannot approve a SIP that does not require JEA Northside to conduct a full FFA for SO2 and NOX.

⁵² See 2024 Supplement at 7.

The Conservation Groups also argue that EPA failed to distinguish “optimized scrubber efficiencies” from “scrubber efficiencies.” They assert that even small improvements in control efficiencies may lead to significant reductions in SO2 emissions, with the associated costs being primarily the additional reagent used, electricity for additional spray pumps, and potentially minor capital costs from improving the liquid to gas ratio. The Conservation Groups maintain that EPA relied on Florida's conclusion instead of conducting an independent analysis and that EPA's lack of independent assessment has allowed Florida to wrongly claim that many sources in the State are effectively controlled without considering the most stringent controls achievable.

Response 6.b: EPA disagrees that the Agency did not independently assess Florida's effectively controlled analysis for JEA Northside Units 1 and 2. EPA prepared and analyzed a spreadsheet providing FGD control efficiencies for the selected Florida power plants, including JEA Northside Units 1 and 2, discussed the data in the NPRM, and included the spreadsheet in the docket. See NPRM at 89 FR 105527.

Regarding the assertion that Florida must conduct a NOX FFA for JEA Northside Units 1 and 2, see Response 4. With respect to the contention that neither the State nor JEA Northside provided adequate documentation to assess the SO2 removal efficiency of existing scrubbers, the NPRM included EPA's assessment of the SO2 removal efficiencies for both units to augment the documentation that Florida provided. Regarding the fact that JEA Northside Units 1 and 2 have achieved lower SO2 emission rates than the MATS SO2 limit of 0.20 lb/MMBtu, these units are each subject to a 0.15 lb/MMBtu SO2 limit and EPA expects that these units will operate in compliance with their permitted emissions limits, and thus, actual emissions will routinely be below 0.15 lb SO2/MMBtu.

Scrubber systems are widely considered the best control technology for reducing SO2 emissions, as they can achieve very high removal efficiencies, making them highly effective at capturing SO2 from industrial flue gases.⁵³ The MATS Rule is a fairly recent CAA requirement with co-benefits for reducing SO2. For the purpose of SO2 control measures, an EGU that has add-on FGD and that meets the applicable alternative SO2 emission limit of the MATS Rule for power plants is one scenario in which it may be reasonable for a state not to select a particular source for further analysis because the two limits in the rule (0.20 lb/MMBtu for coal-fired EGUs or 0.30 lb/MMBtu for EGUs fired with oil-derived solid fuel) are low enough that it is unlikely that an analysis of control measures for a source already equipped with a scrubber and meeting one of these limits would conclude that even more stringent control of SO2 is necessary to make reasonable progress.⁵⁴ EPA's analysis confirms that JEA Northside Units 1 and 2 are not uncontrolled or lightly controlled for SO2; are subject to the MATS Rule alternative SO2 emission limit of 0.20 lb/MMBtu (30-boiler operating day rolling average), a SO2 emission limit of 0.15 lb/MMBtu (30-day rolling average), and a SO2 emission limit of 0.2 lb/MMBtu (24-hour block average); and are equipped with wet scrubber systems that routinely achieve a high SO2 control effectiveness (approximately 94.8-96.6 percent).⁵⁵ As discussed above, the typical SO2 removal efficiency range for wet scrubbers ranges from 90 to 98 percent.⁵⁶ Thus, it is unlikely that an FFA would result in the conclusion that further SO2 emissions controls (including FGD upgrades) are necessary for reasonable progress. Therefore, EPA finds FDEP's effective controls determination for Northside Units 1 and 2 to be reasonable.

⁵³ See section 5, chapter 1, of the CCM, available at https://www.epa.gov/economic-and-cost-analysis-air-pollution-regulations/cost-reports-and-guidance-air-pollution.

⁵⁴ See 2019 Guidance at 23.

⁵⁵ See 89 FR 105527. Between 2017 to 2023, the yearly average FGD SO2 control efficiencies for JEA Northside Unit 1 ranged from 94.9 to 96.3 percent and Unit 2 ranged from 94.8 to 96.6 percent. See EGU scrubber efficiency spreadsheet that is included in the docket for this rulemaking.

⁵⁶ See table 1.1 on page 1-3, section 5, chapter 1 of the CCM.

Comment 6.c: The Conservation Groups state that the Mosaic-Bartow, located 105 km from Chassahowitzka, is a significant source of SO2 and NOX based on NPCA's analysis of 2020 NEI data (showing 2,907 tpy of SO2 emissions and 153 tpy of NOX emissions). They also state that the facility likely impacts six Class I areas and has a “very high” cumulative Q/d of 85.69. The Conservation Groups conclude that despite the facility's significant SO2 emissions, the State determined it was effectively controlled and failed to conduct an FFA.

The Conservation Groups argue that while Florida proposed to exempt the SO2 emissions from Sulfur Acid Plants (SAPs) 4-6 because they are limited to 4 pounds of SO2 per ton of 100 percent sulfuric acid produced (lbs/ton), the State failed to specify averaging periods, provide a monitoring plan, and provide an opportunity for the emission limits and monitoring, recordkeeping, and reporting requirements to be reviewed and commented on. Furthermore, they claim that Florida failed to demonstrate the facility is effectively controlled and that an FFA would not identify additional necessary controls. They also state that, by only looking at EPA's “incomplete” Reasonably Available Control Technology (RACT), Best Available Control Technology (BACT), and Lowest Achievable Emission Rate (LAER) Clearinghouse (RBLC) database,⁵⁷ the State did not conduct a meaningful search of control options. The Conservation Groups add that the State did not document the information it found in the database, which they explain is contrary to the RHR's requirements to document the information it relied on for its SIP revision, preventing the public from being able to meaningfully review and comment on the State's analysis for the facility. Additionally, they state that “the range of 3.0 to 4.0 lbs/ton represents a potential increase of 33% in the SO2 emissions.” ⁵⁸

⁵⁷ EPA's RBLC is available at: https://www.epa.gov/catc/ractbactlaer-clearinghouse-rblc-basic-information. EPA's Clean Air Technology Center (CATC) maintains a permit database called the RBLC. The RBLC contains information about recent control technology determinations submitted by state and local agencies.

⁵⁸ Citing to 2021 Kordzi Report at 12-13.

The Conservation Groups also state that they provided these comments to the State and the State failed to meaningfully engage and respond. The Conservation Groups conclude that nothing in the record supports EPA's assertion that units are effectively controlled for SO2 and that additional reasonable controls are unlikely to be found, stating that EPA merely replicates the State's assertions and fails to document supporting information. Due to these issues, as well as others highlighted in the Kordzi Reports, they contend that the State has not demonstrated that the controls are equivalent to the best performing controls or conduct/require an FFA. Therefore, they argue that EPA must require Mosaic-Bartow to complete an FFA.

Response 6.c: Regarding Mosaic-Bartow's visibility impacts to Class I areas, as discussed in Response 2, Florida considered Q/d as part of its AoI analysis and then further conducted PSAT modeling, which differs from the method used by the Conservation Groups. EPA finds Florida's source selection methodology and its results reasonable and has evaluated the PSAT data from Florida as the basis for this action as explained in Response 2.

EPA disagrees that Florida proposed to exempt the SO2 emissions from SAP 4-6 from an FFA because the units are limited to a 4 lbs/ton production limit. Florida determined that SAPs 4-6 are effectively controlled and that additional reasonable controls are unlikely to be found through an FFA because (1) SAPs 4, 5, and 6 utilize double-absorption technology with vanadium promoted catalysts for the first three converter beds and a cesium-promoted catalyst for the fourth bed that oxidize SO2 generated from the sulfur furnace to form sulfur trioxide (SO3) at a conversion efficiency of 99.7 percent or higher,⁵⁹ and (2) the SIP contains a three-unit cap of 1,100 pounds per hour (lbs/hr) on a 24-hour block average (as determined by a continuous emission monitoring system (CEMS)), which is more stringent than the production limit of 4 lbs/ton,⁶⁰ a permit limit that the State determined is consistent with BACT determinations in the RBLC for sulfur burning, double-absorption SAPs with cesium-promoted catalysts.

⁵⁹ See AP 42, Fifth Edition, Volume I Chapter 8.10 available at: https://www.epa.gov/sites/default/files/2020-09/documents/8.10_sulfuric_acid.pdf; see also “Background Report AP-42 Section 5.17 Sulfuric Acid” available at: https://www.epa.gov/sites/default/files/2020-09/documents/final_background_document_for_sulfuric_acid_section_8.1_1.pdf; 2021 Plan at 255 and appendix G-2e.

⁶⁰ See Air Plan Approval and Designation of Areas; FL; Source-Specific SO2 Permit Limits & Redesignation of Hillsborough-Polk 2010 1-Hr SO2 Nonattainment Area to Attainment & Mulberry Unclassifiable Area to Attainment/Unclassifiable, 84 FR 47216, 47219 (September 9, 2019) (noting that the 1,100 lbs/hr limit reduced potential SO2 emissions from 5,694 tpy (pursuant to the 4 lbs/ton production limit) to 4,818 tpy). See also FDEP, Proposed Revision to State Implementation Plan, Submittal Number 2017-04, Incorporation of SO2 Emissions Limits for Two Facilities in Polk County (December 1, 2017) at 11-12, available as document EPA-R04-OAR-2018-0510-0008 in the www.regulations.gov docket for the September 9, 2019 action (hereinafter 2017 Florida SIP Revision).

The facility recently upgraded its catalyst beds and accepted the 1,100 lbs/hr SIP-approved limit to bring the Hillsborough-Polk nonattainment area into attainment for the 2010 SO2 National Ambient Air Quality Standards (NAAQS).⁶¹ The 4 lbs/ton limit, from New Source Performance Standards (NSPS) subpart H (see 40 CFR 60.82(a)), is included in the facility's operating permit,⁶² and is comparable to a SO2 conversion efficiency of 99.7 percent. Florida's Haze Plan does not contain the 4 lbs/ton limit because the SIP already contains the more stringent 1,100 lbs/hr cap.⁶³ Florida evaluated SO2 BACT determinations for sulfur burning, double-absorption SAPs with cesium-promoted catalysts in the RBLC and determined that they are in the range of 3.0 to 4.0 lbs/ton. EPA performed a search of SAPs from 2000 to 2025 in the RBLC and found many instances where the double absorption process is associated with BACT.⁶⁴ Regardless, a source is not required to meet BACT to satisfy the RHR, and EPA is not performing a BACT analysis in this action. Because Mosaic-Bartow utilizes double-absorption technology with catalytic enhacement and is achieving a SO2 conversion efficiency greater than 99.7 percent under the 1,100 lbs/hr cap, EPA finds that it is unlikely that an FFA would conclude that even more stringent control is necessary for reasonable progress and finds Florida's effective controls determination for SAPs 4-6 to be reasonable.

⁶¹ See 85 FR 9666.

⁶² See Condition E.6. of Permit No.1050046-091-AV.

⁶³ See 85 FR 9666.

⁶⁴ The statutory considerations for selecting BACT are similar to, if not more stringent than, the four statutory factors for reasonable progress. See 2019 Guidance at 23. See also EPA's RBLC search result included in the docket for this rulemaking.

With respect to the comment regarding the State's alleged failure to specify averaging periods, provide a monitoring plan, and provide an opportunity for public comment for the 4 lbs/ton limit, the State was not required to perform these tasks because the State is not adding this limit to its SIP. Although the Conservation Groups do not address the 1,100 lbs/hr limit, EPA notes that the public had the opportunity to comment on that limit during the 2019 rulemaking incorporating the limit into the SIP,⁶⁵ during the state-level public comment period on the draft Haze Plan, and during the public comment period for EPA's proposed rulemaking on the Haze Plan.

⁶⁵ The final rule at 85 FR 9666 was preceded by a notice of proposed rulemaking published on September 9, 2019 (84 FR 47216). The public comment period closed on October 9, 2019.

The comment that “the range of 3.0 to 4.0 lbs/ton of sulfuric acid produced represents a potential increase of 33% in the SO2 emissions” is unclear as is its relationship to the 1,100 lbs/hr SIP-approved limit, but it appears to relate to the change between these two values to support the contention that “such a wide range should not be used to characterize the acceptable range of best performing controls.” There is no requirement in the CAA or the RHR for second period regional haze plans to evaluate and/or select the most stringent (“best”) control option for selected sources, and as discussed above, the 1,100 lbs/hr limit results in a SO2 conversion efficiency greater than 99.7 percent.

EPA disagrees that Florida is required to demonstrate that Mosaic-Bartow has the “best performing controls” as part of its existing, effective controls demonstration. There is no statutory or regulatory requirement to have each selected source evaluate and/or adopt the most stringent controls or emission limits. Rather, states are required to include in the LTS the measures necessary for reasonable progress, which Florida did for Mosaic-Bartow.⁶⁶

⁶⁶ The 2021 Plan explains that existing SO2 measures identified in the existing controls analysis are already adopted into the Florida SIP for Mosaic-Bartow (85 FR 9666 (February 20, 2020)). See 2021 Plan at 255.

Regarding the comment that Florida needs to explain a statement in the State's December 2017 SIP revision that “the production-based emissions limits at the 3 sulfuric acid plants of 4 lbs SO2/ton of 100% H2SO4 are effectively lowered to 3.4 lbs SO2/ton of 100% H2SO4” ⁶⁷ and how this affects the limits discussed on page 255 of the 2021 Plan, it is self-evident that the 3.4 lbs SO2/ton production-based limit is the effective production-based limit equivalent of the SIP-approved 1,100 lbs/hr cap. The effectively equivalent limit does not affect the limits discussed on page 255 of the 2021 Plan because Florida is relying on the 1,100 lbs/hr cap for regional haze purposes, not the 4 lbs SO2/ton production-based limit.

⁶⁷ See 2017 Florida SIP Revision at 12.

With respect to the assertion that Florida's response to comments failed to meaningfully engage and respond to the Conservation Groups' comments, see Response 12.

Regarding Florida's use of the RBLC and documentation of information from the RBLC, Florida evaluated SO2 BACT determinations for sulfur burning, double-absorption SAPs with cesium-promoted catalysts in the RBLC and determined that they are in the range of 3.0 to 4.0 lbs/ton. The RBLC is publicly available and may be searched by any member of the public. Although the RHR requires the State to document the technical basis, including modeling, monitoring, cost, engineering, and emissions information, on which the State is relying to determine the emission reduction measures that are necessary to make reasonable progress in each mandatory Class I area it affects, it does not specify what that documentation must consist of. See 40 CFR 51.308(f)(2)(iii). It was unnecessary in this instance for the State to provide additional documentation because Florida identified the RBLC as the source of information and provided the criteria necessary for the public to replicate the analysis. As discussed above, EPA conducted its own search of the RBLC for SAPs using a timeframe from 2000 to 2025 to independently assess Florida's findings.⁶⁸

⁶⁸ EPA used the industry process type code of 62.015 for “sulfuric acid plants,” selecting “SOX” as the pollutant name. See EPA's RBLC search result.

Comment 6.d: The Conservation Groups state that Mosaic-New Wales, located 103 km from Chassahowitzka, is a significant source of SO2 and NOX based on NPCA's analysis of 2020 NEI data (showing 4,002 tpy of SO2 emissions and 218 tpy of NOX emissions). They also state that the facility likely impacts 11 Class I areas and has a “very high” cumulative Q/d of 147.51. The facility was one of the sources the State determined was effectively controlled; however, the Conservation Groups argue that the State failed to demonstrate that the controls are equivalent to the best performing controls or conduct an FFA.

The Conservation Groups reference their state-level comments to Florida regarding Mosaic-New Wales, including a comment that the range of 3.0 to 4.0 lbs/ton is potentially a 33 percent increase in SO2 emissions, and claim that the State failed to meaningfully engage and respond to their comments. They argue that EPA is rubber stamping Florida's approach, fails to recognize the issues the Conservation Groups identified, and provides no separate justification to exempt Mosaic-New Wales from the FFA requirement. Therefore, they argue that EPA must require Mosaic-New Wales to be subjected to an FFA.

Response 6.d: Regarding Mosaic-New Wales' visibility impacts to Class I areas, as discussed in Response 2, Florida considered Q/d as part of its AoI analysis and then further conducted PSAT modeling, which differs from the method used by the Conservation Groups. EPA finds that Florida's source selection methodology and its results are reasonable and has evaluated the PSAT data from Florida as the basis for this action, as explained in Response 2.

Florida proposed to exempt the SO2 emissions from SAPs 1-5 from an FFA because (1) these units utilize double-absorption technology with vanadium-promoted catalyst for the first three converter beds and cesium-promoted catalyst for the fourth bed that oxidize SO2 generated from the sulfur furnace to form SO3 at a conversion efficiency of 99.7 percent or higher,⁶⁹ and (2) the SIP contains a five-unit cap of 1,090 lbs/hr on a 24-hour block average (as determined by CEMS), which is more stringent than the production limit of 3.5 lbs/ton, a limit included in the facility's operating permit for SAPs 1-3, and the production limit of 4 lbs/ton for SAPs 4-5,⁷⁰ which is a limit that the State determined is consistent with BACT determinations in the RBLC for sulfur burning, double-absorption SAPs with cesium-promoted catalysts.

⁶⁹ See AP 42, Fifth Edition, Volume I Chapter 8.10 available at: https://www.epa.gov/sites/default/files/2020-09/documents/8.10_sulfuric_acid.pdf; see also “Background Report AP-42 Section 5.17 Sulfuric Acid” available at: https://www.epa.gov/sites/default/files/2020-09/documents/final_background_document_for_sulfuric_acid_section_8.1_1.pdf; 2021 Plan at 255 and appendix G-2f.

⁷⁰ See 84 FR 47216, 47219 (September 9, 2019) (noting that the 1,090 lbs/hr limit reduced potential SO2 emissions from 10,750 tpy (under the 4 lbs/ton and 3.5 lbs/ton production limits) to 4,774 tpy). See 2017 Florida SIP Revision at 11.

The facility recently upgraded its catalyst beds and accepted the 1,090 lbs/hr SIP-approved limit to bring the Hillsborough-Polk nonattainment area into attainment for the 2010 SO2 NAAQS.⁷¹ The 4.0 lbs/ton limit is from NSPS subpart H (see 40 CFR 60.82(a)), is included in the facility's operating permit, and is comparable to a SO2 conversion efficiency of 99.7 percent. Florida's Haze Plan does not contain the 3.5 lbs/ton or 4 lbs/ton limit because the SIP already contains the more stringent 1,090 lbs/hr cap.⁷² Florida evaluated SO2 BACT determinations for sulfur burning, double-absorption SAPs with cesium-promoted catalysts in the RBLC and determined that they are in the range of 3.0 to 4.0 lbs/ton. EPA performed a search of SAPs from 2000 to 2025 in the RBLC and found many instances where double absorption technology is associated with BACT (e.g., Mississippi Phosphates Company in Jackson, Mississippi; PCS Phosphate Company in Beaufort, North Carolina; Plant City Phosphate Complex in Hillsoborough, Florida).⁷³ Regardless, a source is not required to meet BACT to satisfy the RHR, and EPA is not performing a BACT analysis in this action. Because Mosaic-New Wales utilizes double-absorption technology with catalytic enhacement and is achieving a SO2 conversion efficiency greater than 99.7 percent under the 1,090 lbs/hr cap, EPA finds that it is unlikely that an FFA would conclude that even more stringent control is necessary for reasonable progress and finds Florida's effective control determination for SAPs 1-5 to be reasonable.

⁷¹ See 85 FR 9666.

⁷² See footnote 70.

⁷³ The statutory considerations for selecting BACT are similar to, if not more stringent than, the four statutory factors for reasonable progress. See 2019 Guidance at 23.

EPA disagrees that Florida is required to demonstrate that Mosaic-New Wales has the “best performing controls” as part of its existing, effective controls demonstration. There is no statutory or regulatory requirement to have each selected source evaluate and/or adopt the most stringent controls or emission limits for second planning period haze plan. Rather, states are required to include in the LTS the measures necessary for reasonable progress, which Florida did for Mosaic-New Wales.⁷⁴ EPA finds that Florida's conclusion that Mosaic-New Wales SAPs 1-5 has existing effective SO2 controls to be reasonable.

⁷⁴ The 2021 Plan explains that existing SO2 measures deemed necessary for reasonable progress for the second planning period are already adopted into the Florida SIP for Mosaic-New Wales (85 FR 9666 (February 20, 2020)).

The comment that “the range of 3.0 to 4.0 lbs/ton of sulfuric acid produced represents a potential increase of 33% in the SO2 emissions” is unclear, as is its relationship to the 1,090 lbs/hr SIP-approved limit, but it appears to relate to the change between these two values to support the contention that “such a wide range should not be used to characterize the acceptable range of best performing controls.” There is no requirement in the CAA or the RHR for second period regional haze plans to evaluate and/or select the most stringent (“best”) control option for selected sources, and as discussed above, the 1,090 lbs/hr limit results in a SO2 conversion efficiency greater than 99.7 percent.

Regarding the comment that Florida needs to explain a statement in the State's December 2017 SIP revision that “the production-based emissions limits at the five sulfuric acid plants of 3.5 and 4 lbs SO2/ton of 100 percent H2SO4 are effectively lowered to 1.6 & 1.8 lbs SO2/ton of 100 percent H2SO4, respectively,” ⁷⁵ and how this affects the limits discussed on page 255 of the 2021 Plan, it is self-evident that these 1.6 and 1.8 lbs SO2/ton production-based limits are the effective production-based limit equivalents of the SIP-approved 1,090 lbs/hr cap. These effectively equivalent limits do not affect the limits discussed on page 255 of the 2021 Plan because Florida is relying on the 1,090 lbs/hr cap for regional haze purposes, not the 3.5 lbs SO2/ton or 4 lbs SO2/ton production-based limit.

⁷⁵ See 2017 Florida SIP Revision at 11.

With respect to the assertion that Florida's response to comments failed to meaningfully engage and respond to the Conservation Groups' comments, see Response 12.

Comment 6.e: The Conservation Groups state that Mosaic-South Pierce, located 114 km from Chassahowitzka, is a significant source of SO2 and NOX based on NPCA's analysis of 2020 NEI data (showing 1,739 tpy of SO2 emissions and 66 tpy of NOX emissions). They also state that the facility likely impacts three Class I areas and has a “very high” cumulative Q/d of 35.81.

The Conservation Groups contend that their comments to Florida identified numerous issues with the State's determination that SAPs 10 and 11 are effectively controlled and that Florida failed to meaningfully consider and respond to their comments. They also contend that EPA failed to recognize “Florida's short-comings and misrepresentations” identified in NPS' comments to the State. According to the Conservation Groups, NPS identified several facilities in the RBLC with additional post-process controls, including scrubbers (hydrogen peroxide or caustic scrubbers) and/or mist elimination with emission limits as low as 0.15 lb SO2/ton of sulfuric acid and noted that Idaho's second planning period Regional Haze SIP found wet flue gas desulfurization (WFGD), hydrogen peroxide scrubbers, and dry sorbent injection (DSI)/caustic scrubbers to be technically feasible. The Conservation Groups assert that Florida failed to consider this information and responded by stating that it had reviewed the information regarding the use of post-process scrubbers and determined it would not be cost-effective. They argue the Second 2024 Supplement provided “no actual documented and reasoned determination for this position.” The Conservation Groups conclude that EPA must require Mosaic-South Pierce to conduct an FFA.

Response 6.e: Regarding Mosaic-South Pierce's visibility impacts to Class I areas, as discussed in Response 2, Florida considered Q/d as part of its AoI analysis and then further conducted PSAT modeling, which differs from the method used by the Conservation Groups. EPA finds Florida's source selection methodology and its results reasonable and has evaluated the PSAT data from Florida as the basis for this action.

Regarding the comment that additional scrubbers could have been evaluated at SAPs 10 and 11 at Mosaic-South Pierce, there is no statutory or regulatory requirement to evaluate all technically feasible control measures each period (see also Response 6). Rather, states are required to include in the LTS the measures necessary for reasonable progress, which Florida did for Mosaic-South Pierce.⁷⁶ However, the RHR does not require states to evaluate or implement all possible cost-effective controls including all available permutations of each control option. EPA's RBLC search identified many instances where double absorption process is associated with BACT for SAPs.⁷⁷

⁷⁶ The 2024 Supplement explains that existing SO2 measures deemed necessary for reasonable progress for the second planning period are already adopted into the Florida SIP for Mosaic-South Pierce (see 88 FR 51702, August 4, 2023).

⁷⁷ See EPA's RBLC search result.

SAPs 10 and 11 utilize double-absorption technology with vanadium-promoted catalyst for the first three converter beds and cesium-promoted catalyst for the fourth bed that oxidize SO2 generated from the sulfur furnace to form SO3 at a conversion efficiency of 99.7 percent or higher.⁷⁸ Appendix B-2 of Florida's 2024 Supplement contains the RBLC results from Mosaic showing that the use of double absorption technology with cesium promoted catalyst represents BACT in the range of 3.0 to 4.0 lbs/ton for SO2 emissions.⁷⁹ Regardless, a source is not required to meet BACT to satisfy the RHR, and EPA is not performing a BACT analysis in this action. Because Mosaic-South Pierce utilizes double-absorption technology with catalytic enhacement and is achieving a conversion efficiency of 99.7 percent or higher, EPA finds that it is unlikely that an FFA would conclude that even more stringent control is necessary for reasonable progress and finds Florida's effective control determination to be reasonable.

⁷⁸ See 2024 Supplement and appendix B-2 of the 2024 Supplement.

⁷⁹ The statutory considerations for selecting BACT are similar to, if not more stringent than, the four statutory factors for reasonable progress. See 2019 Guidance at 23.

EPA is aware that NPS identified facilities in the RBLC with additional post-process controls and that Idaho's second planning period regional haze SIP found WFGD, hydrogen peroxide scrubbers, and DSI/caustic scrubbers to be technically feasible for Itafos Conda. However, there is no CAA or RHR requirement for second period haze plans that specifies the scope of technically feasible control options to evaluate for each unit type and pollutant. Thus, Florida reasonably applied this discretion by focusing on the main form of SO2 control in use currently at other SAPs: double absorption technology with catalytic enhancement.⁸⁰ Regarding Itafos Conda, the Conservation Groups did not acknowledge the subsequent analysis the facility submitted to the Idaho Department of Environmental Quality that addressed issues with the original analysis and determined that no additional controls beyond dual-absorption technology with catalytic enhancement were reasonable.⁸¹

⁸⁰ See the RBLC search results included in the 2021 Plan (appendices G-2e, G-2f, and G-2g) and 2024 Supplement (appendix B-2). See also RBLC results documented in the Conservation Groups' Exhibit 36 and EPA's RBLC search result.

⁸¹ See Idaho's “Regional Haze State Implementation Plan for the 2nd Planning Period” (June 2022) (erroneously marked with a “draft” watermark) included in the docket for this rulemaking; “Supplement to Idaho Regional Haze State Implementation Plan for the Second Planning Period” (August 2024) included in the docket; 90 FR 13516, 13531-32 (March 24, 2025).

With respect to the assertion that Florida's response to comments failed to meaningfully engage and respond to the Conservation Groups' comments, see Response 12.

Comment 6.f: The Conservation Groups state that Nutrien, located 37 km from Okefenokee, is a significant source of SO2 and NOX based on NPCA's analysis of 2020 NEI data. They also state that the facility likely impacts four Class I areas and has a “very high” cumulative Q/d of 77.26.

The Conservation Groups argue that Florida incorrectly exempted Nutrien from an FFA based on its determination that seven-year-old upgrades to the SAPs, required by a consent decree, are consistent with recent BACT determinations for similar SAPs. They also argue that Florida did not meaningfully engage and respond to their comments, EPA's suggestion that a 10-year-old consent decree is “recent” is “not true,” and EPA's proposal contradicts the record. The Conservation Groups assert that assuming upgrades required by a consent decree are adequate is not a substitute for an FFA and that the record shows that there are other plants with much lower limits than those for the facility. The Conservation Groups conclude that EPA must require Nutrien be subjected to an FFA.

Response 6.f: Regarding Nutrien's visibility impacts to Class I areas, as discussed in Response 2, Florida considered Q/d as part of its AoI analysis and then further conducted PSAT modeling, which differs from the method used by the Conservation Groups. EPA finds Florida's source selection methodology and its results reasonable and has evaluated the PSAT data from Florida as the basis for this action as explained in Response 2.

With respect to the 2015 consent decree, as stated in the NPRM (89 FR 105523), Nutrien completed upgrades to its catalysts on SAP E and SAP F which enabled these SAPs to meet new SO2 emission limits of 2.6 lbs/ton of sulfuric acid on a three-hour rolling average (excluding startups and shutdowns) and 2.3 lbs/ton of sulfuric acid on a 365-day rolling average (including startups and shutdowns), pursuant to the consent decree.⁸² Nutrien came into compliance with these limits on January 1, 2018, for SAP F and January 1, 2020, for SAP E. Thus, compliance with the consent decree occurred five to seven years ago, within the second planning period.

⁸² SAPs E and F utilize the double-absorption process with vanadium-promoted catalyst for the first three converter beds and vanadium/cesium-based catalyst for the fourth bed that oxidize SO2 to SO3 at a conversion effiency greater than 99.7 percent. See appendix G-2g of the 2021 Plan.

With respect to the comments regarding the 2015 consent decree, EPA does not, as the Conservation Groups suggest, generally assume that upgrades required by a consent decree are an adequate substitute for an FFA. EPA and the State evaluated the specific requirements of the 2015 consent decree for Nutrien and determined that they reflect existing effective controls for this facility. The consent decree resolved allegations that Nutrien (and/or their predecessors in interest) constructed or modified, and then operated, the Nutrien facility without, among other things, installing BACT.⁸³ This suggests that the limits in the consent decree represented BACT for the Nutrien SAPs at the time of execution in 2015.⁸⁴ The 2020 effective control analysis for the facility in appendix G-2 of the 2021 Plan also evaluated the RBLC for BACT determinations made on sulfur-burning SAPs with catalyst enhancement and concluded that the emission limits for SAPs E and F are “consistent with, and equivalent to the most recent BACT determinations made for similar double-absorption, sulfur-burning sulfuric acid plants.” The analysis also states that “there have been no new developments in catalyst technology and/or strategies for operating SAPs since these BACT determinations have been made.” Regardless, a source is not required to meet BACT to satisfy the RHR, and EPA is not performing a BACT analysis in this action. Because Nutrien utilizes double-absorption technology with catalytic enhancement and is achieving a SO2 conversion efficiency of greater than 99.7 percent under the consent decree's SO2 emission limits, EPA finds that it is unlikely that an FFA would conclude that even more stringent control is necessary for reasonable progress and finds Florida's effective control determination to be reasonable.

⁸³ See 2015 Consent Decree at 2.

⁸⁴ As discussed above, the statutory considerations for selecting BACT are similar to, if not more stringent than, the four statutory factors for reasonable progress. See 2019 Guidance at 23. EPA believes that a BACT determination within eight years of a SIP submission for the second planning period should be consistent with up-to-date, effective, and reasonable control measures. Id.

Regarding the comment that other SAPs are achieving lower emissions limits, there is no statutory or regulatory requirement to achieve the lowest possible emissions rate for reasonable progress (see also Response 6). Rather, states are required to include in the LTS the measures necessary for reasonable progress, which Florida did for Nutrien. EPA finds Florida's determination that Nutrien SAPs E and F are effectively controlled for SO2 reasonable.

With respect to the assertion that Florida's response to comments failed to meaningfully engage and respond to the Conservation Groups' comments, see Response 12.

Comment 6.g: The Conservation Groups argue that EPA wrongly proposes to find Florida's determination that Seminole's Unit 1 and Unit 2 are effectively controlled for SO2 (including the determination to accept the MATS limit of 0.20 lb/MMBtu) reasonable and merely repeats Florida's flawed contentions without scrutiny. Furthermore, they claim the RHR has consistently acknowledged that scrubber upgrades are cost-effective and should be considered to ensure reasonable progress; EPA's guidance that FGD systems installed since 2007 should achieve at least 95 percent effectiveness does not exempt states from evaluating feasible and cost-effective reductions; and Florida arbitrarily ignores achievable emission reductions and fails to consider technically and economically feasible upgrades to scrubbers and selective catalytic reduction (SCR) systems. They state that EPA's data evaluation from 2017 to 2023 showed that Seminole is historically capable of achieving 96.5 to 97.3 percent year average SO2 control efficiencies, with a seven-year average SO2 removal efficiency of 96.8 percent, and acknowledge that their analysis of 2017-2023 scrubber efficiencies from these units are “very close” to EPA's evaluation. However, they argue that EPA fails to recognize that the wet scrubber systems for Seminole Unit 2 is operating sub-optimally with large swings in efficiencies, particularly in 2022 and 2023. The Conservation Groups state that the scrubber at Unit 2 has historic efficiency levels as high as 97.2 percent but a 95.8 percent control efficiency in 2023. Therefore, they claim an SO2 FFA would almost certainly lead to additional cost-effective controls for SO2 emissions because currently the wet scrubber systems are “exhibiting large swings in their scrubber efficiencies, particularly in 2022 and 2023.” ⁸⁵ They state that since Florida did not provide analysis demonstrating that Seminole Unit 2 is effectively controlled, EPA wrongly proposes to find the State's determination reasonable. Instead, they assert that it is necessary to conduct a full FFA of the unit.

⁸⁵ See 2025 Kordzi Report at 24.

Response 6.g: EPA disagrees that the Agency did no further analysis of Florida's demonstration that Seminole Units 1 and 2 have existing effective controls for SO2. In fact, as acknowledged by the Conservation Groups, EPA prepared and analyzed scrubber control efficiency data for Seminole Units 1 and 2 using 2017-2023 data.⁸⁶

⁸⁶ See 89 FR 105528 and the EGU scrubber efficiency spreadsheet.

The Conservation Groups state that Seminole Unit 1 appears to have retired. According to EPA's Clean Air Markets Program Data (CAMPD) website ⁸⁷ and the United States Energy Information Administration (EIA),⁸⁸ Unit 1 is retired as of December 2023.

⁸⁷ See CAMPD data available at: https://campd.epa.gov/data/custom-data-download.

⁸⁸ See Preliminary Monthly Electric Generator Inventory (based on Form EIA-860M as a supplement to Form EIA-860), specifically the January 2024 spreadsheet available at: https://www.eia.gov/electricity/data/eia860m/.

Scrubber systems are widely considered the best control technology for reducing SO2 emissions, as they can achieve very high removal efficiencies, making them highly effective at capturing SO2 from industrial flue gases.⁸⁹ The MATS Rule is a fairly recent CAA requirement with co-benefits for reducing SO2. For the purpose of SO2 control measures, an EGU that has add-on FGD and that meets the applicable alternative SO2 emission limit of the MATS Rule for power plants is one example of a scenario in which it may be reasonable for a state not to select a particular source for further analysis because the two limits in the rule (0.20 lb/MMBtu for coal-fired EGUs or 0.30 lb/MMBtu for EGUs fired with oil-derived solid fuel) are low enough that it is unlikely that an analysis of control measures for a source already equipped with a scrubber and meeting one of these limits would conclude that even more stringent control of SO2 is necessary to make reasonable progress.⁹⁰

⁸⁹ See section 5, chapter 1, of the CCM available at https://www.epa.gov/economic-and-cost-analysis-air-pollution-regulations/cost-reports-and-guidance-air-pollution.

⁹⁰ See 2019 Guidance at 23.

Regarding comments that scrubber upgrades are not expensive and that 95 percent scrubber control efficiency does not exempt an EGU from further analysis as effectively controlled for SO2, EPA's analysis confirms that the units are not uncontrolled or lightly controlled, are subject to the MATS Rule alternative SO2 emission limit of 0.20 lb/MMBtu, and are equipped with WFGD that routinely achieve a high SO2 control effectiveness. As stated in the NPRM (89 FR 105528), EPA calculated FGD control efficiencies at Units 1 and 2 at Seminole during periods when coal is one of the fuel sources consumed over the 2017-2023 period and calculated that the existing FGD systems routinely achieve 96.5 to 97.3 percent yearly average SO2 removal efficiencies, with a seven-year average (2017-2023) SO2 removal efficiency of 96.8 percent.⁹¹ As stated above, the typical SO2 removal efficiency range for wet scrubbers ranges from 90 to 98 percent.⁹² Thus, it is unlikely that were an FFA completed, these existing control efficiencies could be improved cost-effectively and result in meaningful emissions reductions. Therefore, EPA finds FDEP's effective controls determination for Seminole Units 1 and 2 to be reasonable. The “swings” in the control efficiencies alleged by the Conservation Groups are attributable to the their use of data points that are not representative of unit's normal operation. For example, the Conservation Groups determined the control efficiency for Unit 2 was 84.9 percent during March 2023.⁹³ However, the facility did not consume coal that month and did consume a small amount of distillate fuel oil, resulting in a slightly lower average yearly SO2 removal efficiency that is not representative of unit's normal operation.

⁹¹ See 89 FR 105528. Between 2017 to 2023, the yearly average FGD SO2 control efficiencies for Seminole Unit 1 ranged from 96.6 to 97.0 percent and Unit 2 ranged from 96.5 to 97.3 percent. See EGU scrubber efficiency spreadsheet that is included in the docket for this rulemaking.

⁹² See table 1.1 on page 1-3, section 5, chapter 1 of the CCM.

⁹³ See Exhibit 42 attached to the Conservation Groups' comments.

EPA disagrees with the comment that Florida did not adequately demonstrate that Unit 2 has existing, effective controls for SO2 for the second planning period. Florida describes both Units 1 and 2 as subject to the MATS SO2 limit of 0.20 lb/MMBtu on page 254 of the 2021 Plan and includes both units in table 7-27 of the 2021 Plan when comparing actual SO2 emissions rates to this MATS limitation. Also, in the “Materials to be Incorporated into the SIP” section of the 2021 Plan, both Units 1 and 2 are listed as affected units for which the MATS SO2 limit of 0.20 lb/MMBtu is proposed for incorporation into the SIP.

Comment 6.h: The Conservation Groups argue that EPA's proposal to approve Florida's determination that TECO-Big Bend Unit 4 is effectively controlled for SO2 and that no additional reasonable controls are likely to be identified because the SIP will incorporate the SO2 MATS limit of 0.20 lb/MMBtu is insufficient. The Conservation Groups add that the State did not require a detailed FFA from TECO-Big Bend for Unit 4, or require the facility to provide supporting documentation to explain why it is effectively controlled for SO2 emissions with wet scrubbers.

The Conservation Groups assert that it is difficult to determine the performance potential of the SCR and scrubber systems for TECO-Big Bend Unit 4 because it is permitted to consume multiple fuel types and periods of low SO2 and NOX could reflect the partial use of natural gas. They also allege that the SCR system was not being used to its full capacity and is minimally operated to achieve its 0.10 lb of NOX/MMBtu emission limit. They therefore assert that EPA must require the State to conduct FFAs of SO2 and NOX emissions and must independently review the analyses, fill in the gaps where necessary, and then establish practically enforceable emission limits.

The Conservation Groups explain that while EPA evaluated data from 2017 to 2023 and calculated that the existing FGD system had yearly average SO2 removal efficiencies ranging between 92.2 to 97.1 percent during periods when coal is one of the fuel sources consumed, EPA failed to assess the results of its work and did not provide any opinion on how these values relate to an achievable optimized control efficiency of a modern scrubber system. They contend that an SO2 FFA of TECO-Big Bend Unit 4 would almost certainly result in additional cost-effective control for SO2.

The Conservation Groups argue that an FFA is necessary to determine if the scrubber and SCR systems can be cost-effectively upgraded or optimized, the scrubber system is underperforming, and EPA cannot approve a SIP that refuses to conduct an FFA because Florida failed to explain why an FFA would result in a conclusion that no further controls are necessary.

Response 6.h: Regarding arguments that Florida must evaluate NOX controls for TECO-Big Bend Unit 4, see Response 4. Regarding SO2, EPA disagrees with the assertion that Florida must conduct a full FFA of Unit 4 for SO2.⁹⁴ Scrubber systems are widely considered the best control technology for reducing SO2 emissions, as they can achieve very high removal efficiencies, making them highly effective at capturing SO2 from industrial flue gases.⁹⁵ The MATS Rule is a fairly recent CAA requirement with co-benefits for reducing SO2. For the purpose of SO2 control measures, an EGU that has add-on FGD and that meets the applicable alternative SO2 emission limit of the MATS Rule for power plants is one example of a scenario in which it may be reasonable for a state not to select a particular source for further analysis because the two limits in the rule (0.20 lb/MMBtu for coal-fired EGUs or 0.30 lb/MMBtu for EGUs fired with oil-derived solid fuel) are low enough that it is unlikely that an analysis of control measures for a source already equipped with a scrubber and meeting one of these limits would conclude that even more stringent control of SO2 is necessary to make reasonable progress.⁹⁶

⁹⁴ Unit 3 at TECO-Big Bend was permanently retired from electric generation service on April 26, 2023, and therefore, Florida's demonstration of existing, effective controls is no longer relevant and no further action is required by EPA. The Retired Unit Exemption Form for TECO-Big Bend Unit 3 is included in the docket for this rulemaking. On December 12, 2024, FDEP provided a letter removing the units from the Florida regional haze plan because the unit is permanently retired. This letter is in the docket for this rulemaking.

⁹⁵ See section 5, chapter 1, of the CCM available at https://www.epa.gov/economic-and-cost-analysis-air-pollution-regulations/cost-reports-and-guidance-air-pollution.

⁹⁶ See 2019 Guidance at 23.

EPA disagrees that the Agency did not assess the results of its work. EPA's analysis confirms that Unit 4 is not uncontrolled or lightly controlled, is subject to the MATS Rule alternative SO2 emission limit of 0.20 lb/MMBtu, and is equipped with WFGD that routinely achieves a high SO2 control effectiveness.⁹⁷ As stated in the NPRM (89 FR 105528), EPA evaluated data from 2017-2023 for Unit 4 and calculated that the existing FGD system routinely achieves 92.2 to 97.1 percent yearly average SO2 removal efficiencies during periods when coal is one of the fuel sources consumed, with a seven-year average (2017-2023) SO2 removal efficiency of 95.8 percent.⁹⁸ Additionally, except for two months at the end of 2023, the unit routinely achieved 95 percent or great removal efficiency.⁹⁹ Regarding the comment that EPA failed to provide any opinion as to how the 92.2 to 97.1 percent yearly average SO2 removal efficiencies relate to the optimized control level that a modern scrubber system is capable of achieving, EPA believes that it is unlikely that an FFA would result in the conclusion that further SO2 emissions controls (including FGD upgrades) are necessary for reasonable progress. Therefore, EPA finds FDEP's effective controls determination for TECO-Big Bend Unit 4 to be reasonable.

⁹⁷ See EPA's EGU scrubber efficiency spreadsheet.

⁹⁸ Id.

⁹⁹ The EIA data reports Big Bend Unit 4 as burning bituminous coal with a sulfur content between 2 and 3.15 percent for all months in the 2017-2023 time period through October 2023. However, the Unit is listed as burning low-sulfur coal with a sulfur content of 0.3 to 0.6 percent in November and December of 2023. The reported low sulfur content caused the calculation of removal efficiency to be low for those months (73 to 85 percent), which lowered the annual average for 2023. Assuming the data is accurate, the SO2 emissions for November and December 2023 were similar or lower than the SO2 emissions from other months in 2023, and the emissions rate never exceeded 0.16 lb/MMBtu in any month in 2023.

EPA acknowledges that TECO-Big Bend can consume multiple fuel types; however, only coal and natural gas consumption were documented in the EIA data that is a part of the EGU scrubber efficiency spreadsheet between 2017-2023. EPA disagrees with the Conservation Groups' assertion that it is difficult to determine a scrubber's control efficiency if a unit is consuming multiple fuel sources. As indicated in the EGU scrubber efficiency spreadsheet included in the docket for this action, EPA determined a unit's control efficiency by calculating the sum of the uncontrolled tons of SO2 emitted from each fuel source and comparing it to the measured SO2 emitted after the controls (data from CAMPD). For example, if a unit consumed a mixture of coal and natural gas, the predicted uncontrolled tons of SO2 emitted by the unit and CEMS SO2 emissions values are only attributable to sulfur from the coal consumed. The contribution of SO2 from natural gas to the predicted uncontrolled tons of SO2 (by unit) would be nearly zero. Therefore, the partial consumption of natural gas does not meaningfully impact how the SO2 scrubber efficiency was determined.

Comment 7: The Conservation Groups assert that Florida unreasonably excluded several EGU and non-EGU sources “that EPA does not cover in its proposal” from FFA requirements. The Conservation Groups maintain that EPA wrongly proposes to approve the State's exclusion of Deerhaven Generating Station (Deerhaven) from the FFA requirement based on a fuel co-firing project that will allow the facility to burn up to 100 percent natural gas. They argue that the facility is not restricted to consume only natural gas and that it is capable of burning all natural gas, all coal, or a mixture of the two fuels. Hence, the Conservation Groups assert that a proper FFA must be conducted unless the SIP includes an enforceable commitment to burn only natural gas.

The Conservation Groups state that Breitburn, located 191 km from the Breton National Wilderness Area (Breton), is a significant source of haze pollution, emitting 778 tpy of SO2 and 333 tpy of NOX in 2020. They maintain that the facility has a cumulative Q/d of 5.98; there are issues with Florida's determination that the facility is effectively controlled because that determination is based solely on the facility's distance from Breton; and VISTAS' projected 2028 decrease in emissions for this facility compared to more recent actual emissions was not explained. They also state that Florida did not meaningfully consider and respond to their 2021 comments to the State on Breitburn; EPA failed to consider Breitburn in its proposal; and this silence is arbitrary and capricious.

The Conservation Groups also assert that Florida failed to select the following 18 sources that “likely contribute to visibility impairment at in-state and out-of-state Class I areas” for FFAs: Orlando Utilities Commission Electric Generation facility; CEMEX Miami Cement Plant; Titan Florida Cement Plant; Department of Solid Waste Management, Miami-Dade; Rayonier Fernandina Plant; Hernando County CEMEX Plant; Florida Gas Transmission Company—Gadsden County; Mosaic Florida Phosphate Plant—Hillsborough County; Argos Facility—Alachua; Wheelabrator South Broward; Duke Energy—Pasco County; Florida Power & Light Company—Escambia County; International Paper Company—Escambia Mill; Pinellas County Landfill; Solid Waste Incinerator of Palm Beach; U.S. Sugar Corporation—Hendry County; Florida Power & Light—Lee County; and Sugar Cane Growers Co-op—Palm Beach County Mill. According to the Conservation Groups, each source has 1,000 tpy of either total combined emissions of SO2, particulate matter less than 10 micrometers (PM10), and NOX (based on 2020 NEI) or total combined NOX and SO2 emissions (based on EPA's 2023 CAMPD), and nearly all of these sources emit more than 1,000 tpy of NOX alone. They also state that the Orlando Utilities Commission Electric Generation and CEMEX Miami Cement Plant facilities emit the second and third highest amounts of haze-generating pollutants in the State with Q/d values of 244.94 and 240.55, respectively. Therefore, they argue that there are likely readily available, feasible, and cost-effective controls that can be implemented at the facilities. The Conservation Groups maintain that the State erred in not selecting these sources for FFAs and EPA failed to address them in its proposal. Thus, they argue that EPA must require Florida to conduct an FFA for each facility to ensure the State meets CAA requirements to make reasonable progress during the second planning period.

Response 7: Regarding the 20 sources that the Conservation Groups contend must be evaluated by Florida, EPA disagrees that the Agency “must require Florida to conduct a Four-Factor Analysis of potential controls for each of these facilities to ensure that the State meets the Clean Air Act's requirements to make reasonable progress in the second planning period.” See Response 2, Response 5, and the NPRM (89 FR 105511) which explain that the RHR does not require states to select and consider controls for all sources, all source categories, or any or all sources in a particular source category. Nor does the RHR expressly specify criteria for minimum source selection thresholds. Florida has discretion under the RHR to determine its source selection methodology and Florida's source selection process, and the sources that Florida selected were reasonable and the Haze Plan complied with the CAA and RHR for this planning period. While Florida could have used its discretion to select other sources in addition to those screened in during its source selection process, including some or all of the sources that the Conservation Groups highlight, Florida was not required to do so. Also, sources that did not meet the State's reasonable source selection criteria (such as Deerhaven) were not selected for an FFA and were therefore not required to have emission limits and supporting conditions adopted into the LTS in the SIP to support reasonable progress for the second planning period. Regarding the assertion that Florida failed to meaningfully consider and respond to the Conservation Groups' comments concerning Breitburn, see Response 12.

Comment 8: The Conservation Groups assert that EPA shirks its duty to review Florida's source-specific FFAs. They state that EPA proposes to “rubber stamp” the SIP submission without engaging in any meaningful and independent analysis of Florida's FFAs for the four facilities ¹⁰⁰ to ensure they comply with the CAA and the RHR. Pointing to EPA's Technical Support Document (TSD), the Conservation Groups claim EPA merely restated what Florida did and that EPA entirely failed to grapple with the record before it and thus shirked its duties under the Act. They explain that EPA has stated in its 2021 Clarification Memo that it expects states to “undertake rigorous reasonable progress analyses that identify further opportunities to advance the national visibility goal.” They then assert that “[d]espite EPA's stated expectations for this planning period, in large part, Florida does not require any of the sources to adopt additional control measures to make reasonable progress” and that EPA accepts “Florida's decisions to ignore readily available, feasible, and cost-effective controls,” which they contend violates the CAA and RHR. The Conservation Groups' specific comments on the FFAs for Foley, JEA Northside, and WestRock-Fernandina are addressed in Comments 8.a through 8.c, below.

¹⁰⁰ Initially, Florida completed FFAs for four facilities (Foley, JEA Northside Unit 3, WestRock-Fernandina, and WestRock-Panama City). As stated in the NPRM (see footnote 51 at 89 FR 105518), FDEP included documentation of the closure of WestRock-Panama City in the 2024 Supplement. In addition, on October 18, 2024, FDEP sent a site inspection report and other supporting documentation for the WestRock-Panama City closure as an addendum to the 2024 Supplement. Foley has also shut down as discussed in Response 8.a.

Response 8: EPA's approval of Florida's Haze Plan is a proper exercise of EPA's authority under the CAA. Congress crafted the CAA intending for states to take the lead in developing implementation plans. However, Congress balanced that decision by requiring EPA to review the plans to determine whether a regional haze SIP revision meets the requirements of the CAA. When reviewing SIPs, EPA must consider not only whether the state considered the appropriate factors in making decisions, but acted reasonably in doing so. In undertaking such a review, EPA does not usurp the state's authority but ensures that such authority is reasonably exercised under the requirements of the CAA and RHR.

Contrary to the comment that the Agency “shirks” its CAA obligations, EPA has performed its duties with diligence. EPA carefully evaluated the Haze Plan and the associated record and engaged in a thorough analysis of each control option, including each of the underlying cost assumptions used in the calculations. Florida conducted extensive technical work in support of its SIP submittal, and EPA independently evaluated each FFA, including costs, and compared each FFA's control determination against EPA's CCM. In the TSD to the NPRM, EPA documented the cost assumptions that the State relied upon in its FFAs for transparency to the public.¹⁰¹ Each of the FFAs are discussed in more detail in the responses to comments that follow.

¹⁰¹ The NPRM contains several erroneous cross-references to the TSD. On page 105516, the cross-reference to section I.F. should be to section I.E.; on page 105524, the cross-reference to section I.E. should be to section I.D.; on page 105524, the cross-reference to section I.D. should be to section I.C. and the cross-reference to Section I.F. should be to section I.E.; and on page 105529, the cross-reference to section I.F. should be to section I.E.

Comment 8.a: The Conservation Groups contend that Foley, located 43 km from St. Marks, contributes a significant amount of SO2 and NOX (emitting 2,087 tpy and 1,596 tpy of each pollutant in 2020, respectively) that likely impacts 15 Class I areas. Furthermore, they maintain that the facility has an “extremely high” cumulative Q/d of 288.37. Florida selected Foley for an emissions control analysis, and the facility conducted an FFA at the request of the State. The Conservation Groups assert that there were many significant technical issues with the FFA outlined in the 2021, 2024, and 2025 Kordzi Reports. They provide summaries intended to identify issues from these reports in table 1 of their comments on pages 39 through 41 of their Comment Letter.

The Conservation Groups also assert that neither Florida nor EPA indicate that the shutdown of Foley has been made federally enforceable through inclusion in the SIP and that EPA must therefore require that Florida make the Foley shutdown federally enforceable. Alternatively (i.e., if the shutdown has not occurred and is not enforceable), the Conservation Groups provide specific comments regarding Foley's FFA. Because the facility has shut down, the Conservation Groups' specific comments on the Foley FFA are not reproduced here.

Response 8.a: Regarding Foley's visibility impacts to Class I areas, as discussed in Response 2, Florida considered Q/d as part of its AoI analysis and then further conducted PSAT modeling, which differs from the method used by the Conservation Groups. EPA finds Florida's source selection methodology and its results reasonable as explained in Response 2.

Regarding the comments on Foley's FFA, these comments are no longer relevant because Foley has fully shut down, is incapable of restarting without undergoing applicable New Source Review permitting for new sources, and Florida has withdrawn the emission limits resulting from the Foley FFA. In a letter dated May 22, 2024, Foley indicated that its mill “ceased production operations as a pulp and paper mill and will no longer operate the [] equipment that was included in the regional haze analysis.” ¹⁰² Foley also indicated in its letter that this equipment would “be air-gapped by December 31, 2024.” In a letter dated April 8, 2025, Florida notified EPA that Foley has permanently ceased operation of all emissions units. In its letter, Florida confirmed that these units “have been rendered inoperable and permanently retired,” and therefore, as of April 7, 2025, Florida revoked the title V Air Operation Permit (Permit No. 1230001-127-AV) for Foley.¹⁰³ In the letter, Florida also notes that “[t]he effect of this expiration is that all existing emissions units at Foley are considered retired and if Georgia Pacific (or any successor owner) were to restart these units, they would be treated as new units and subject to the Department's New Source Review program.” Further, in Florida's April 8, 2025, letter to EPA, the State withdrew its request to incorporate permit conditions for Foley into the SIP.

¹⁰² See appendix C-2 to 2024 Supplement.

¹⁰³ FDEP's April 8, 2025, letter to EPA containing Florida's Notice of Administratively Corrected Title V Air Operation Permit that administratively expires the facility's current Title V Air Operation Permit on April 7, 2025, is included in the docket for this action.

Regarding the assertion that this shutdown must be made federally enforceable by placing the shutdown into the SIP, EPA disagrees for the reasons discussed immediately above. Furthermore, Florida's New Source Review permitting requirements are in Florida's SIP and are therefore federally enforceable.¹⁰⁴

¹⁰⁴ See Rules 62-210.300 (General Preconstruction Review Requirements), 62-210.400 (Prevention of Significant Deterioration permitting), 62-210.500 (Preconstruction Review for Nonattainment Areas), and 40 CFR 52.520(c) (incorporating by reference Rules 62-210.300, 62-210.400, and 62-210.500 into Florida's SIP).

Comment 8.b: The Conservation Groups contend that Florida conducted an inadequate FFA for Unit 3 at JEA Northside, a power plant located in North Jacksonville. Unit 3 is an EGU that consumes natural gas and a limited amount of fuel oil, but does not have add-on SO2 controls. The FFA led Florida to make the determination that switching to lower sulfur No. 6 fuel oil would be cost-effective. The Conservation Groups highlight Florida's statement that “[g]iven that JEA can timely implement a fuel switch and there are no energy or non-air environmental impacts, [FDEP] has determined that switching to lower sulfur No. 6 fuel oil is necessary for achieving reasonable progress.” ¹⁰⁵ However, the Conservation Groups assert that EPA, in its Proposed Rule, failed to meaningfully review the FFA for JEA Northside Unit 3 since it does not consider elimination of fuel oil altogether. Furthermore, they argue that EPA's analysis of Unit 3 “rubber stamps” the State's determination that prohibition of fuel oils with greater than 1.0 percent sulfur content is a measure necessary for reasonable progress. They claim that EPA condones Florida's conclusion that switching to fuel oil that is 1.0 percent or lower sulfur content is the most cost-effective control option. Instead, they maintain that EPA should employ a similar analytic approach across all sources (e.g., the four boilers at WestRock-Fernandina) and evaluate a switch to No. 6 fuel oil with a 0.5 percent sulfur content. The Conservation Groups assert that EPA cannot approve a SIP that fails to evaluate eliminating fuel oil use or converting to ultra-low sulfur diesel (ULSD).

¹⁰⁵ Citing the 2021 Plan at 268.

Response 8.b: The Conservation Groups state that the “elimination of fuel oil altogether” or a conversion to ULSD were not assessed as potential measures for JEA Northside Generating Station. However, the JEA Northside FFA presented in appendix G-2 of Florida's October 8, 2021, SIP revision includes an assessment of fuel switching the Unit 3 to ULSD. The same analysis stated that fuel oil usage in unit 3 is extremely limited, as the unit meets the definition of a natural gas-fired electric utility steam generating unit, as defined in 40 CFR 63.10042, based on its limited use of oil. The JEA Northside FFA showed that from 2015 to 2019, Unit 3 fired fuel oil for a maximum of only 1.35 percent of the total annual heat input and a minimum of 0.03 percent. As Unit 3 is already almost entirely fueled by natural gas, the complete elimination of fuel oil was not selected as a potential SO2 control as removing the already extremely limited use of fuel oil would result in negligible or little improvement in emissions and, therefore, visibility. Regarding the lack of an evaluation of a fuel switch to No. 6 fuel oil with a 0.5 percent sulfur content, the 2019 Guidance provides that “[a] state must reasonably pick and justify the measures that it will consider, recognizing that there is no statutory or regulatory requirement to consider all technically feasible measures or any particular measures. A range of technically feasible measures available to reduce emissions would be one way to justify a reasonable set.” As Florida has provided a range of technically feasible measures—including considering ULSD and selecting as a control requiring No. 6 fuel oil that does not exceed 1.0 percent sulfur—an evaluation of No. 6 fuel oil with a 0.5 percent sulfur content is not required.

Comment 8.c: The Conservation Groups identify WestRock-Fernandina's FFA as flawed. First, they explain that WestRock-Fernandina is located 64 km from Okefenokee, and that according to the NPCA's 2020 NEI data analysis, which showed it emitted 633 tpy of SO2 and 1,231 tpy of NOX, it is a significant source of haze-forming pollution that likely contributes to visibility impairment at five Class I areas. They note the same analysis shows the facility has a “very high” cumulative Q/d of 77.51.

The Conservation Groups summarize issues with the WestRock-Fernandina FFA identified in the 2025 Kordzi Report as well as their comment letters to Florida. They claim that Florida failed to meaningfully engage with and respond to their comments and that EPA's proposal rubber stamps WestRock-Fernandina's FFA. Specifically, they state that EPA proposes to find that Florida's determinations regarding the applicable controls for the sources at WestRock-Fernandina are reasonable despite Florida's failure to evaluate available and technically feasible SO2 controls based on, where applicable, estimated values of capital costs, annualized costs, and cost per ton of emission reductions, consistent with recommendations in the CCM.

The Conservation Groups point to a general statement in the 2025 Kordzi Report that WestRock-Fernandina failed to provide adequate documentation for many claims in its analysis, including cost figures.¹⁰⁶ Specifically, they say that WestRock-Fernandina claims that the No. 7 Power Boiler is capable of running on 100 percent natural gas, but counter that WestRock did not explore the total conversion of this boiler to natural gas. The Conservation Groups claim that WestRock-Fernandina's claim that such a conversion would be a “fundamental change” is baseless since it is already capable of running on 100 percent natural gas.¹⁰⁷ Further, they point to the 2025 Kordzi Report to claim that WestRock-Fernandina failed to provide documentation for a $18.8 million cost to upgrade the ULSD burners on the No. 7 Power Boiler so the boiler could retain full backup capability.¹⁰⁸ Additionally, they point to the same report to assert that WestRock-Fernandina escalated the costs from a 2001 publication, which is beyond the five-year horizon discussed in the CCM and failed to consider the CCM's packed bed scrubber cost-effectiveness algorithm. The Conservation Groups claim that Florida wrongly concludes that WestRock-Fernandina's 2028 SO2 baseline is too high despite the absence of a permit modification to restrict its SO2 emissions. They assert that EPA must state it has reviewed WestRock-Fernandina's assertedly confidential cost analyses and found them to be reasonable, without unnecessary cost items, and in conformance to the CCM. They add that EPA must require the cost analyses to be included in the SIP if it determines they are not confidential. The Conservation Groups also claim WestRock-Fernandina has not adequately documented or justified its adaptation of an EGU SDA cost-effectiveness calculation using a 90 MW boiler equivalency. Finally, they claim that WestRock-Fernandina modified the Sargent & Lundy cost algorithms for EGU SDA systems, that some of the underlying equations were redacted, and that WestRock-Fernandina's results cannot be reproduced. As a remedy, they claim that WestRock-Fernandina must provide full working spreadsheets for all of its cost-effectiveness calculations and that it must remove the general and administrative, property tax, and insurance cost items it added at the end, as these cost items are inherently included in the cost algorithms.

¹⁰⁶ 2025 Kordzi Report at 39.

¹⁰⁷ Id.

¹⁰⁸ Id.

The Conservation Groups conclude that EPA did not adequately review the record presented and ignored significant flaws in Florida's SIP regarding WestRock-Fernandina. Therefore, they conclude that EPA must reject the State's FFA for WestRock-Fernandina and require a full and accurate FFA of the facility.

Response 8.c: Regarding WestRock-Fernandina's visibility impacts to Class I areas, as discussed in Response 2, Florida considered Q/d as part of its AoI analysis and then further conducted PSAT modeling, which differs from the method used by the Conservation Groups. EPA finds Florida's source selection methodology and its results reasonable as explained in Response 2.

As discussed in Response 8, EPA carefully evaluated the Haze Plan and the associated record and engaged in a thorough analysis of each control option, including the underlying cost assumptions used in the calculations for WestRock-Fernandina. The FFA for WestRock-Fernandina is discussed in more detail in the following paragraphs.

With respect to the assertion that Florida's response to comments failed to meaningfully engage and respond to the Conservation Groups' comments, see Response 12.

The Conservation Groups assert that WestRock-Fernandina failed to provide adequate documentation for many claims in its analysis, including cost figures. EPA independently evaluated the WestRock-Fernandina FFA and compared the FFA's control determination against EPA's CCM.

The Conservation Groups then state that WestRock-Fernandina did not consider a potential shift to burning 100 percent natural gas as a fuel source for the No. 7 Power Boiler. This is not correct. An additional FFA for fuel switching the No. 7 Power Boiler to 100 percent natural gas was provided in appendix B of Florida's 2024 Supplement in addition to the State's analysis in section 7.8.2 of the SIP narrative of that Supplement.

Regarding the assertion that WestRock did not provide documentation for the $18.8 million total capital investment estimate to upgrade the ULSD burners on the No. 7 Power Boiler, documentation was provided in table A-1c of appendix B-1 of the 2024 Supplement. The supplement provides the $18.8 million cost estimate, which includes the cost of installing new ULSD Burners and required infrastructure.

The Conservation Groups state that WestRock-Fernandina escalated costs from a 2001 publication, beyond the five-year horizon, as discussed in EPA's CCM section 1, chapter 2 (Cost Estimation Methodology). EPA agrees that escalating the costs beyond five years is not typically recommended. However, EPA finds WestRock-Fernandina's use of escalation in this context was appropriate. WestRock-Fernandina scaled the costs based on the document titled “Emission Control Study—Technology Cost Estimates” by BE&K Engineering for the American Forest and Paper Associated (September 2001).¹⁰⁹ The costs were scaled from 2001 to 2019 costs using the Chemical Engineering Plant Cost Index, as recommended by EPA's CCM. EPA reviewed the 2001 BE&K Engineering study and found it appropriate to apply the cost scaling to WestRock-Fernandina's Power Boilers 4, 5, and 7. EPA acknowledges the Conservation Groups' statement that Florida could have used EPA's CCM cost-effectiveness algorithm in lieu of escalating the 2001 scrubber costs to current year dollars. However, in this case, the control costs derived from an analysis specific to the pulp and paper industry are likely to be more accurate than a generic cost estimate, even if the original cost values needed to be escalated over a longer period.

¹⁰⁹ See 2021 Plan at appendix G-2, section 2.4.

Regarding the Conservation Groups' assertion that Florida wrongly concluded that the facility's 2028 SO2 baseline is too high despite the absence of a permit modification restricting WestRock-Fernandina's SO2 emissions, this assertion is incorrect. Florida determined that WestRock Fernandina's projected 2028 SO2 baseline was too high due to the recent completion of several SO2-reducing projects which led to large decreases in emissions at the facility.¹¹⁰ Consequently, Florida issued Permit No. 0890003-072-AC, establishing coal usage caps for the No. 7 Power Boiler, the largest source of SO2 at WestRock Fernandina, for regional haze purposes. Conditions 2 and 3 of the permit establish two phased coal usage caps for the No. 7 Power Boiler: 250 tons per day starting on January 1, 2022, and 125 tons per day starting on April 1, 2024, both measured using a 30-day rolling average which excludes days on which a natural gas curtailment or supply interruption occurs.

¹¹⁰ See section 7.8.2 of the 2021 Plan.

The Conservation Groups state that EPA must affirm that it has reviewed WestRock's confidential cost analysis and found it to be reasonable, without unnecessary cost items, and consistent with the CCM. EPA reviewed the WestRock-Fernandina cost analyses and finds that the cost items provided are necessary and conform to the CCM. While EPA found that some confidential costs were higher than costs estimated by using values provided by the CCM, EPA still finds that Florida's conclusion is reasonable.

The cost analysis provided by WestRock Fernandina, in appendix G of the 2021 Plan includes cost analyses with redacted material for add-on controls at WestRock-Fernandina. The redacted values include cost factors and rates for cost items such as labor, utilities, maintenance, and other operating costs. EPA did not need the unredacted costs to make a determination due to (1) the existence of preexisting controls on those units, and (2) the inclusion of costs from the CCM confirmed that even using CCM costs, the costs would still be well above what Florida determined was a reasonable cost of control.

An additional cost analysis for fuel switching the No. 7 Power Boiler to 100 percent natural gas was provided in appendix B of Florida's 2024 Supplement in addition to the State's analysis in section 7.8.2. The publicly available cost analysis included redacted cost factors and unit costs for landfill disposal and fuels. EPA received the unredacted material for this cost analysis as confidential business information (CBI) and found it to be reasonable.

Under the CAA and EPA's regulations, a company may assert a business confidentiality claim covering information furnished to EPA. See 40 CFR 2.203(b). Once a claim is asserted, the Agency must consider the information to be confidential and must treat it accordingly unless the Agency finds in a CBI determination that the material is not CBI. See 40 CFR 2.205, 2.301(g). Thus, EPA is obligated to protect the confidentiality of that information, which precludes the Agency from publicly posting this analysis in the docket at regulations.gov.

The Conservation Groups state that the 30 percent efficiency assumption WestRock-Fernandina uses to calculate the 90 MW boiler equivalency appears low. However, the national average for fossil-fueled power plants in the United States is 36 percent.¹¹¹ Therefore, EPA finds the 30 percent efficiency assumption is acceptable, as it is within a reasonable range of the average.

¹¹¹ See https://www.epa.gov/chp/chp-benefits.

The Conservation Groups claim that WestRock-Fernandina has modified the Sargent & Lundy cost algorithms for EGU SDA systems. EPA evaluated the Sargent & Lundy cost algorithms for SDA systems used by WestRock-Fernandina and found that the algorithms used were not modified. EPA disagrees that property taxes, insurance, and administrative cost items are inherently included in the cost algorithms. The CCM estimates these indirect operating costs as a proportion of the source's total capital investment, at one percent, one percent, and two percent, respectively. WestRock-Fernandina applied the correct percentage factors and the Florida revised cost analyses in the 2021 Plan removed property tax costs from the FFA.¹¹²

¹¹² See sections 7.8.2.1.1, 7.8.2.3.1, and 7.8.2.2.1 of the 2021 Plan.

Comment 9: The Conservation groups assert that Florida did not consider agricultural burning of sugarcane fields in its SIP, contrary to CAA requirements to “identify `all anthropogenic sources of visibility impairment' ” ¹¹³ and that Florida should discuss why it did not consider sugarcane fields for FFAs. They claim that EPA should have required the State to “consider . . . in its SIP” all major and minor stationary sources, mobile sources, and area sources, including sugarcane field burning, which they argue is a major source under the State's definition of “major source” and the CAA's definition of “stationary source.” They contend that EPA must require Florida to conduct FFAs for sugarcane fields to identify emission reduction measures because, according to the Conservation Groups, these fields are stationary sources and are in close proximity to Everglades. The Conservation Groups also argue that EPA should have required the State to evaluate and require green harvesting under the additional basic smoke management practices factor at 40 CFR 51.308(f)(2)(iv)(D); Florida should have considered the cost effectiveness of green harvesting as part of an FFA; and EPA must disapprove Florida's source selection methodology.

¹¹³ Citing to 40 CFR 51.308(d)(3)(iv). The core required elements for the first planning period SIPs (other than BART) are laid out in 40 CFR 51.308(d). See 89 FR 105508.

Response 9: EPA disagrees with this comment. States are not required to “identify `all anthropogenic sources of visibility impairment' ” in their regional haze SIPs as suggested by the Conservation Groups. They incorrectly cite to 40 CFR 51.308(d), which governs the first round Reasonable Progress requirements, instead of 40 CFR 51.308(f), which governs the second and additional rounds of regional haze SIPs. Additionally, they selectively misquote 40 CFR 51.308(d)(3)(iv), which, in its entirety, says, “The State must identify all anthropogenic sources of visibility impairment considered by the State in developing its long-term strategy. The State should consider major and minor stationary sources, mobile sources, and area sources.” (emphasis added). The source selection requirement for the second round of Regional Haze SIPs is provided in 40 CFR 51.308(f)(2)(i), which states, “The State should consider evaluating major and minor stationary sources or groups of sources, mobile sources, and area sources. The State must include in its implementation plan a description of the criteria it used to determine which sources or groups of sources it evaluated and how the four factors were taken into consideration in selecting the measures for inclusion in its long-term strategy.” Florida adequately addressed the source selection criteria for the LTS as explained in Response 2, above, and section 7 of the State's 2021 Plan.

While EPA agrees that there are a large number of sugarcane fields located relatively close to the Everglades which are burned annually, EPA disagrees Florida must conduct FFAs for this emissions source category in its second planning period regional haze plan.¹¹⁴ Agricultural prescribed burning of sugar cane fields produces smoke, and the primary visibility impairing PM species in smoke are organic carbon and elemental carbon.¹¹⁵ Figure 2-12 in Florida's 2021 Plan shows that the combined contribution of organic carbon (labeled as “organic mass carbon” (OMC)) and elemental carbon (labeled as “light absorbing carbon” (LAC)) to average light extinction at Everglades on the 20 percent most impaired days in the 2014-2018 five-year period is approximately 6 Mm⁻¹ versus approximately 21 Mm⁻¹ for sulfate.

¹¹⁴ Because EPA disagrees that Florida must conduct FFAs for sugarcane fields in its second planning period regional haze plan for the reasons discussed herein, it is unnecessary for EPA to address the comment that sugarcane fields are stationary sources.

¹¹⁵ See Mugica-Alvarez et al., “Sugarcane Burning Emissions: Characterization and Emissions Factors,” Atmospheric Environment 193 (2018) 262-272.

The 2015-2019 IMPROVE monitoring data from the IMPROVE website identifies the relative contributions of PM species contributing to the total visibility impairment at the Florida Class I areas, which are shown in table 4 in Response 4. As indicated in that table, the combined contributions of organic and elemental carbon to regional haze at Everglades is 16 percent, which is approximately 3.7 times less than the 59 percent contribution from sulfate. Additionally, the combined contribution of organic and elemental carbon at Florida's other Class I areas (23 percent at Chassahowitzka and 20 percent at St. Marks) is larger than at Everglades (16 percent), which indicates that the contributions of burning and other sources of carbon are similar across the state of Florida, while in all cases much less than the contribution from sulfate. As discussed in Response 4, Florida's conclusion that sulfates continue to be the predominant visibility impairing species on the 20 percent most impaired days through 2018 at the Florida Class I areas is reasonable.

EPA also disagrees with the comment that the Agency should have required the State to evaluate and require green harvesting under the additional basic smoke management practices factor at 40 CFR 51.308(f)(2)(iv)(D). Florida adequately addressed the requirement to consider basic smoke management practices in section 7.9.1 of the 2021 Plan.¹¹⁶ That section discusses Florida's Smoke Management Plan (SMP) and the burn authorization program implemented by the Florida Forest Service, which requires burn authorizations for agricultural burning, including burning of sugarcane. The burn authorization process requires consideration of weather conditions and smoke sensitive areas. Because Florida's reasonable progress source selection process did not identify sugarcane burning as a source category to evaluate using an FFA, PM species contribute a relatively small amount of the total visibility impairment at the Florida Class I areas relative to sulfate, and Florida documented that it considered basic smoke management practices as discussed above, it was reasonable for Florida to not have considered green harvesting in its second planning period regional haze plan.

¹¹⁶ Section 51.308(f)(2)(iv)(D) requires each state to consider basic smoke management practices for prescribed fire used for agricultural and wildland vegetation management purposes and smoke management programs in developing its LTS. As discussed in the 2019 Guidance, “there are many ways a state can give consideration to basic smoke management practices and smoke management programs. In particular, a state does not need to shoehorn prescribed fire, basic smoke management practices, and smoke management programs into a formal source selection analysis or a formal analysis of control measures.” See 2019 Guidance at pp. 25-26.

Comment 10: The Conservation Groups state that the CAA, its implementing regulations, and guidance require EPA to act consistently across SIPs, and they contend there are inconsistencies between the Agency's proposal and several previous SIP actions. They argue that EPA must ensure that the Agency's final action on Florida's SIP revision is consistent with prior actions and therefore must remedy the following alleged inconsistencies: application of documentation requirements (citing Texas and California proposed actions); evaluation of what is effectively controlled when determining whether a facility will be required to conduct an FFA (citing a Wyoming proposed action); treatment of undocumented cost claims (citing Missouri and Texas proposed actions); treatment of unsupported deviations from the CCM (citing an Arizona proposed action); justification of the use of an AoI threshold (citing a Texas proposed action); and use of the RBLC (citing a Texas proposed action).

Response 10: Because the Conservation Groups do not identify specific factual inconsistencies between the Florida proposed action and the Texas or California proposed actions in either the January 27, 2025, Comment Letter or the 2025 Kordzi Report, EPA cannot respond to the claim that this action applies the documentation requirements of the RHR inconsistently across the Texas and California Regional Haze Plans. Despite these citations to previous EPA proposals, the Conservation Groups do not identify how EPA ultimately treated any specific documentation requirements in the Florida Haze Plan inconsistently with either the Texas or California Regional Haze Plans. Thus, EPA is unable to respond to this comment as it relates to inconsistent treatment of the documentation requirements in the Florida action in comparison to previous actions.

EPA disagrees with the Conservation Groups that it evaluated what is “effectively controlled” when it assessed if a facility must be required to conduct an FFA in this action inconsistently with its evaluation of facilities in the Wyoming Regional Haze SIP. To support their argument, the Conservation Groups highlight EPA's proposed partial disapproval of Wyoming's Regional Haze SIP, where the Agency could not determine if additional emission controls for NOX and SO2 were or were not cost-effective or reasonable to “effectively control” emissions at two sources due to the State's failure to provide a sufficient technical demonstration.¹¹⁷ As a result, EPA stated that Wyoming failed to evaluate and determine the emission reduction measures that were necessary to make reasonable progress through the consideration of the four statutory factors for these sources.¹¹⁸ Specifically, the Conservation Groups describe EPA as requiring “proof” of post-combustion controls for the two sources at issue in the Wyoming action, and then further contends that EPA does not do so for similarly affected sources in Florida. The Conservation Groups claim this amounts to EPA exercising a more stringent standard for assessing “effectively controlled” claims in the Wyoming proposal than in the Florida action.

¹¹⁷ See 89 FR 63060 (August 1, 2024).

¹¹⁸ Id.

EPA disagrees that the Wyoming and Florida Regional Haze SIPs are comparable. First, the two sources cited in the Wyoming proposal have much lower FGD control efficiencies than the four Florida power plants selected.¹¹⁹ In contrast, the FGD control efficiencies for the Duke-Crystal River, JEA Northside, Seminole, and TECO Big-Bend sources in Florida have seven-year averages for 2017-2023 that range from 95.8 to 97.0 percent.¹²⁰ As noted above in Response 6, the typical SO2 removal efficiency range for wet scrubbers ranges from 90 to 98 percent.¹²¹ Because the FGD controls for the sources in Florida were operating at a high efficiency, EPA found it reasonable for Florida not to select these for further analysis. Second, the Agency did in fact require evidence that Florida's sources have existing effective SO2 controls pursuant to 40 CFR 51.308(f)(2)(iii), as discussed in Responses 6.a through 6.h in the NPRM. Florida demonstrated that the affected units at four power plants in the State (Duke-Crystal River, JEA Northside, Seminole, and TECO-Big Bend) are subject to at least the MATS 0.20 lb SO2/MMBtu limit and use scrubbers to control SO2 emissions, which run at high removal efficiencies. Thus, EPA disagrees that it inconsistently evaluated whether a facility is “effectively controlled” because it appropriately considered distinctions between the Florida and Wyoming units at issue.

¹¹⁹ EPA's “Response to Comments for the Federal Register Notice for Air Plan Partial Approval and Partial Disapproval; Wyoming; Regional Haze Plan for the Second Implementation Period” regarding the Wyoming Regional Haze Plan is available at: https://www.regulations.gov/document/EPA-R08-OAR-2023-0489-0480.

¹²⁰ See EPA's EGU scrubber efficiency spreadsheet included in the docket.

¹²¹ See table 1.1 on page 1-3, section 5, chapter 1 of the CCM.

EPA cannot respond to the claim that this action treats undocumented claims regarding costs inconsistently with how the same issue was treated in EPA's actions in the Missouri and Texas Regional Haze Plans because the Conservation Groups do not identify specific factual inconsistencies between the Florida action and the Texas or Missouri proposals in either the January 27, 2025, Comment Letter or in the 2025 Kordzi Report. To support their argument, the Conservation Groups cite EPA's Missouri proposal where the Agency explains that “. . . the EPA believes that Missouri did not correct all the deficiencies in the cost assumptions and proposes to find certain aspects of the cost analyses are not well supported.” ¹²² In the Texas proposal, the Conservation Groups cite a section where EPA explains that Texas did not adequately document the cost information on which it based its evaluation of the cost of compliance controls as required under 40 CFR 51.308(f)(2)(iii).¹²³ Despite these citations to previous EPA proposals, the Conservation Groups do not identify how EPA treated any specific costs in the Florida Regional Haze Plan inconsistently with either the Missouri or Texas Regional Haze Plans. Thus, EPA is unable to respond to this comment as it relates to any inconsistent treatment of undocumented claims regarding costs in the Florida action in comparison to previous proposals.

¹²² See 89 FR 55157 (July 3, 2024).

¹²³ See 89 FR 83360-83361 (October 15, 2024).

EPA cannot respond to the claim that this action treats unsupported deviations from EPA's CCM inconsistently with how EPA treats the same issue in the Arizona Regional Haze Plan because the Conservation Groups do not identify specific factual inconsistencies between the Florida action and the Arizona proposal in either the January 27, 2025, Comment Letter or in the 2025 Kordzi Report. The Conservation Groups cite to a section of EPA's Arizona proposal where the Agency stated that Arizona did not provide adequate documentation to support deviations from the CCM with respect to two elements of the cost effective analysis it performed for two sources (the interest rate and the remaining useful life of the equipment elements).¹²⁴ Despite this citation to a previous EPA proposal, the Conservation Groups do not explain specifically how EPA treated Florida differently than Arizona with respect to any deviations from the CCM. Thus, EPA is unable to respond to this comment as it relates to any inconsistent treatment of deviations from EPA's CCM in the Florida action in comparison to the Arizona proposal.

¹²⁴ See 89 FR 47428-47429 (May 31, 2024).

EPA cannot respond to the claim that this action treats the justification of using an AoI threshold inconsistently with how EPA treats the same issue in the Texas Regional Haze Plan. The Conservation groups do not identify specific factual inconsistencies between the Florida action and the Texas proposal in either the January 27, 2025, Comment Letter or in the 2025 Kordzi Report. To support their argument, the Conservation Groups cite EPA's Texas proposal where the Agency stated that Texas selected sources using AoIs it developed for each Class I area, and established a brightline geographic boundary within which Texas selected sources with a Q/d of greater than or equal to five.¹²⁵ Despite this citation to a previous EPA proposal, the Conservation Groups do not specifically identify how EPA treats Florida's justification for using an AoI threshold inconsistently with how it treats the same issue in the Texas action. Thus, EPA is unable to respond to this comment as it relates to inconsistent treatment concerning the justification of Florida's AoI threshold in comparison to previous actions.

¹²⁵ See 89 FR 83353-83354.

EPA disagrees with the Conservation Groups that it evaluated the use of the RBLC in this action inconsistently with its evaluation in the Texas Regional Haze SIP. The Conservation Groups highlight that in the Texas proposal, EPA stated that Texas' reliance on the RBLC was not a sufficient search for the petroleum coke calcining plants and carbon black plants at issue because they had been constructed prior to the start of EPA's NSR permitting program, and had generally not been modified in ways that would trigger the permitting programs.¹²⁶ Further, in that proposal, EPA stated that Texas should have provided a cost analysis to document why other control technologies it was aware of outside the RBLC that were technically feasible were cost prohibitive.¹²⁷ In this action, Florida provided existing effective control demonstrations for EGUs and SAPs.¹²⁸ In addition to using the RBLC to search for existing effective controls for SO2 for these source types, Florida also consulted EPA's 2019 Guidance for the EGUs. Florida identifed existing, effective controls, and is not required to evaluate and/or select necessarily the most stringent controls. Florida demonstrated that an FFA would likely conclude no new measures are necessary for reasonable progress. As discussed in Responses 6.a through 6.h, EPA finds Florida's demonstration of existing, effective SO2 controls adequate and agrees with the State's conclusion that an FFA would likely conclude no new measures are necessary for reasonable progress. Thus, EPA disagrees with the Conservation Groups that it inconsistently used the RBLC in this action in comparison to its evaluation of the Texas Regional Haze SIP.

¹²⁶ See 89 FR 83356 (October 15, 2024).

¹²⁷ Id.

¹²⁸ See Responses 6.a-6.h for more details.

Comment 11: The Conservation Groups assert that EPA cannot approve Florida's SIP revision because it does not contain practically enforceable emission limits. The Conservation Groups maintain that the LTS must contain practically enforceable emission limits, compliance dates, and other measures that are necessary to achieve reasonable progress. Regarding the permits proposed for incorporation into the SIP, the Conservation Groups state that Florida failed to meaningfully respond to their comments and did not revise the permit provisions in response to their comments. The Conservation Groups' specific comments are addressed in Responses 11.a through 11.h below.

Comment 11.a: The Conservation Groups provide a summary of their earlier comments submitted to the State concerning the use of CEMS data. The summary states that the “use of emissions data from 40 CFR part 75 must contain . . . requirements for SIP use,” and lists specific requirements such as maintaining, calibrating, and operating CEMS in compliance with 40 CFR part 75, and methods to calculate emissions under part 75.¹²⁹ They note that Florida stated that its SIP already requires continuous emission monitoring “through various federal programs or other provisions in Florida's SIP” and note that Florida stated that CEMS requirements are already in the SIP at Rule 62-210.370(2)(b). The Conservation Groups then assert that the rule does not meet the requirements identified in the Conservation Groups' earlier comments to the State for the following reasons:

¹²⁹ In comments submitted by the Conservation Groups to Florida on the draft 2021 Plan, they state that this substantive comment applies to data collected by Duke-Crystal River Citrus Co. Combined Cycle and JEA Northside Units 1 and 2.

First, Rule 62-210.370(2)(b)1.a. “allows for CEMS that do not meet 40 CFR part 75 requirements because the regulation allows for CEMS that meet `40 CFR part 60, Appendices B and F.' ”

Second, Rule 62-210.370(2)(b)1.b. “allows for `[t]he owner or operator demonstrates that the CEMS otherwise represents the most accurate means of computing emissions for purposes of this rule.' And thus allows for an alternative compliance method not specified in the SIP.”

Third, rather than require compliance with the provisions in 40 CFR part 75, Rule 62-210.370(2)(b)2. “allows the owner or operator to compute emissions using other methods.”

Fourth, Rule 62-210.370(2)(b)3. “allows for use of other parameters.”

The Conservation Groups assert that “EPA's final action must ensure that the State's SIP contains the required CEMS provisions or disapprove the Revised SIP.”

Response 11.a: EPA disagrees with the Conservation Groups that the SIP requires additional CEMS provisions. Duke-Crystal River and JEA Northside Units 1 and 2 are required to certify, operate, and maintain CEMS in accordance with 40 CFR part 75, and any request for a change to a SIP-approved permit condition for these sources would require a SIP revision.¹³⁰ To the extent the Conservation Groups are concerned with the requirements of SIP-approved Rule 62-210.370, it untimely to raise such comments in this action. EPA incorporated that rule into the SIP in a separate rulemaking,¹³¹ and the appropriate venue to raise concerns about the rule was in that rulemaking process. Thus, these concerns are outside the scope of the present rulemaking.

¹³⁰ Of the facilities with permit conditions identified for incorporation into the SIP, only JEA Northside and Duke-Crystal River use an SO2 CEMS subject to 40 CFR part 75. Condition III.31(a) in JEA Northside Permit No. 0310045-003-AC, identified for incorporation into the SIP, requires the permittee to demonstrate compliance with the relevant SO2 emissions limits using CEMS installed, certified, operated, and maintained in accordance with 40 CFR part 75. Condition 3-1 in Duke-Crystal River Permit No. 0170004-059-AC, identified for incorporation into the SIP, requires the permittee to demonstrate compliance with the 0.20 lb/MMBtu MATS limit as determined in 40 CFR 63.10021(a) and (b) of the MATS Rule using CEMS. For Duke-Crystal River, 40 CFR 63.10010(f) of the MATS Rule requires the owner to certify, operate, and maintain the CEMS according to 40 CFR part 75.

¹³¹ See 40 CFR 52.520(c) (listing EPA-approved laws and regulations); 73 FR 36,435 (June 27, 2008) (approving Rule 62-210.370 into Florida's State Implementation Plan).

Comment 11.b: The Conservation Groups contend that the permit provisions proposed for incorporation into the SIP lack reporting requirements, and that Florida and EPA fail to explain how reported compliance information will be available to the public. With respect to Foley, the Conservation Groups assert that the permit conditions identified for incorporation into the SIP are not practically enforceable because they fail to contain any reporting requirements. With respect to WestRock-Fernandina, the Conservation Groups assert that the SIP fails to require reporting for the records tracking coal usage. They cite to the periodic reporting requirement of section 110(a)(2)(F)(iii) of the CAA and 40 CFR 51.211(a), and also to an EPA SIP action for Colorado that describes multiple purposes for the reporting requirements, including: promoting transparency, deterrence, and effective enforcement of SIP requirements. Citing to this same EPA SIP action, they contend that inadequate reporting can undermine the ability of citizens to participate in SIP enforcement.

As examples, they assert the following permits provisions are not practically enforceable because they fail to contain any reporting requirements:

“Conditions 8, 9, 11, 12, 13, 14, 15, 16, 18, 20, 21, 22, 23, 24 and 25 of Subsection A of Section 3 and Conditions 2, 3, 4, 5, 6, 7, 8 and 9 of Subsection B of Section 3 of the Georgia-Pacific Foley Mill Permit No. 1230001-121-AC (State-effective October 20, 2023).” ¹³²

¹³² See appendix A of the Second 2024 Supplement.

“Conditions 2, 3, and 4 of Subsection A of Section 3 of the WestRock-Fernandina Beach Mill Permit No. 0890003-072-AC (State-effective June 24, 2021) and Condition 5 of Subsection A of Section 3 of Permit No. 0890003-074-AC (State-effective December 16, 2021).” ¹³³

¹³³ See appendix G-3j of the 2021 Plan for Permit 0890003-072-AC and appendix A of the 2024 Supplement for Permit 0890003-074-AC.

The Conservation Groups claim that EPA must resolve the lack of reporting requirements for all permits that Florida proposes to include in the SIP to ensure these SIP provisions are practically enforceable. They assert that Florida's failure to require these facilities to report means there is no transparency in implementation of the SIP, no deterrence against violations, and the public and EPA are thwarted from effective enforcement of SIP requirements, contrary to the requirements of the CAA that provide for the citizens' ability to participate in the enforcement of the SIP.

Response 11.b: EPA disagrees with the Conservation Groups' assertion that the revised SIP fails to explain how Florida will make reported compliance information available to the public for the facilities with permit provisions incorporated by reference into the SIP. The Florida SIP requires annual operating reports for all title V sources under Rule 62-210.370(3), “Annual Operating Report for Air Pollutant Emitting Facility.” This reporting requirement covers all sources with permit conditions identified by Florida for incorporation into the SIP and imposes reporting requirements that apply to the specific permit conditions cited by the Conservation Groups. Specifically, Rule 62-210.370(3)'s annual reporting requirement includes types of fuels used, annual usage rates, and sulfur content.¹³⁴ Further, because all of these facilities are title V facilities, they are required to submit a Statement of Compliance under Florida's implementation of the title V permitting program. These records are available to the public.

¹³⁴ Rule 62-210.370(3) requires the use of DEP Form No. 62-210.900(5). The current form is included in the docket for this rulemaking.

The permits that Florida is proposing to incorporate into the SIP for the second planning period are construction permits. The requirements in these permits will become federally enforceable once EPA approves the SIP revisions, and the respective title V permits for these sources, which document all enforceable provisions and reporting requirements, have also been updated with the applicable requirements from these construction permits. With respect to part 70 requirements, the sources are required to submit a written report for each reporting period (semi-annually or more frequently) that documents any excess emissions, exceedances, or excursions, and any monitor malfunctions during each reporting period, or alternatively, to submit a report stating that excess emissions, exceedances, excursions did not occur during the reporting period.¹³⁵

¹³⁵ The part 70 compliance reporting requirements under 40 CFR 70.6(a)(3)(iii) have been incorporated into Rule 62-213.440(1)(b). The specific reporting requirements associated with each source's relevant construction permit are included in each source's subsequent title V renewal permit. For Duke Crystal River Citrus Co. Combined Cycle, the reporting requirements for Permit No. 0170004-047-AC and the reporting requirements for Duke Energy Florida—Crystal River Power Plant's Permit No. 0170004-059-AC are included in appendix RR of Permit No. 0170004-064-AV (state-effective June 19, 2024); for JEA Northside, the reporting requirements for Permit No. 0310045-003-AC (for Units 1 and 2), Permit No. 0310045-059-AC (for Units 1 and 2), Permit No. 0310045-057-AC (for Unit 3) are included in Condition FW10 of Permit No. 0310045-061-AV (state-effective September 6, 2023); for Nutrien, the reporting requirements for Permit No. 0470002-122-AC are included in Condition FW9 of Permit No. 0470002-139-AV (state-effective April 1, 2025); for Seminole, the reporting requirements for Permit No. 1070025-037-AC are included in appendix RR of Permit No. 1070025-040-AV (state-effective March 10, 2025); for TECO-Big Bend, the reporting requirements for Permit No 0570039-129-AC are included in Condition FW9 of Permit No. 0570039-132-AV (state-effective April 27, 2021); and for WestRock-Fernandina, the reporting requirements for Permit No 0890003-072-AC and Permit No. 0890003-074-AC are included in appendix RR of Permit No. 0890003-075-AV (state-effective February 18, 2022) as mentioned above.

With respect to Foley, the Conservation Groups' comments are no longer relevant because the facility has shut down. See Response 8.a.

With respect to the Conservation Groups' assertion that the SIP fails to require WestRock-Fernandina to report the records for tracking coal usage, EPA disagrees. All facilities with title V permits in Florida are subject to Florida Rule 62-210.370(3)(c), which is already approved into the SIP and requires reporting of annual fuel usage rates. Again, this would include reports of annual coal usage. Additionally, the emissions limits and associated recordkeeping requirements for WestRock-Fernandina's Permit No. 0890003-074-AC have been incorporated into the facility's title V permit, Permit No. 0890003-075-AV, which houses all enforceable provisions and reporting requirements. Condition RR4 of this title V permit requires the source to submit semi-annual reports, which include all instances of deviations from permit requirements. Furthermore, this condition requires the source to submit a report even if there are no deviations during the reporting period, stating that there have been no deviations during the reporting period. These ongoing compliance reports are certified by a responsible official. As all of the records reported under the provisions discussed in this comment response are publicly available, EPA disagrees that the public and EPA are “thwarted from effective enforcement of SIP requirements” and that the SIP precludes “citizens' ability to participate in the enforcement of the SIP as authorized.”

Comment 11.c: The Conservation Groups maintain that Florida's Haze Plan does not specify the compliance dates for purposes of the “RH RP SIP requirements” and that the SIP provides some state-effective dates for the permits but not for enforcement of the SIP. The Conservation Groups argue that because the permits the State proposes to include in the SIP have expired or will expire soon, the SIP does not meet the requirements of the CAA and EPA's regulations, which require that emission limitations and related provisions for practical enforceability are permanently enforceable. The Conservation Groups also contend that Florida's responses to these comments on the State's 2021 draft Plan were not entirely responsive.

Response 11.c: Compliance schedules are required by 40 CFR 51.308(f)(2).This RHR provision specifies that the LTS must include the enforceable emissions limitations, compliance schedules, and other measures that are necessary to make reasonable progress. According to 40 CFR 51.100(p), compliance schedule means “the date or dates by which a source or category of sources is required to comply with specific emission limitations contained in an implementation plan . . .” Florida met the requirement to include a compliance schedule by either (1) providing the effective date of the permit containing the relevant provision with which the source is expected to comply, or (2) including a separate date other than the effective date on which the source must meet its obligation. Florida's action in this regard is consistent with the requirement to include a compliance schedule.

Regarding the Conservation Groups' concern that Florida uses permits that “either have or will soon expire,” FDEP explains in appendix I-5 of the 2021 Plan that under Florida's NSR and title V permitting programs, conditions contained within air construction permits are applicable requirements that extend beyond the expiration of the actual air construction permit.¹³⁶ Florida generally includes a statement in its permits to this effect. For example, JEA's Permit No. 0310045-57-AC states that, “[n]otwithstanding this expiration date, all specific emissions limitations and operating requirements established by this permit shall remain in effect until the facility or emissions unit is permanently shut down.” In evaluating Florida's Haze Plan, EPA considered whether a specific condition of a given permit was acceptable for approval into the Florida SIP based on the context and enforceability of that condition. Because all applicable requirements in the permit conditions identified for incorporation into the Florida SIP for this action are state-enforceable beyond the expiration of the actual air construction permits by operation of state law, they will become federally enforceable and permanent once they are approved into the SIP through this action, notwithstanding the expiration of the air construction permits in which they originally appeared. Therefore, EPA disagrees with the Conservation Groups regarding the enforceability of these permit conditions.

¹³⁶ See Rule 62-210.300(1)(b).

Regarding the Conservation Groups' concern that Florida failed to address the Conservation Groups' comments during the State's July 9, 2021, public comment period, see Response 12.

Comment 11.d: The Conservation Groups state that SIP emission limitations must apply at all times. They cite to their 2021 comments to Florida that Florida's Haze Plan contains provisions for JEA Northside Units 1 and 2 that would exclude emissions during startup, shutdown, and malfunction, that this exclusion is inconsistent with the CAA and EPA's requirements, and that these provisions must be removed from Florida's Haze Plan. They point to EPA's disapproval of Wyoming's exemptions of startup, shutdown, and malfunction emissions in that state's regional haze SIP revision, where the agency explained that “[t]he RHR states that `Section 302(k) of the CAA requires emissions limits such as BART [and RP] to be met on a continuous basis. Therefore, it is clear that the rule intended for BART [and RP] emission limits to be met on a continuous basis and did not provide either explicitly or implicitly exceptions for startup, shutdown, or malfunction.” The Conservation Groups state that Florida failed to respond to its comments and that EPA must disapprove this portion of Florida's Haze Plan because it is contrary to the requirements of the CAA and its implementing regulations.

The Conservation Groups also assert that Florida must correct errors in JEA Northside's Permit No. 0310045-059-AC for Units 1 and 2, and JEA Northside's Permit No. 0310045-62 for Unit 3, regarding the following issues: permit expiration; lack of clarity regarding MATS compliance provisions; and failure to require reporting. They cite to their 2024 comments to Florida, which include the following:

• The permit provision providing the MATS SO2 emission limits for JEA Northside Units 1 and 2 “provides that compliance with the MATS SO2 emission limits must be `demonstrated as determined in 40 CFR 63.10021(a) and (b) of the MATS Rule.' Florida DEP's overarching reference to 40 CFR 63.10021(a) does not specify which of the requirements in that regulation apply to this facility. Notably, there are four different tables in the rule that contain emission limits, operating limits, and work practice standards. The rule also includes monitoring requirements in two additional tables. Similarly, the permit provision does not explain which provisions in 40 CFR 63.10021(b) apply to the facility. Florida DEP must revise this permit provision to explain exactly which portions of 40 CFR 63.10021(a) and (b) it proposes to incorporate into the Regional Haze SIP.”

• “The `Fuel Oil Sulfur Records' provision in Permit No. 0310045-062-AC for Unit 3 requires JEA Northside to maintain records of each shipment of fuel oil and make them available to Florida DEP upon request. Yet, it is not sufficient for Florida DEP to merely maintain these records onsite. Florida DEP must require that these fuel shipment records and other relevant records are reported to the State on at least a semi-annual basis and specify how the reports shall be submitted to at Florida DEP.”

They contend that “EPA must resolve these issues; and must disapprove Florida's SIP for failure to respond to these significant issues regarding MATS.”

Response 11.d: The MATS Rule was originally promulgated by EPA pursuant to CAA section 112, which also incorporates the CAA's general definitional requirement that an emission limitation or emission standard limit emissions on a “continuous basis.” See CAA section 302(k), 42 U.S.C. 7602(k). Specifically, the CAA defines “emission limitation” and “emission standard” to mean “a requirement [. . .] which limits the quantity, rate, or concentration of emissions of air pollutants on a continuous basis, including any requirement relating to the operation or maintenance of a source to assure continuous emission reduction, and any design, equipment, work practice or operational standard promulgated under [the Clean Air Act].” Id.¹³⁷

¹³⁷ EPA has historically interpreted CAA section 302(k) as allowing various forms or a combination of forms. See 88 FR 33840, 33842 (June 12, 2015) (“The term emission limitation means, in the context of a SIP, a legally binding restriction on emissions from a source or source category, such as a numerical emission limitation, a numerical emission limitation with higher or lower levels applicable during specific modes of source operation, a specific technological control measure requirement, a work practice standard, or a combination of these things as components of a comprehensive and continuous emission limitation in a SIP provision. . . . By definition, an emission limitation can take various forms or a combination of forms, but in order to be permissible in a SIP it must be applicable to the source continuously.”).

As it relates to JEA Northside Units 1 and 2, the SO2 emission limitation, a combination of numeric limits and work practice standards, continuously applies at all times. Florida proposed for adoption into the SIP permit conditions for Units 1 and 2 that include a numeric SO2 limit of 0.15 lb/MMBtu (30-day rolling average), a numeric SO2 limit of 0.2 lb/MMBtu (24-hour block average), the MATS numeric SO2 limit of 0.20 lb/MMBtu (30-boiler operating day rolling average), and the MATS work practice standards. Florida identified the SO2 numeric limit of 0.15 lb/MMBtu (30-day rolling average), the SO2 numeric limit of 0.2 lb/MMBtu (24-hour block average), the MATS numeric SO2 limit of 0.20 lb/MMBtu (30-boiler operating day rolling average), and the MATS work practice standards, together, as reflecting effective controls for JEA Northside Units 1 and 2 because the numeric SO2 limits of 0.15 lb/MMBtu (24-hour block average) and 0.2 lb/MMBtu (24-hour block average) have exemptions for periods of startup, shutdown, and malfunction. The MATS numeric SO2 limit of 0.20 lb/MMBtu applies during periods of normal operation and malfunction, and the work practice standards apply at all times. The work practice standards include conducting periodic performance tune-ups of the EGU burner and combustion controls.

With respect to the comment regarding the expiration of JEA Northside's Permit No. 0310045-059-AC and JEA Northside's Permit No. 0310045-62-AC, see Response 11.c.

EPA disagrees with the Conservation Groups' comment stating that there is lack of clarity regarding MATS compliance provisions with the aforementioned permits. The permit conditions identified for incorporation into the SIP explicitly specify the associated MATS emission limitation and cite to 40 CFR 63.10021(a) and (b) as a means to demonstrate compliance with this limitation. The numeric MATS SO2 emission limit being added into Florida's Regional Haze SIP in these permits is 0.20 lb/MMBtu based on a heat input-weighted 30-boiler operating day rolling average. Florida notes in the 2024 Supplement “[t]o ensure that the facility is subjected to SO2 emission limits that apply continuously, JEA agreed to supplement the SO2 emission limit of 0.15 lb/MMBtu, which Florida included in its 2021 Regional Haze submittal, with the MATS-based SO2 emission limit of 0.20 lb/MMBtu, which applies continuously on a heat input-weighted 30-boiler operating day rolling average. The supplemental permit incorporating the MATS-based SO2 limit includes work practice standards that apply during periods of startup and shutdown.” The 0.20 lb/MMBtu limit is specified in table 2 to subpart UUUUU of part 63, under the category for existing “coal-fired unit not low rank virgin coal” EGUs, which is the case for the Units 1 and 2 at JEA Northside. Furthermore, table 2 also notes that compliance with this limit will be determined using an SO2 CEMS. Table 3 of the MATS Rule provides work practice standards applicable to existing sources, to new sources, to coal-fired, liquid oil-fired, or solid oil-derived fuel-fire EGUs during startup and shutdown. Based on the information provided by Florida and the control and monitoring of SO2 using a CEMS at both sources, the specific applicable requirements in the relevant tables in 40 CFR part 63, subpart UUUUU, are clear.

In response to the comment that JEA Northside's permit provisions fail to require reporting, EPA disagrees for the reasons stated in Response 11.b. Additionally, these and other MATS-based permit conditions cite to 40 CFR 63.10021(a) and (b) as a means to demonstrate compliance. The regulation at 40 CFR 63.10021(a) requires that sources demonstrate compliance through, among other requirements, the reporting requirement of 40 CFR 63.10021(f), which requires units to comply with the reporting requirements under 40 CFR 63.10031. These reporting requirements include quarterly electronic emissions reports, semiannual compliance reports, and excess emissions and deviations reporting among other requirements. In other words, the MATS Rule requires periodic reports with respect to the permit conditions that are being incorporated into the SIP. Thus, these reporting requirements provide EPA and the public with adequate, publicly available information to evaluate compliance.

EPA disagrees that Florida did not respond to the Conservation Groups' state-level comments regarding MATS. Florida responded to those comments, as provided in the 2021 Plan in appendix I-5 and in the Second 2024 Supplement.

Comment 11.e: The Conservation Groups assert that Florida must correct the errors in WestRock-Fernandina's Permit No. 0890003-074-AC. They claim that Florida failed to respond to earlier comments that the permit conditions identified for incorporation into the SIP are not practically enforceable because the permit is expired, the permit conditions do not contain sufficient reporting requirements, and the permit conditions lack a definition of “calendar day,” allowing the source to include days when Boiler No. 7 is not operating in the 30-day rolling average. They note that Florida points to Rule 62-210.370(3)(a)(4) for reporting requirements but contend it is unclear how the rule applies to facilities covered by the revised SIP because Florida does not propose to incorporate any permit provision for an annual report. The Conservation Groups also state that Florida's reference to Rule 62-210.370(2)(h) is not helpful because it merely requires the owner or operator to maintain records and it does not contain a requirement for reporting. The Conservation Groups further contend “the permit provisions EPA proposes to include in the SIP for WestRock-Fernandina regarding the coal cap and records for tracking the coal cap requirements do not include requirements for the facility to report the records to Florida . . . . Florida's failure to require that the source report the records for tracking coal usage means there is no transparency in implementation of the SIP, no deterrence against violations, and the public and EPA are thwarted from effective enforcement of SIP requirements, all contrary to the requirements of the CAA and for the citizens ability to participate in the enforcement of the SIP as authorized.” ¹³⁸ The Conservation Groups assert that EPA must ensure the SIP includes a definition of “calendar day” clarifying that the source must only include days when the unit is operating and resolve the reporting issues or disapprove the SIP on these issues. They also contend that Florida failed to address the issue regarding the expired permits.

¹³⁸ The Conservation Groups presented this argument as an example of their concerns with the lack of transparency and other perceived issues, which is addressed in Comment and Response 11.b.

Response 11.e: With respect to the comment that Florida's Haze Plan lacks sufficient reporting requirements, see Response 11.b. Regarding the comment on permit expiration, see Response 11.c.

Regarding the Conservation Groups' assertion that a definition of “calendar day” is needed for the applicable coal usage caps for Power Boiler No. 7 within Westrock Fernandina Beach's Permit No. 089003-074-AC, EPA disagrees. In the absence of a definition provided by Florida for this term, the ordinary dictionary meaning applies. “Calendar day” means “a civil day: the time from midnight to midnight.” ¹³⁹ The Conservation Groups do not identify a legal basis for disapproving any portion of the SIP given the plain meaning of this term.

¹³⁹ https://www.merriam-webster.com/dictionary/calendar%20day.

Comment 11.f: The Conservation Groups assert that Florida must correct the errors in Georgia-Pacific's Foley Mill Permit No. 1230001-121-AC regarding provisions for Power Boiler No. 1, Bark Boilers Nos. 1 and 2, and Recovery Furnaces Nos. 2, 3, 4 for “improper exemptions,” and on all units for reporting requirements. Otherwise, they claim that EPA must disapprove Florida's SIP for failure to respond to these significant issues. First, they contend that the permit provisions EPA proposes to incorporate into the SIP allow Power Boiler No. 1 to fire “liquid fuels” if there are physical mill problems, but do not define what constitutes physical mill problems. The Conservation Groups state that “Florida must clarify what constitutes the category of events that fall within `physical mill problems' and set an alternative reasonable progress emission limitation that would apply to Power Boiler No. 1 when it operates during those events.” Second, they contend that the proposed permit provisions would allow Georgia-Pacific to use undisclosed test methods to assess the sulfur content of permitted fuels for Power Boiler No. 1; that the SIP must provide appropriate test methods to assess whether covered sources are complying with applicable emission limits; and that states cannot allow sources to use test methods that are not approved by EPA. They also contend that “the permit provisions listing the applicable test methods for assessing the sulfur content of fuels fired at Power Boiler No. 1 would allow Florida to approve of other methods not specifically listed.” Thus, they state that Florida “must remove the provision that allows it to approve other test methods that are not currently included in the permit provision.”

The Conservation Groups also contend the Georgia-Pacific Foley Mill Permit No. 1230001-121-AC for Recovery Furnaces Nos. 2, 3, and 4 includes “improper exemptions or reference materials that are not included in the relevant permit provisions or the SIP Supplement,” citing to their 2024 comments provided to the State. For the Recovery Furnaces, their 2024 comments are that permit provisions would allow FDEP to approve test methods to assess the sulfur content of fuels fired at the furnaces that EPA has not approved. They contend that Florida must remove the provision that allows it to approve other test methods not currently included in the permit provision.

With respect to Bark Boilers Nos. 1 and 2, the Conservation Groups express the same concern they did about Power Boiler No. 1 with regards to a provision that allows the firing of “liquid fuels” if there are physical mill problems. Further, they express a concern that Florida does not include either the manufacturers recommendations or specific calibration procedures in the permit provisions for the wet scrubber monitoring devices used for the Bark Boilers.

Response 11.f: The Conservation Groups' comments regarding Foley are no longer relevant because the facility has shut down. See Response 8.a.

Comment 11.g: The Conservation Groups assert that Florida must correct errors in Mosaic-South Pierce's Permit No. 1050055-037-AC. They state that Florida determined that existing measures for Mosaic-South Pierce, namely, existing SO2 emission limits for SAPs 10 and 11 and associated monitoring, reporting, and recordkeeping requirements, are necessary for reasonable progress toward the national visibility goal. They state that Florida then must ensure that its Regional Haze SIP for this facility includes practically enforceable limits. They identified the following as issues with the Mosaic-South Pierce permit: the permit has expired; the permit fails to require that the facility report the records to Florida at least semi-annually; and the permit fails to include CEMS requirements. They contend that “EPA must disapprove Florida's SIP for failure to respond to these significant issues.”

Response 11.g: In response to the Conservation Groups' comment that Mosaic-South Pierce's Permit No. 1050055-037-AC has expired, EPA disagrees that this presents a basis for disapproval. See Response 11.c. Further, the measures Florida is relying on for reasonable progress for Mosaic-South Pierce are already incorporated into the SIP, and therefore, are federally enforceable and permanent.¹⁴⁰

¹⁴⁰ See 88 FR 51702 (August 4, 2023).

Regarding reporting, Florida's SIP requires annual operating reports for all title V sources under Rule 62-210.370(3), “Annual Operating Report for Air Pollutant Emitting Facility.” See Response 11.b. Additionally, section II, Condition FW9 of the facility's title V permit requires the source to submit semi-annual reports, which include all instances of deviations from permit requirements.¹⁴¹ Furthermore, this condition requires the source to submit a report even if there are no deviations during the reporting period, stating that there have been no deviations during the reporting period. These ongoing compliance reports are certified by a responsible official. Therefore, EPA disagrees with the Conservation Groups' comments concerning reporting.

¹⁴¹ See Section II, Condition FW9 of title V Permit No. 1050055-039-AV in the the docket for this rulemaking.

EPA also disagrees with the Conservation Groups' comments regarding CEMS requirements. The SIP-approved permit conditions require the use of CEMS, as does SIP-approved Rule 62-296.402, which applies to sulfuric acid plants such as Mosaic-South Pierce. Rule 62-296.402(5) requires sulfuric acid plants to install, calibrate, operate and maintain CEMS and requires performance specifications, monitor location, data requirements, data reduction, and reporting requirements to conform with the requirements in 40 CFR part 51, appendix P, and 40 CFR part 60, appendix B.¹⁴²

¹⁴² Any alternative procedures (as specified in section 3.9 of 40 CFR part 51, appendix P) or special considerations (as specified in section 6.0 of 40 CFR part 51, appendix P) must be incorporated in the air permit and submitted to EPA as a SIP revision. See Rule 62-296.402(5).

Comment 11.h: The Conservation Groups assert Florida must correct the errors in Nutrien's Permit No. 0470002-132-AC, which they state are the same as those raised for Mosaic-South Pierce above.¹⁴³

¹⁴³ Citing Conservation Groups 2024 Comments at 34-35.

Response 11.h: In response to the Conservation Groups' comment regarding Nutrien's Permit No. 0470002-132-AC and the concern that Florida uses permits that “either have or will soon expire,” EPA disagrees that this presents a basis for disapproval. See Response 11.c. Further, the measures Florida is relying on for reasonable progress for Nutrien are already incorporated into the SIP, and therefore, are federally enforceable and permanent.¹⁴⁴

¹⁴⁴ See 88 FR 51702 (August 4, 2023).

Regarding reporting, Florida's SIP requires annual operating reports for all title V sources under Rule 62-210.370(3), “Annual Operating Report for Air Pollutant Emitting Facility.” See Response 11.b. Additionally, section II, Condition FW9 of the facility's title V permit requires the source to submit semi-annual reports, which include all instances of deviations from permit requirements.¹⁴⁵ Furthermore, this condition requires the source to submit a report even if there are no deviations during the reporting period, stating that there have been no deviations during the reporting period. These ongoing compliance reports are certified by a responsible official. Therefore, EPA disagrees with the Conservation Groups' comments concerning reporting.

¹⁴⁵ See section II, Condition FW9 of title V Permit No. 0470002-139-AV in the the docket for this rulemaking.

EPA also disagrees with the Conservation Groups' comments regarding CEMS requirements. The SIP-approved permit conditions require the use of CEMS as does SIP-approved Rule 62-296.402 which applies to sulfuric acid plants such as Nutrien. Rule 62-296.402(5) requires sulfuric acid plants to install, calibrate, operate and maintain CEMS whose specifications, monitor location, data requirements, data reduction, and reporting requirements, conform with the requirements in 40 CFR part 51, appendix P, and 40 CFR part 60, appendix B.¹⁴⁶

¹⁴⁶ Any alternative procedures (as specified in section 3.9 of 40 CFR part 51, appendix P) or special considerations (as specified in section 6.0 of 40 CFR part 51, appendix P) must be incorporated in the air permit and submitted to EPA as a SIP revision. See Rule 62-296.402(5).

Comment 12: The Conservation Groups assert that states are required to respond to significant points made by the public during the public comment period on their SIPs and that Florida failed to do so. They also assert that Florida's response to comment documents merely provided high-level summaries of the comments; these documents omitted legal and technical details identified by the Conservation Groups; Florida did not submit the public comments to EPA; and Florida's failure to meaningfully engage and respond to the significant comments provides another justification for EPA to disapprove Florida's revised SIP. The Conservation Groups allege that EPA was on notice and aware of the significant comments and that EPA nevertheless proposed to “rubber stamp” Florida's SIP. They conclude by stating that Florida's failure to meaningfully engage and respond to the significant comments provides another basis for EPA to disapprove the SIP.

Response 12: Regarding the comment that EPA is approving Florida's SIP revisions despite its awareness of the Conservation Groups' significant state-level comments, the Agency evaluated the Haze Plan and, in accordance with the Administrative Procedure Act (APA), published a notice of proposed rulemaking soliciting comments on its proposal. The APA requires EPA to respond to significant comments received on its proposal, and the Agency has responded to all such comments in this notice.¹⁴⁷ If a state-level commenter does not believe that a state adequately addressed its comment on a SIP revision and feels that its comment is still relevant after EPA's proposed action, it must re-submit that comment during the federal public comment period if it wants EPA to formally consider the comment when taking final action.

¹⁴⁷ See, e.g., Home Box Office, Inc. v. FCC, 567 F.2d 9, 35-36 (D.C. Cir. 1977).

EPA disagrees that Florida's response to comments provides a basis for disapproval of its Haze Plan. Florida provided a response to public comments, which it documented in appendix I-5 of the 2021 Plan and in the Public Participation section of the Administrative File for the 2024 Supplement. The Conservation Groups cite to Criterion 2.1(h) in appendix V to 40 CFR part 51, which is one of the criteria used to determine whether a SIP revision is complete pursuant to CAA section 110(k)(1)(A).148 149 These criteria are used solely to determine whether a SIP revision is deemed an official submission for EPA review, and the regional haze SIP revisions subject to this rulemaking have become complete by operation of law.¹⁵⁰ Therefore, the State's alleged failure to meet Criterion 2.1(h) cannot form the basis for disapproval.

¹⁴⁸ Appendix V is titled “Criteria for Determining Completeness of Plan Submissions” and “sets forth the minimum criteria for determining whether a State implementation plan submitted for consideration by EPA is an official submission for purposes of review under § 51.103.” See 40 CFR part 51, appendix V, section 1.0.

¹⁴⁹ The Conservation Groups also cite to Home Box Office, 567 F.2d at 35-36. However, this opinion addressed the requirements for informal Federal rulemaking under the APA, not the requirements under the CAA governing the submission of SIP revisions. EPA's rulemaking actions on SIP revisions are subject to APA informal rulemaking requirements, and therefore, provide the public with another opportunity to comment on the adequacy of these SIP revisions.

¹⁵⁰ SIP revisions are deemed complete by operation of law six months after submission. See CAA section 110(k)(1)(B).

Regardless, EPA notes that Florida provided a response to public comments that it documented in appendix I-5 of the 2021 Plan and in the Public Participation section of the Administrative File for the 2024 Supplement. Criterion 2.1(h) simply requires a “Compilation of public comments and the State's response thereto” and does not specify the level of detail required for a state's response.

Comment 13: The Conservation Groups state that EPA's docket for the proposed action is “extremely disorganized,” EPA and Florida failed to provide reasonable notice and opportunity to comment under the CAA's requirements for reasonable public notice and public hearing for SIPs, and EPA failed its “duty to present the public with a logical and well-organized docket.” They assert that the docket contains duplicative files, files without descriptive or unique names, multiple unintegrated supplement files with multiple supplements and sub-supplements, and appendices from the State that share the same names and are not properly integrated with the SIP submittal. The Conservation Groups assert that EPA must correct the deficiencies with the docket in its final determination, and at a minimum, place all SIP materials in a logical format in one folder, place the body of the SIP in a single file, and provide a meaningful index to the docket. The Conservation Groups also note that they requested a 14-day extension to the comment period given concerns with the docket and that EPA failed to acknowledge and respond to the request.

Response 13: EPA disagrees that the docket was disorganized in a way that falls short of its public participation obligations. The Conservation Groups do not cite to any materials, legal or otherwise, explaining how the organization of the docket affected EPA's compliance with its public participation requirements or establishing a duty regarding docket organization. Further, the order and organization of the docket within regulations.gov is outside the scope of EPA's control. Regarding the names of the files, FDEP included within the table of contents of its 2021 Plan and the two 2024 supplements a list of each appendix along with the filename and a description of the contents of each file. EPA also prepared and included in the docket a document that identifies the filename and a description of each document in the docket that was not submitted with the 2021 Plan and the two 2024 supplements.

EPA disagrees with the Conservation Groups' contention that it failed to provide reasonable notice and opportunity to comment on this proposed action. EPA's general practice is to provide a 30-day public comment period for SIP revision proposals.¹⁵¹ The public comment period on EPA's NPRM for Florida's regional haze plan began the morning of December 27, 2024, and ended on January 27, 2025. Because the 30th day of the comment period, January 26, 2025, was a Sunday, the next Federal business day was set as the final day of the comment period. Further, EPA accepted comments until 11:59 p.m. Eastern on the final day of the comment period, thus providing the public, in effect, 32 days to submit comments on the NPRM.

¹⁵¹ The Administrative Procedure Act does not prescribe a minimum public notice period. See 5 U.S.C. 553(b) and (c). Nor has EPA adopted a minimum public comment period in its regulations for its proposed actions on SIP revisions. See 40 CFR part 51.

Regarding the allegation that Florida failed to provide reasonable notice and opportunity for comment, it is unclear how the organization of EPA's docket relates to Florida's public participation obligations for SIP revisions. FDEP provided the public the opportunity to review its 2021 Plan during a public comment period that ran from June 9, 2021, to July 9, 2021. Since no commenter requested a public hearing, Florida cancelled the one scheduled for July 15, 2021. Similarly, FDEP opened a comment period for the 2024 Supplement on January 19, 2024. That comment period was originally scheduled to run through February 19, 2024; however, it was extended at the request of the public to March 8, 2024. The public hearing for the supplement, scheduled for March 20, 2024, was also cancelled due to the lack of request from the public.¹⁵² FDEP did not host a comment period for the Second 2024 Supplement because the material in this supplement had already been reviewed by the public during the 2024 Supplement public comment period. Furthermore, as explained in Response 12, EPA disagrees that Florida's responses to comment warrant disapproval of its Haze Plan.

¹⁵² FDEP originally scheduled the public hearing for February 27, 2024, yet rescheduled this public hearing concurrently with the extension of the public comment period.

Finally, the Conservation Groups mention their January 9, 2025, request for a 14-day extension of the comment period and note that EPA failed to respond. Although EPA received the extension request, it was under no obligation to respond. In general, this request stated that the amount of time EPA provided the public to review the entire package was insufficient under the weight of the “scope, volume and complexity” of the information provided. Additionally, the Conservation Groups pointed to the delay in adding some supporting materials into the docket. EPA disagrees that additional time was necessary for several reasons. First, as discussed above, the public had 32 days to comment on the proposal. Second, 56 of the 63 supporting files in the docket were available to the public via Florida's website,¹⁵³ and one file was available on another publicly available website.¹⁵⁴ The Conservation Groups had the opportunity to review most of these materials while preparing state-level comments on the Florida SIP revisions. Third, with respect to the six files that were not previously available to the public, EPA added them to the docket on second business day of the comment period, December 30, 2024,¹⁵⁵ three days following publication, and much of the information contained in these six files was already publicly available. Only three documents—a Site Inspection Report (dated October 10, 2024) and the letter transmitting the report (dated October 18, 2024) (encompassing a total of 37 pages combined) and a two-page document containing an email chain between EPA and FDEP—included information that was not previously publicly available.¹⁵⁶ As the Conservation Groups are aware, EPA was required to take final action on Florida's Regional Haze SIP by March 31, 2025, pursuant to a consent decree.¹⁵⁷ To meet this consent decree deadline, EPA needed time to review all comments it received and any further delay in the comment period due to an extension would have prevented it from being able to meet this obligation.

¹⁵³ https://floridadep.gov/air/air/content/epa%E2%80%99s-regional-haze-program and https://floridadep.gov/air/air-business-planning/content/florida%E2%80%99s-supplemental-amendment-previously-proposed-regional.

¹⁵⁴ The consent decree in Civil Action No. 14-707-BAJ-SCR was, and remains, available at https://deq.louisiana.gov/assets/docs/General/Settlement_Agreements/2014/PCSConsentDecree2015.pdf.

¹⁵⁵ All files were uploaded to the docket on December 30, 2024, with the exception of EPA's TSD which was added into the docket on January 10, 2024, after EPA reviewed the NPRM and noticed that it had inadvertently been excluded. As the Conservation Groups point out, the TSD merely provides information found in Florida's regional haze submissions and/or in the December 27, 2024, NPRM. Therefore, the addition of the TSD into the docket does not provide information that was not already publicly available on December 27, 2024.

¹⁵⁶ The two-page document includes an email chain about the courtesy copy of the June 14, 2024, submission FDEP provided to EPA, and includes a question from EPA to the FDEP on whether they intended to submit the supplement through SPeCS. It also includes the FDEP's confirmation that the June 14, 2024, supplement was submitted via SPeCS.

¹⁵⁷ EPA later received an extension of this deadline from the court to May 30, 2025.

Comment 14: The Conservation Groups state that EPA and Florida did not evaluate how the emissions from in-state sources impact communities surrounding these facilities. They maintain that the regional haze plans have significant potential to achieve co-benefits for people and that pollution reductions required by the regional haze program could reduce disproportionate air pollution burdens in the surrounding communities. The Conservation Groups assert that Florida's EGUs were responsible for significant health impacts on local communities based on a study by Clean Air Task Force and identify the number of asthma attacks, heart attacks, and premature deaths that the study linked to emissions from Duke-Crystal River, JEA Northside, and Seminole. They argue that EPA should consider the impacts of the facilities and explain how a strong regional haze plan can mitigate harm to communities.

Response 14: EPA acknowledges that emissions controls required for regional haze may have health benefits. However, the CAA's visibility program and RHR are focused on improving visibility at mandatory Class I areas and not public health. EPA has evaluated Florida's SIP submissions against sections 169A and 169B of the CAA and 40 CFR 51.308 and has determined that the Florida SIP satisfies those statutory and regulatory requirements. Neither the statute nor the RHR requires states to evaluate benefits to human health in their regional haze SIP revisions or provides EPA with the authority to consider public health impacts when acting on those revisions.

III. Incorporation by Reference

In this document, EPA is finalizing regulatory text that includes incorporation by reference. In accordance with requirements of 1 CFR 51.5, and as discussed in sections I and II of this preamble, EPA is finalizing the incorporation by reference into Florida's SIP the following conditions from the listed FDEP Air Construction Permits: Conditions 7 and 28 in Subsection A of Section 3 of the Duke Crystal River Citrus Co. Combined Cycle Permit No. 0170004-047-AC (State-effective December 16, 2014); Condition 1 of Section 3 of the Duke Crystal River Permit No. 0170004-059-AC (State-effective October 30, 2020); Conditions 9, 14(a), and 31(a) of Section III of the JEA Northside Units 1 and 2 Permit No. 0310045-003-AC (State-effective July 14, 1999), and Condition 2 of Subsection A of Section 3 of Permit No. 0310045-059-AC (State-effective February 16, 2023); Conditions 2, 5, and 6 of Section 3 of the JEA Northside Unit 3 Permit Nos. 0310045-057-AC (State-effective June 17, 2021), and Condition 7 of Permit No. 0310045-062-AC (State-effective August 24, 2023); Condition 2, Subsection 3 of Section 3 of the Nutrien Permit No. 0470002-122-AC (State-effective December 21, 2018); ¹⁵⁸ Condition 3 of Subsection A of Section 3 of the Seminole Permit No. 1070025-037-AC (State-effective April 14, 2021); Conditions 12 and 13 of Subsection C of Section 3 of the TECO-Big Bend Permit No. 0570039-129-AC (State-effective August 11, 2020); and Conditions 2, 3, and 4 of Subsection A of Section 3 of the WestRock-Fernandina Permit No. 0890003-072-AC (State-effective June 24, 2021) and Condition 2 of Subsection A of Section 3 of Permit No. 0890003-074-AC (State-effective December 16, 2021). EPA has made, and will continue to make, these materials generally available through www.regulations.gov and at the EPA Region 4 Office (please contact the person identified in the FOR FURTHER INFORMATION CONTACT section of this preamble for more information). Therefore, these materials have been approved by EPA for inclusion in the SIP, have been incorporated by reference by EPA into that plan, are fully federally enforceable under sections 110 and 113 of the CAA as of the effective date of the final rulemaking of EPA's approval, and will be incorporated by reference in the next update to the SIP compilation.¹⁵⁹

¹⁵⁸ The 2021 Plan requests that EPA incorporate the 2.6 lbs/ton and 2.3 lbs/ton emission limits from Permit 0470002-122-AC for Nutrien, See 2021 Plan at 13-14. However, in the December 27, 2024, NPRM, EPA inadvertently stated that “Current restrictions in the SIP impose SO2 emission limits at 2.6 lbs/ton, three-hour rolling average; 2.3 lbs/ton, 365-day rolling average, which applies during periods of shutdown and startup” and did not identify these limits in the “Incorporation by Reference” section of the NPRM. EPA is incorporating these limits into the SIP via this rulemaking.

¹⁵⁹ See 62 FR 27968 (May 22, 1997).

IV. Final Action

EPA is approving Florida's October 8, 2021, June 14, 2024, and October 28, 2024, SIP submissions as satisfying the regional haze requirements for the second planning period contained in 40 CFR 51.308(f).¹⁶⁰ Thus, EPA is adopting into Florida's SIP the permit conditions identified in section III above.

¹⁶⁰ As mentioned above (see footnote 3), FDEP withdrew its request to incorporate permit conditions for Foley from its October 28, 2024, SIP revision.

V. Statutory and Executive Order Reviews

Under the CAA, the Administrator is required to approve a SIP submission that complies with the provisions of the CAA and applicable Federal regulations. 42 U.S.C. 7410(k); 40 CFR 52.02(a). Thus, in reviewing SIP submissions, EPA's role is to approve state choices, provided that they meet the criteria of the CAA. Accordingly, this action merely approves state law as meeting Federal requirements and does not impose additional requirements beyond those imposed by state law. For that reason, this action:

• Is not a significant regulatory action subject to review by the Office of Management and Budget under Executive Order 12866 (58 FR 51735, October 4, 1993);

• Is not subject to Executive Order 14192 (90 FR 9065, February 6, 2025) because SIP actions are exempt from review under Executive Order 12866;

• Does not impose an information collection burden under the provisions of the Paperwork Reduction Act (44 U.S.C. 3501 et seq.);

• Is certified as not having a significant economic impact on a substantial number of small entities under the Regulatory Flexibility Act (5 U.S.C. 601 et seq.);

• Does not contain any unfunded mandate or significantly or uniquely affect small governments, as described in the Unfunded Mandates Reform Act of 1995 (Pub. L. 104-4);

• Does not have federalism implications as specified in Executive Order 13132 (64 FR 43255, August 10, 1999);

• Is not subject to Executive Order 13045 (62 FR 19885, April 23, 1997) because it approves a state program;

• Is not a significant regulatory action subject to Executive Order 13211 (66 FR 28355, May 22, 2001); and

• Is not subject to requirements of section 12(d) of the National Technology Transfer and Advancement Act of 1995 (15 U.S.C. 272 note) because application of those requirements would be inconsistent with the CAA.

In addition, the SIP is not approved to apply on any Indian reservation land or in any other area where EPA or an Indian Tribe has demonstrated that a Tribe has jurisdiction. In those areas of Indian country, the rule does not have Tribal implications and will not impose substantial direct costs on Tribal governments or preempt Tribal law as specified by Executive Order 13175 (65 FR 67249, November 9, 2000).

This action is subject to the Congressional Review Act, and EPA will submit a rule report to each House of the Congress and to the Comptroller General of the United States. This action is not a “major rule” as defined by 5 U.S.C. 804(2).

Under section 307(b)(1) of the Clean Air Act, petitions for judicial review of this action must be filed in the United States Court of Appeals for the appropriate circuit by August 4, 2025. Filing a petition for reconsideration by the Administrator of this final rule does not affect the finality of this action for the purposes of judicial review nor does it extend the time within which a petition for judicial review may be filed, and shall not postpone the effectiveness of such rule or action. This action may not be challenged later in proceedings to enforce its requirements. See section 307(b)(2).

List of Subjects in 40 CFR Part 52

Environmental protection, Air pollution control, Carbon monoxide, Incorporation by reference, Intergovernmental relations, Nitrogen dioxide, Particulate matter, Reporting and recordkeeping requirements, Sulfur oxides, Volatile organic compounds.

Dated: May 20, 2025.
Kevin McOmber,
Regional Administrator, Region 4.

For the reasons stated in the preamble, EPA amends 40 CFR part 52 as follows:

PART 52—APPROVAL AND PROMULGATION OF IMPLEMENTATION PLANS

1. The authority citation for part 52 continues to read as follows:

Authority: 42 U.S.C. 7401 et seq.

Subpart K—Florida

2. In § 52.520:

a. In paragraph (d), amend the table by adding one entry each for “Duke Crystal River Citrus Co. Combined Cycle,” “Duke Crystal River,” “Nutrien White Springs,” “Seminole Generating Station,” and “TECO-Big Bend”; two entries for “WestRock-Fernandina Beach Mill”; and four entries for “JEA Northside” at the end of the table; and

b. In paragraph (e), amend the table by adding entries for “Regional Haze Plan—Second Planning Period”; “Regional Haze Plan—Second Planning Period—Supplement 1”; and “Regional Haze Plan—Second Planning Period—Supplement 2” at the end of the table.

The additions read as follows:

§ 52.520 Identification of plan.

* * * * *

(d) * * *

EPA-Approved Florida Source-Specific Requirements
Name of source | Permit No. | State effective date | EPA approval date | Explanation
* * * * * * *
Duke Crystal River Citrus Co. Combined Cycle | 0170004-047-AC | 12/16/2014 | 6/5/2025, 90 FR [Insert Federal Register page where the document begins] | Section 3, Subsection A, Conditions 7 and 28 at EU 040—Unit 1A, EU 041—Unit 1B, EU 042—Unit 2A, and EU 043—Unit 2B.
Duke Crystal River | 0170004-059-AC | 10/30/2020 | 6/5/2025, 90 FR [Insert Federal Register page where the document begins] | Section 3, Condition1 at EU 003—Unit 5 and EU 004—Unit 4 (revising Section 3, Subsection B, Condition 3.A.9 of Permit No. 0170004-054-AC).
Nutrien White Springs | 0470002-122-AC | 12/21/2018 | 6/5/2025, 90 FR [Insert Federal Register page where the document begins] | Section 3, Condition 3 at EU066—SAP E and EU067—SAP F.
Seminole Generating Station | 1070025-037-AC | 4/14/2021 | 6/5/2025, 90 FR [Insert Federal Register page where the document begins] | Section 3, Condition 2, Subsection 3 at EU001—Unit 1 and EU002—Unit 2 (revising Section 3, Condition 3 of Permit No. 1070025-019-AC).
TECO-Big Bend | 0570039-129-AC | 8/11/2020 | 6/5/2025, 90 FR [Insert Federal Register page where the document begins] | Section 3, Subsection C, Conditions 12 and 13 at EU004—Unit 4.
WestRock-Fernandina Beach Mill | 0890003-072-AC | 6/24/2021 | 6/5/2025, 90 FR [Insert Federal Register page where the document begins] | Section 3, Subsection A, Conditions 2, 3, and 4 at EU 015—No. 7 Power Boiler.
WestRock-Fernandina Beach Mill | 0890003-074-AC | 12/16/2021 | 6/5/2025, 90 FR [Insert Federal Register page where the document begins] | Section 3, Subsection A, Condition 2 (adding Condition 5 to Section 3, Subsection A of Permit No. 0890003-072-AC) at EU 015—No. 7 Power Boiler.
JEA Northside | 0310045-003-AC | 7/14/1999 | 6/5/2025, 90 FR [Insert Federal Register page where the document begins] | Section III, Conditions 9, 14(a), and 31(a) at EU 026—Boiler 2 and EU 027—Boiler 1.
JEA Northside | 0310045-059-AC | 2/16/2023 | 6/5/2025, 90 FR [Insert Federal Register page where the document begins] | Section 3, Subsection A, Condition 2 at EU 026—Boiler 2 and EU 027—Boiler 1.
JEA Northside | 0310045-057-AC | 6/17/2021 | 6/5/2025, 90 FR [Insert Federal Register page where the document begins] | Section 3, Conditions 2, 5, and 6 at EU 003—Boiler No. 3.
JEA Northside | 0310045-062-AC | 8/24/2023 | 6/5/2025, 90 FR [Insert Federal Register page where the document begins] | Condition 7 at EU 003—Boiler No. 3 (adding Condition 7 to Section III, Subsection A of Permit No. 0310045-057-AC).

(e) * * *

EPA-Approved Florida Non-Regulatory Provisions
Provision | State effective date | EPA approval date | Federal Register notice | Explanation
* * * * * * *
Regional Haze Plan—Second Planning Period | 10/8/2021 | 6/5/2025 | 6/5/2025, 90 FR [Insert Federal Register page where the document begins] |
Regional Haze Plan—Second Planning Period—Supplement 1 | 6/14/2024 | 6/5/2025 | 6/5/2025, 90 FR [Insert Federal Register page where the document begins] |
Regional Haze Plan—Second Planning Period Supplement 2 | 10/28/2024 | 6/5/2025 | 6/5/2025, 90 FR [Insert Federal Register page where the document begins] |

[FR Doc. 2025-10035 Filed 6-4-25; 8:45 am]

BILLING CODE 6560-50-P